DEPARTMENT OF AGRICULTURE

Forest Service

DEPARTMENT OF THE INTERIOR

Bureau of Indian Affairs

Bureau of Land Management

Fish and Wildlife Service

National Park Service

Urban Wildland Interface Communities Within the Vicinity of Federal Lands That Are at High Risk From Wildfire

AGENCIES: Forest Service, Department of Agriculture; Bureau of Indian Affairs, Bureau of Land Management, Fish and Wildlife Service, and National Park Service, Department of the Interior.

ACTION: Notice.

SUMMARY: This notice provides an update to the initial list of urban wildland interface communities in the vicinity of Federal lands that are at high risk from wildfire published in the Federal Register on January 4, 2001. Pursuant to Congressional direction, this updated list indicates those communities for which the Secretaries have ongoing projects, and this notice identifies reasons why treatments are not planned or ongoing in the remaining communities in FY 2001.

FOR FURTHER INFORMATION CONTACT: Dick Bahr, Fire Management Program Center, National Park Service, USDI, 3833 S. Development Avenue, Boise, Idaho 83705-5354, (208) 387-5217 (e-mail: dick_bahr@nps.gov); or Janet Anderson Tyler, USDA Forest Service, Attn: Fire and Aviation Management, Yates Bldg., 201 14th Street, SW., Washington, DC 20024, (202) 205-1494 (e-mail: janderson03@fs.fed.us). Information specific to individual State listings should be directed to the respective State Foresters as listed with the National Association of State Foresters (NASF), 444 N. Capitol St., NW., Suite 540, Washington, DC 20001, or electronically from the NASF World Wide Web/Internet home page at http://www.stateforesters.org/SFlist.html.

SUPPLEMENTARY INFORMATION: The initial list of urban wildland interface communities, published in the Federal Register on January 4, 2001 (66 FR 751), was prepared in accordance with Title IV of the FY 2001 Appropriations Act for the Department of Interior and Related Agencies (Pub. L. 106-291). The list was compiled from preliminary information provided by the States and Tribes and was prepared for publication by the Secretaries of Agriculture and the Interior. The information in the updated list set out at the end of this notice was compiled at the State and/or Tribal level by collaborative interagency groups. As a result of this collaborative effort, the Secretaries have prepared a more complete list that better reflects the relationship between Federal lands and the urban wildland interface problem in the United States. This annotated list supersedes the list published in the Federal Register on January 4, 2001 (66 FR 751).

It is important to note that the urban wildland interface is not limited to communities in the vicinity of Federal land. Many States, particularly in the East, submitted revised community lists that included all interface communities in their State, regardless of their relationship to Federal land. These States felt strongly that the full, nationwide scope of the urban wildland interface problem must be conveyed.

Due to the specificity of Congressional direction, the list set out at the end of this notice contains only those communities identified by the States or Tribes as “in the vicinity of Federal land.”

A list of all the interface communities submitted by the States and Tribes is available from the National Association of State Foresters (NASF). Please see the FOR FURTHER INFORMATION CONTACT section above for the NASF website and other contact information.

The Federal agencies do not now plan to publish any subsequent lists in the Federal Register, but the interagency teams that developed the list published with this notice will update the community lists in each State as necessary.

Prior to revising the list of communities previously published in the Federal Register on January 4, 2001 (66 FR 751), an interagency group at the national level established a consistent process to be used by local land managers in reviewing each State's or Tribe's initial community list. This process was designed to lead interagency groups through an analysis of the communities in their State, including a description of the risk factors associated with each community and identification of Federal lands in the vicinity of the community.

The process outlined provided the flexibility for State teams to use existing community assessment systems when those systems met or exceeded the standardized process. State-level groups also retain the right to prioritize subsequent hazard reduction efforts according to local goals and opportunities. Although this State-level flexibility has resulted in some variance among State submissions, the Secretaries feel the application of a standardized process has resulted in greater nationwide consistency for the revised lists.

The information contained in the list set out at the end of this notice will be used by interagency groups of land managers at the State and/or Tribal level to collaboratively identify priority areas within their jurisdictions that would benefit from hazard reduction activity. This will ensure that available funding is focused on areas of local importance and where opportunities are most conducive to reducing risks on a meaningful scale.

As described above, the list includes only those communities in the vicinity of lands managed by the Federal Government, especially the Departments of Agriculture and the Interior. This list is annotated to identify those communities around which the Secretaries have ongoing hazardous fuel reduction treatments or plan to begin treatments in FY 2001. These treatments will be focused primarily on Federal lands in the urban wildland interface and on nearby tribal and non-Federal lands where the landowner is a willing participant. All treatments will be subject to review for conformance with applicable laws, as addressed in the report accompanying the FY 2001 Appropriations Act for the Department of the Interior and Related Agencies (Pub. L. 106-291).

Of the 11,376 communities contained in the revised list, 9,457 communities are near Federal lands managed by the Departments of Agriculture and the Interior. The remaining 2,007 communities are near lands managed by other Federal agencies.¹ Of the total 11,376 communities, 9,600 have no hazardous fuels reduction treatments ongoing or planned for implementation in fiscal year 2001. The primary reasons for the lack of treatments around these communities are as follows:

¹ These communities are annotated in the list with a footnote to indicate that they are generally not in the vicinity of lands managed by agencies of the Departments of Agriculture and the Interior for which urban wildland interface risk reduction funds were appropriated in FY 2001.

• Planning Requirements: The Federal agencies, working with their State, Tribal and local partners, must accurately assess the level of wildfire risk and types and extent of treatments required to mitigate this risk. Interagency/Tribal groups working at the state level are in the process of defining projects that will significantly reduce the threat of wildfire to the highest-risk communities, and setting priorities for treatments in FY 2002. This collaborative planning process for large, multi-jurisdictional projects, potentially affecting many diverse resource components, cannot be completed quickly. The completion of Federally mandated planning, consultation, and environmental compliance activities for projects associated with the large number of communities remaining to be addressed will require significant time and effort. The Federal agencies, working with their State, Tribal, and local partners, must accurately assess the level of wildfire risk and types and extent of treatments required to mitigate this risk. In some cases, this may require revising land management plans and preparing new environmental assessments or environmental impact statements. The Secretaries are beginning to increase staff and contracting capabilities to address this issue. In order to achieve significant results within a reasonable time period, the Federal agencies and their partners must balance the allocation of available funding between planning future projects and implementing those that are ready now. Most projects planned for implementation in FY 2001 were begun two years prior to the National Fire Plan publication, and do not necessarily reflect the emphasis on treatment for urban wildland interface communities. Projects in FY 2002 and beyond will more closely address wildfire risk associated with the list of communities in this notice.

• Community Awareness and Support: The States, Federal agencies, and Tribes are working with many communities to build an awareness of wildfire risk in the urban wildland interface, and to educate homeowners and stakeholders about effective steps that should be taken to mitigate this risk. In many areas, multiple land ownerships and jurisdictions have made it difficult for all parties to agree on a course of action. In some cases, further effort is required to obtain agreement on the types of treatments that will result in acceptable impacts as well as hazard mitigation. The Secretaries believe that these problems must be resolved at the local level, working with all interested parties and applying the best available science. The collaborative interagency groups that developed the community lists will continue to work with local communities to define risk reduction projects that will result in significant positive impacts within acceptable time frames.

• Lack of Implementation Capability: On-the-ground implementation of fuel reduction projects around urban wildland interface communities will require a trained and available workforce, not only to implement project prescriptions, but also to assist communities with utilization or disposal of removed vegetative materials. Pursuant to Congressional direction, the Secretaries will seek to engage local workers and businesses in implementing these efforts. In many areas, these local resources will need time and assistance in preparing for this opportunity; program effectiveness will likely improve over time once stability and trust is built with local partners. Federal and State agencies will also need to develop trained personnel to facilitate the contracting requirements associated with the implementation of hazardous fuel reduction projects.

• Additional Funding Needs: Funding continuity in future years will be needed to continue to address the needs of communities in the urban wildland interface. The Secretaries will evaluate their needs based on information from the 2001 implementation process, including the scope and progress made, and will keep Congress and the Administration apprized as the full extent of funding needs is determined.

• Federal Role: The Federal government will prioritize projects where the wildfire threat is clearly coming from Federal land. In cases where there are wide buffers of State and private land between a community and Federal land, the agencies will work with local partners to determine how best to fund projects when private or State lands are an equal or greater factor contributing to the wildfire risk of a community. As discussed under “Planning Requirements,” the interagency/Tribal groups at the State level are in the process of defining projects and will consider a variety of factors in setting priorities for treatments in 2002.

The updated list of urban wildland interface communities in the vicinity of Federal lands at high risk from wildfire is set out at the end of this notice.

Dated: August 9, 2001.
For the Department of Agriculture.
Dale N. Bosworth,
Chief, USDA Forest Service.

Dated: August 10, 2001.
For the Department of the Interior.
P. Lynn Scarlett,
Assistant Secretary for Policy, Management and Budget.

Communities in the vicinity of Federal lands at risk from wildfire

Footnote (1) indicates that one or more treatments are planned or ongoing for this community in FY 2001. Footnote (2) indicates communities in the vicinity of Federal lands other than those managed by the Departments of Agriculture and the Interior.

Alcan, AK

Allakaket, AK

Anchorage, AK

Crooked Creek, AK

Dot Lake, AK

Dry Creek, AK

Fort Greely, AK

Funny River, AK

Healy Lake, AK

Lime Village, AK

Mcgrath, AK

Nikiski, AK

Ninilchik, AK

Northway, AK

Northway Junction, AK

Northway Village, AK

Nulato, AK

Salamatof, AK

Tanacross, AK ¹

Tok, AK

Bishop, AL

Bridgeport, AL

Burnstown, AL

Central Heights, AL

Cherokee, AL

Cloverdale, AL

Dadeville, AL

Daviston, AL

Fort Payne, AL

Franklin, AL

Gravelly Springs, AL

Lime Kiln, AL

Maud, AL

Mount Carmel, AL

Mount Hester, AL

Mynot, AL

New Site, AL

Oakland, AL

Rhodesville, AL

Stevenson, AL

Threet, AL1

Tuskegee, AL

Waterloo, AL

Abbott, AR

Abeerdeen, AR

Acorn, AR

Alamo, AR

Alpine, AR ²

Altus, AR ²

Aly, AR

Appleton, AR

Ashdown, AR ²

Athens, AR

Avant, AR

Banks, AR

Barling, AR

Bates, AR

Big Flat, AR

Big Fork, AR

Bismarck, AR ²

Black Fork, AR

Black Springs, AR

Bloomer, AR ²

Blue Ball, AR

Blue Mountain, AR

Bluffton, AR

Boles, AR

Bonnerdale, AR

Boxley, AR

Bradley Rural, AR

Briggsville, AR

Caddo Gap, AR

Cass, AR

Casscoe, AR

Cauthron, AR

Cecil, AR ²

Cedar Creek, AR

Central, AR

Central City, AR ²

Chalybeate Sprgs, AR

Charleston, AR ²

Clarendon, AR

Combs, AR

Compton, AR

Cooter, AR

Cosahome, AR

Cove, AR

Cozahome, AR

Crockett's Bluff, AR

Crossett, AR ¹

Crystal, AR

Daisy, AR

Dallas, AR

Danville, AR

Deer, AR

Diamond City, AR ²

Dierks, AR ²

Driggs, AR

Dutton, AR

Eagleton, AR

East Lake, AR

Ethel, AR

Fancy Hill, AR

Fannie, AR

Felsenthal, AR

Fern, AR

Fifty Six, AR

Flat Rock, AR ²

Fort Smith, AR ¹

Fourche Junction, AR

Fourche Valley, AR

Garfield, AR

Gibbs, AR

Gilbert, AR

Glenwood, AR

Godfry's Landing, AR

Gravelly, AR

Green Lake, AR

Hagarville, AR

Hartford, AR

Harvey, AR

Hasty, AR

Hatfield, AR

Havana, AR

Hector, AR

Hog Jaw, AR

Holly Grove, AR

Hopper, AR

Horatio, AR

Hot Springs, AR

Hot Springs Village, AR ¹

Huddleston, AR

Hunt, AR

Indian Bay, AR

Jasper, AR

Jenny Lind, AR

Jones Lake, AR

Joplin, AR

Jordan, AR ²

Kirby, AR

La Grange, AR

Lake Hinkie, AR

Lakeway, AR ²

Langley, AR

Lawrenceville, AR

Lawson/Urbana, AR

Lead Hill, AR ²

Liberty, AR

Limestone, AR

Lone Rock, AR

Ludwig, AR

Lurton, AR

Marianna, AR

Marshall, AR

Mena, AR

Meyers, AR

Midway, AR

Mount Sherman, AR

Mountain Fork, AR

Mountain Pine, AR

Mountain View, AR

Mt. Ida, AR

Mt. Judea, AR

Mt. Sherman, AR

Mull, AR

Murfreesboro, AR ²

Nail, AR

Nathan, AR ²

Natural Dam, AR

Needmore, AR

New Blaine, AR

Norman, AR

Oark, AR

Oden, AR

Omaha, AR ²

Onyx, AR

Optimus, AR

Ozark, AR ²

Ozone, AR

Parks, AR

Paron, AR

Parthenon, AR

Pearcy, AR

Pelsor, AR

Pencil Bluff, AR

Pine Prairie, AR

Pine Ridge, AR

Plainview, AR ²

Pleasant Grove, AR

Pleasant Hill, AR

Pleasant Valley, AR

Point Cedar, AR ²

Ponca, AR

Rea Valley, AR

Redfield, AR 1 2

Robinson, AR

Roe, AR

Rover, AR ²

Scottsville, AR

Silver Hill, AR

Sims, AR

Snowball, AR

Spadra, AR ²

St. Charles, AR

St. Joe, AR

St. Paul, AR

Steve, AR

Story, AR

Sugar Grove, AR

Sunshine, AR

Sweethome, AR

Thornburg, AR

Tichnor, AR

Tilly, AR

Union Hill, AR

Unity/Frost, AR

Waltreak, AR

Washita, AR

Washman's Bay, AR

Webb City, AR ²

Weber, AR

Wedington, AR ¹

West Helena, AR

White Hall, AR 1 2

Wicks, AR ²

Wilcox Acres, AR

Wild Goose, AR

Wilton, AR ²

Winfield, AR

Winthrop, AR

Witt Springs, AR

Y City, AR

Alpine, AZ ²

Arivaca, AZ

Bonita Creek, AZ

Camp Geronimo, AZ

Camp Verde, AZ

Cherry, AZ

Chircahua Headquarters, AZ

Christopher Creek, AZ

Cibola, AZ

Colcord, AZ

Cottonwood, AZ

Crown King, AZ

Cutter, AZ

Deer Springs, AZ

Desert View, AZ

Diamond Shadows, AZ ²

Eager, AZ

East Rim Drive, AZ

Ellision Creek, AZ

Flagstaff, AZ

Forest Lakes, AZ

Fort Huachuca, AZ

Geronimo Estates, AZ

Globe, AZ

Golden Shores, AZ

Gordon Canyon, AZ

Grand Canyon Village, AZ

Greer, AZ

Groom Creek, AZ

Haigler Canyon, AZ

Hawley Lake, AZ

Heber, AZ

Heber/Overgaard, AZ

Hermit's Rest, AZ

Hideway, AZ

Highway 64, AZ

Hondah, AZ

Houston Mesa, AZ

Hunter Creek, AZ

Hunters Point, AZ

Jeddito, AZ

Jerome, AZ

Juniper, AZ

Kaibab, AZ

Kaibab Lodge, AZ

Keams Canyon, AZ

Kingman, AZ

Kitt Peak, AZ

Kohl's Ranch, AZ

Lakeside, AZ

Linden, AZ

Little Field, AZ

Mandera Canyon, AZ

Maricopa Colony, AZ

McNary, AZ

Mingus Mountain, AZ

Mormon Lake, AZ

Mount Graham, AZ

Mount Hopkins, AZ

Mount Lemmon, AZ

Mt Union/Mtn Pine Acres, AZ

New River, AZ

Nogales, AZ

North Rim Developed, AZ

North Rim Historic, AZ

Nutrioso, AZ

Oak Creek, AZ

Oak Springs, AZ

Oracle, AZ

Overgaard, AZ

Paradise, AZ

Parker Canyon, AZ

Parks, AZ

Patagonia/Canelo Hills, AZ

Payson, AZ

Peridot, AZ

Pine, AZ

Pine Springs, AZ

Pinedale, AZ

Pinelake, AZ

Pinetop, AZ ¹

Pinewood, AZ

Pleasant Valley, AZ

Point of Pines, AZ

Polacca, AZ

Ponderosa Springs, AZ

Portal, AZ

Prescott, AZ

Rim Shadows Girl Scout, AZ

Rim Trails Estate, AZ

Rose Creek / YMCA, AZ

Saint John, AZ

San Carlos, AZ

San Pedro, AZ

Santa Cruz, AZ

Sasabe, AZ

Second Mesa, AZ

Show Low, AZ

Sierra Vista, AZ

St. John, AZ

Star Valley, AZ

Strawberry, AZ

Summit, AZ

Supai, AZ

Third Mesa, AZ

Thompson Draw, AZ

Tonto Apache, AZ

Tonto Village, AZ

Tsaile, AZ

Tusayan, AZ

Verde Glen, AZ

Vernon, AZ

Walker, AZ

Washington Park, AZ

West Rim Drive, AZ

West Turkey Creek, AZ

Whispering Pines, AZ

Whiteriver, AZ ¹

Williams, AZ

Yaki Point, AZ

Yavapai Prescott, AZ

Yuma, AZ

Aberdeen, CA

Acton, CA

Adelaida, CA

Adelanto, CA

Adin, CA

Agoura Hills, CA

Agua Dulce, CA

Aguanga, CA

Ahwahnee, CA

Alleghany, CA

Almanor, CA

Alpine, CA

Alpine Meadows (Rampart), CA

Alta, CA

Alta Hill, CA

Alta Sierra, CA

Altadena, CA

Altaville, CA

Alturas, CA

Amador City (Amador), CA

Anderson Springs, CA

Angels, CA

Antelope Valley—East, CA

Anza, CA

Apple Valley, CA

Aqua Caliente, CA

Arastraville, CA

Arcadia, CA

Arnold, CA

Aspen Springs, CA

Aspendel, CA

Atascadero, CA

Auberry, CA ¹

Auburn, CA ¹

Avenal, CA

Avila Beach, CA

Azusa, CA

Badger, CA

Bakersfield, CA

Banning, CA ¹

Barona, CA ¹

Barrett Junction, CA

Bass Lake, CA

Bassets, CA

Baxter, CA

Beale Air Force Base East, CA

Bear Valley, CA

Beaumont, CA

Beckwourth, CA

Beegum, CA

Belden, CA

Bella Vista, CA

Bend, CA

Benicia, CA

Berry Creek, CA

Berry Glen, CA

Berryessa Highlands, CA

Beverly Hills, CA

Bieber, CA

Big Bar, CA

Big Bear City, CA

Big Bear Lake (Corporate Name for Big Bear), CA

Big Bend, CA

Big Creek, CA

Big Flat, CA

Big Lagoon, CA

Big Lagoon Rancheria, CA

Big Meadow, CA

Big Pine, CA

Big River, CA

Big Rock Springs, CA

Big Sandy, CA

Big Springs, CA

Big Sur, CA

Big Trees, CA

Bishop, CA

Blairsden, CA

Blue Lake, CA

Blue Lake Rancheria, CA

Blue Lakes, CA

Bluewater, CA

Bodfish, CA

Bolinas, CA

Bootjack, CA

Boulder Creek, CA

Boulder Oaks, CA

Boulevard, CA

Bowman, CA

Bradbury, CA

Brea, CA

Bridgeport, CA

Bridgeville, CA

Browns Valley, CA

Brownsville, CA

Buck Meadows, CA

Bucks Lake, CA

Bumblebee, CA

Burney, CA

Burnt Ranch, CA

Burson, CA

Butte Creek, CA

Butte Meadows, CA

Cabazon, CA

Cal Pines Lower Units, CA

Cal Pines Upper Units, CA

Calaveritas, CA

Cal-Ida, CA

California City, CA

Callahan, CA

Calpella, CA

Cameron Corners, CA

Cameron Park, CA

Camp Connell, CA

Camp Nelson, CA ¹

Camp Pendleton North, CA

Camp Rest, CA

Campo, CA

Campo Seco, CA

Camptonville, CA

Canby, CA

Canyon Dam, CA

Canyon Lake, CA

Cape Horn, CA

Capell Valley, CA

Caribou, CA

Carlsbad, CA

Carmel Valley, CA

Carmel Valley Village, CA

Carnelian Bay, CA

Carpinteria, CA

Cartago, CA

Casa De Oro-Mount Helix, CA

Casa Loma, CA

Casmalia, CA

Cassel, CA

Castella, CA

Cathedral City, CA

Cecilville, CA

Cedar Ridge, CA

Cedarville, CA

Centerville, CA

Central Valley, CA

Challenge, CA

Challenge-Brownsville, CA

Cherokee, CA

Cherry Creek Acres, CA

Cherry Valley, CA

Chester, CA ¹

Chicago Park (Pinecrest), CA

Chico, CA

Chinese Camp, CA

Chino, CA

Christian Valley (Nielsburg), CA

Chula Vista, CA

Claremont, CA

Clayton, CA

Clearlake, CA

Clio, CA

Cloverdale, CA

Coachella, CA

Cobb, CA

Cobb Ridge, CA

Coffee, CA

Cohasset, CA

Cold Springs, CA

Coleville, CA

Colfax, CA

Coloma, CA

Columbia, CA

Concord, CA

Concow, CA

Confidence, CA

Cool, CA

Copic, CA

Copperopolis, CA

Corona, CA

Coronado, CA

Coto De Caza, CA

Cottage Springs, CA

Coulterville, CA

Covelo, CA ¹

Covington Mill, CA

Cow Creek, CA

Coyote Valley Indian Reservation, CA

Crescent Mills, CA

Crestline (Census Name for Crest Forest), CA

Crestview, CA

Cromberg, CA

Cummings, CA

Cuyama, CA

Cuyapaipe, CA

Dana, CA

Dardanelle, CA

Davis Creek, CA

Day, CA

De Luz, CA

Del Loma, CA

Del Monte Forest, CA

Del Rey Oaks, CA

Delleker, CA

Denny, CA

Descanso, CA

Desert Hot Springs, CA

Devore, CA

Devore Heights, CA

Diamond Bar, CA

Diamond Springs, CA

Dinkey Creek, CA

Dobbins, CA

Dollar Point, CA

Donner, CA

Dorrington, CA

Dorris, CA

Dos Rios, CA

Douglas City, CA

Douglas Flat, CA

Douglas Park, CA

Downieville, CA

Doyle, CA

Dresserville, CA

Duarte, CA

Dublin, CA

Dulzura, CA

Dunlap, CA

Dunsmuir, CA

Durham, CA

Dutch Flat, CA

Eagleville, CA

East Hemet, CA

East Porterville (Doyle Colony), CA

East Sonora, CA

Edwards Air Force Base, CA

El Dorado Hills, CA

El Portal, CA

El Toro, CA

El Toro Marine Corps Air Station, CA

Elizabeth Lake, CA

Elk Creek, CA

Emerald Lake Hills, CA

Emigrant Gap, CA

Encinitas, CA

Escondido, CA

Etna, CA

Ettersburg, CA

Fair Oaks, CA

Fall River Mills, CA

Fallbrook, CA

Feather Falls, CA

Fickel Hill, CA

Fiddletown, CA

Fish Camp, CA

Flinn Springs, CA

Floriston, CA

Flying Aa Ranch, CA

Folsom, CA

Fontana, CA

Forest, CA

Forest Glen, CA

Forest Knolls—Banner Mountain, CA

Forest Meadows, CA

Forest Ranch, CA

Foresta, CA

Foresthill, CA

Fort Bidwell, CA ¹

Fort Jones, CA

Fort Ord (Ord) ¹ (U.S. Army), CA

Frazier Park, CA

French Corral, CA

French Gulch, CA

French Hill, CA

Friant, CA

Ganns, CA

Gasquet, CA

Gaviota, CA

Gazelle, CA

Genesee, CA

George Air Force Base, CA

Georgetown, CA

Gibson, CA

Gilman Hot Springs, CA

Glen Avon, CA

Glenbrook, CA

Glencoe, CA

Glendale, CA

Glendora, CA

Glenshire-Devonshire, CA

Gold Flat, CA

Gold Hill, CA

Gold Run, CA

Golden Hills, CA

Goleta, CA

Goodyears Bar, CA

Graegle, CA

Grass Valley, CA ¹

Gray Ranch, CA

Greeley Hill, CA

Green Creek, CA

Green Valley, CA

Greenfield, CA

Greenville, CA

Grizzly Flat, CA

Groveland-Big Oak Flat, CA ¹

Guatay, CA

Gustine, CA

Hallelujah Junction, CA

Hamburg, CA

Hamilton Branch, CA

Happy Camp, CA ¹

Harbison Canyon, CA

Harden Flat, CA

Harmony Grove, CA

Harrison Park, CA

Hat Creek, CA

Hathaway Pines, CA

Hawkins Bar, CA

Hayfork, CA

Heather Glen—Applegate, CA

Hemet, CA

Hesperia, CA

Hidden Meadows, CA

Hidden Valley Lake, CA

Higgins Corner (Wolf), CA

Highland, CA

Hiouchi, CA

Hirschdale, CA

Hobart Mills, CA

Holcomb Village, CA

Homewood, CA

Honeydew, CA

Hoopa, CA ¹

Hoopa Valley Indian Reservation, CA

Hopland, CA

Hornbrook, CA

Horse Creek, CA

Hulburd Grove, CA

Hume, CA

Hunter Valley, CA

Hurleton, CA

Hurlong, CA

Hyampom, CA

Idyllwild-Pine Cove, CA ¹

Igo, CA

Imperial Beach, CA

Inaja, CA

Indian Falls, CA

Indian Wells, CA

Indio, CA

Inskip, CA

Inverness, CA

Iowa Hill, CA

Irvine, CA

Jackson, CA

Jacumba, CA

Jamestown, CA

Jamul, CA

Janesville, CA ¹

Jenny Lind, CA

Jerseydale, CA

Johnstonville, CA

Johnsville, CA

Jonesville, CA

Julian, CA

Junction City, CA

June Lake, CA

Juniper Flats, CA

Juniper Hills, CA

Jupiter, CA

Kagel Canyon, CA

Kiddie, CA

Kelley, CA

Kelseyville, CA

Kennedy Meadow, CA

Kennedy Meadows, CA

Kentville, CA

Keswick, CA

Kettenpom Valley, CA

King City, CA

Kings Beach, CA

Carked, CA

Klammath, CA

Klammath River, CA

Corbel, CA

Kuhn Ranch/Ammon, CA

La Barr Meadows, CA

La Canada Flint Ridge, CA

La Crescent-Montrose, CA

La Grange, CA

La Habra Heights, CA

La Jolla, CA ¹

La Porte, CA

La Quinta, CA

La Verne, CA

Lady Del Rio, CA

Lagunitas-Forest Knolls, CA

Lake Arrowhead, CA

Lake City, CA

Lake Don Pedro, CA

Lake Elsinore, CA

Lake Hughes, CA

Lake Isabella, CA

Lake Moreno Village, CA

Lake Nacimiento, CA

Lake Wildwood, CA

Lakehead, CA

Lakeland Village, CA

Lakeshore, CA

Lakeside, CA

Lakeview, CA

Lamina, CA

Lancaster, CA

Lang, CA

Laposta, CA

Latrobe, CA

Lee Vining, CA

Lagged, CA

Leona Valley, CA

Levitt, CA

Lewiston, CA

Likely, CA

Lindsay, CA

Lichfield, CA

Little Valley, CA

Littlerock, CA

Live Oak Springs, CA

Plano, CA

Ladoga, CA

Loma Linda, CA

Lompoc, CA

Lone Pine, CA

Long Barn, CA

Longview, CA

Lookout, CA

Los Angeles, CA

Los Coyotes, CA ¹

Los Malawians, CA

Los Serrano, CA

Lower Lake, CA

Loyalton, CA

Lucern, CA

Lucia, CA

Lushmeadows Mountain Estates, CA

Lyle Creek, CA

Macdoel, CA

Mad River, CA

Madeline, CA

Muggily, CA

Magda, CA

Major Moore's, CA

Mammoth Lakes, CA

Manchester, CA

Manchester Rancheria (Iverson Indian Rancheria), CA

Manson, CA

Manzanita, CA

March Air Force Base, CA

Marin City, CA

Marina, CA

Mariposa, CA

Markleeville, CA

Martinez, CA

Mather, CA

MacArthur, CA

Mccloud, CA

Mead Valley, CA

Meadow Lakes, CA

Meadow Valley, CA

Miners Oaks, CA

Menton, CA

Mesa Grande, CA ¹

Michigan Bluff, CA

Middletown, CA

Middies, CA

Milford, CA

Mill Creek, CA

Mill Valley, CA

Mineral, CA

Mint Canyon, CA

Mara Monte, CA

Merriment, CA

Mission Hills (Census Name for Lompoc North), CA

Mi-Wk. Village, CA

Moccasin, CA

Mohawk, CA

Mokelumne Hill, CA

Mono City, CA

Mono Vista, CA

Monrovia, CA

Montague, CA

Monteiro, CA

Monterey, CA

Montgomery Creek, CA

Mooney Flat, CA

Moreno Valley, CA

Morgan Hill (Morganhill), CA

Mormon Bar, CA

Moron go, CA ¹

Moron go Valley, CA

Mount Laguna, CA

Mount Shasta, CA

Mountain Center, CA

Mountain Gate, CA

Mountain Mesa, CA

Mountain Ranch, CA

Murphies, CA

Mustang Mesa, CA

Napa, CA

Napa Soda Springs, CA

National City, CA

Needles, CA

Nevada City, CA

New Pine Creek, CA

Newcastle, CA

Newel, CA

Newton, CA

Nice, CA

Nippiness, CA

Narc, CA

Noreen, CA

North Auburn, CA

North Bloomfield, CA

North Columbia, CA

North Edwards, CA

North Fork, CA

North Highlands, CA

North San Juan, CA

Nuevo, CA

Oak Grove, CA

Oak Park, CA

Oak Run, CA

Oakhurst, CA

Oakland, CA

Obad., CA

O'Brien, CA

Oceanside, CA

Oden Flat, CA

Ojai, CA

Olancha, CA

Old Sherwood, CA

Old Station, CA

Olema, CA

Olive View, CA

Omo Ranch, CA

Ontario, CA

Onyx, CA

Ophir, CA

Orangevale, CA

Orcutt, CA

Oregon House, CA

Orick, CA

Orleans, CA

Oroville, CA

Oroville East, CA

Outingdale, CA

Pacific Grove, CA

Pala, CA ¹

Palermo, CA

Palm Desert, CA

Palm Desert Country, CA

Palm Springs, CA

Palmdale, CA

Paloma, CA

Paradise, CA ¹

Paradise Camp, CA

Pasadena, CA

Paskenta, CA

Patrick Creek, CA

Pauma, CA

Pauma Valley, CA

Paxton, CA

Paynes Creek, CA

Paynesville, CA

Peardale, CA

Pechanga, CA ¹

Penn Valley, CA

Pentz, CA

Perris, CA

Petrolia, CA

Phoenix Lake-Cedar Ridge, CA

Pickle Meadows, CA

Piedra, CA

Pike, CA

Pine Flat, CA

Pine Grove, CA

Pine Hills, CA

Pine Valley, CA

Pinehurst, CA

Pinnacles National Monument, CA

Pinyon Pines, CA

Pioneer, CA

Pioneer Tract, CA

Piru, CA

Pittsburg, CA

Pittville, CA

Pitville, CA

Placerville, CA

Platina, CA

Pleasant Valley, CA

Plymouth, CA

Point Arena, CA

Point Dume, CA

Pollock Pines, CA

Pomo, CA

Pomona, CA

Pope Valley, CA

Portola, CA

Portola Hills, CA

Poso Park, CA

Potrero, CA

Potter Valley, CA

Poway, CA

Prather, CA

Prattville, CA

Prosser Lakeview Estates, CA

Quail Valley, CA

Quartz Valley, CA

Quincy-East Quincy, CA

R Ranch (Johnsondale), CA

Rackerby, CA

Rail Road Flat, CA

Rainbow (Rainbow Valley), CA

Ramona, CA ¹

Ranchita, CA

Rancho Cucamonga, CA

Rancho Mirage, CA

Rancho Santa Margarita, CA

Randolph, CA

Randsburg, CA

Ravendale, CA

Ravenna, CA

Red Bluff, CA

Red Dog, CA

Redding, CA ¹

Redding Rancheria, CA

Redlands, CA

Redwood City, CA

Redwood Valley, CA

Ridgecrest, CA

Rincon, CA

Rio Linda, CA

Riverside, CA

Roaring Creek, CA

Robinson Mills, CA

Rock Creek, CA

Rodeo, CA

Rosamond, CA

Rough And Ready (Bitney Corner), CA

Round Mountain, CA

Rowland Heights, CA

Rumsey, CA

Running Springs, CA

Ruth, CA

Ruth Lake East, CA

Ruth Lake West, CA

Sabrina, CA

Sacramento, CA

Sage, CA

Salinas, CA

Salyer, CA

San Andreas, CA

San Antonio Heights, CA

San Bernardino, CA

San Clemente, CA

San Diego, CA

San Diego Country Estates, CA

San Dimas, CA

San Fernando, CA

San Francisco, CA

San Jacinto, CA

San Luis Obispo, CA

San Marcos, CA

San Miguel, CA

San Pasqual, CA

San Ramon, CA

Sand City, CA

Sandy Gulch, CA

Santa Barbara, CA ¹

Santa Clarita, CA

Santa Margarita, CA

Santa Rosa, CA

Santa Ysabel, CA

Santaysabel, CA ¹

Santee, CA

Sattley—Calpine, CA

Saugus-Bouquet Canyon, CA

Sausalito, CA

Sawyers Bar, CA

Scott Bar, CA

Seaside, CA

Secret Town, CA

Seiad Valley, CA

Seneca, CA

Shady Glen, CA

Shasta, CA

Shaver Lake, CA

Sheepranch, CA

Shelter Cove, CA

Sherwood Forest, CA

Shingle Springs, CA ¹

Shingletown, CA ¹

Sicard Flat, CA

Sierra City, CA

Sierra Madre, CA

Sierraville, CA

Simi Valley, CA

Sims, CA

Skyhigh, CA

Sleepy Valley, CA

Smartville, CA

Smith Station, CA

Snow Creek, CA

Soda Springs, CA

Somes Bar, CA

Sonora, CA

Soulsbyville, CA

South Lake, CA

South Lake Tahoe, CA

South Oroville, CA

Spanish Flat, CA

Spaulding, CA

Sportshaven, CA

Spring Valley, CA

Springville, CA

Squaw Valley, CA

Standard, CA

Standish, CA

Starlite, CA

Stent, CA

Stewart Point Rancheria (Indian Res), CA

Stinson Beach, CA

Stirling City, CA

Stones Landing, CA

Strawberry, CA

Strawberry Valley, CA

Sun City, CA

Sun Village, CA

Sunnyside-Tahoe City, CA

Susanville, CA

Sutter Creek, CA

Suzy Q Ranch, CA

Swall Meadows, CA

Sweetland, CA

Sycuan, CA ¹

Taft Heights, CA

Tahoe Pines, CA

Tahoe Vista, CA

Tajiguas, CA

Talmage, CA

Tamalpais-Homestead Valley, CA

Tamarack, CA

Taylorsville, CA

Tecate, CA

Tehachapi, CA

Temecula, CA ¹

Tennant, CA

The Forks, CA

The Geysers, CA

Thomas Mountain, CA

Thousand Oaks, CA

Thousand Palms, CA

Three Rivers, CA

Tierra Del Sol, CA

Timbuctoo, CA

Tollhouse, CA

Toms Place, CA

Topaz, CA

Torres Martinez, CA

Trabuco Highlands, CA

Trinidad, CA

Trinidad Rancheria, CA

Trinity Center, CA

Truckee, CA

Tule River, CA ¹

Tule River Indian Reservation, CA

Tulelake (Tule Lake), CA

Tuolumne, CA ¹

Tuolumne City, CA

Tuttletown, CA

Twain, CA

Twain Harte, CA

Twentynine Palms, CA

Twentynine Palms Marine Corps Base, CA

Twin Lakes, CA

Twin Pines—Weimar, CA

Ukiah, CA ¹

Union Hill, CA

Upland, CA

Upper Lake, CA

Upper Mad River, CA

Val Verde, CA

Valle Vista, CA

Vallecito, CA

Valley Center, CA

Valley Springs, CA

Valyermo, CA

Van Duzen, CA

Vandenberg Air Force Base, CA

Vandenberg Village, CA

Vichy Springs, CA

Victorville, CA

Virginia Creek, CA

Vista, CA

Volcano, CA

Wallace, CA

Walnut Creek, CA

Warner Springs, CA

Washington, CA

Wawona, CA

Weaverville, CA

Weed, CA ¹

Weitchpec, CA ¹

Weldon, CA

Wendel, CA

West Bishop, CA

West Pittsburg, CA

West Point, CA

Westhaven-Moonstone, CA

Westlake Village, CA

White Water, CA

Whitethorn (Thorn), CA

Whitney Portal, CA

Wildomar, CA

Wildwood, CA

Willaura Estates, CA

Willow Creek, CA

Willow Ranch, CA

Willow Valley—Cascade Shores, CA

Wilseyville, CA

Wilsona Gardens, CA

Wilsonia, CA

Winchester, CA

Winterhaven, CA

Witter Springs, CA

Wofford Heights, CA

Woodcrest, CA

Woodfords, CA

Woodfords Community (Indian Reservation), CA

Woodside, CA

Wrightwood, CA

Wynola, CA

Yorba Linda, CA

Yosemite Village, CA

You Bet, CA

Yreka, CA

Yucaipa, CA

Yucca Valley, CA

Zenia, CA

25 Mesa, CO ¹

Abril Meadows Subdivison, CO ¹

Alamosa Nwr, CO ¹

Allen Homesites Subdivision, CO ¹

Allenspark, CO ¹

Almont Subdivision, CO ¹

Alpine, CO ¹

Alpine Lakes, CO ¹

Alpine Meadows Subdivision, CO ¹

Alps Mtn., CO ¹

Altona, CO ¹

Amerind Spgs., CO

Angel of Shavano, CO ¹

Anna Road, CO ¹

Antelope Hills Mobile Home Subdivision, CO ¹

Antelope Hills Subdivision, CO ¹

Apex, CO ¹

Apple Valley, CO ¹

Arapaho Nwr, CO ¹

Arrowood, CO ¹

Arvada, CO

Aspen Canyon, CO ¹

Aspen Meadows (Subdivision), CO ¹

Aspen Park, CO ¹

Aspen Spgs, CO ¹

Aspen Springs, CO ¹

Avian Subdivision, CO ¹

Avon, CO ¹

Baca Grande, CO ¹

Bailey, CO

Balarat, CO ¹

Bar K Ranch, CO ¹

Bard Creek, CO

Barnesville, CO

Barnsville, CO ¹

Battlement Mesa, CO ¹

Bayfield, CO ¹

Bear Creek Hoa, CO ¹

Bear Mtn., CO

Beaver Point Heights, CO ¹

Beaver Valley Estates, CO ¹

Beaverbrk. Cnyn., CO ¹

Bellaire Lake Cg, CO

Bergen Park, CO

Berthoud Dale, CO

Berthoud Falls, CO

Beulah, CO ¹

Big Elk Meadows, CO ¹

Big Thompson Canyon, CO

Bighorn Subdivision, CO ¹

Black Hawk, CO ¹

Black Hollow, CO

Black Mtn., CO ¹

Blue Mesa Highlands Subdivision, CO ¹

Blue Mesa Subdivision F-1, 2, CO ¹

Blue Valley, CO ¹

Bonanza, CO ¹

Bonanza Mountain Estates (Subdivision), CO ¹

Bond, CO ¹

Bostwick Park, CO ¹

Bosworth Addition Subdivision, CO ¹

Boulder, CO ¹

Boulder Heights, CO ¹

Bow Mountain, CO ¹

Bowie, CO ¹

Braecher Lake, CO ¹

Breckenridge, CO ¹

Breen, CO ¹

Brk. Forest Est., CO ¹

Brook Forest, CO ¹

Brookmont, CO

Browns Park, CO ¹

Buckhorn Canyon, CO

Buckhorn Estates, CO

Buena Vista, CO ¹

Buffalo Creek, CO ¹

Buffalo Park, CO ¹

Buford, CO ¹

Cabazon Canyon, CO ¹

Cabazon Subdivision, CO ¹

Cahone Mesa, CO ¹

Camp Shosoni, CO ¹

Canon, CO ¹

Canyonside, CO ¹

Carbon Junction, CO ¹

Carbondale, CO ¹

Cardinal (Historical), CO ¹

Caribou City, CO ¹

Carrige Hills, CO ¹

Caufman's Addition Subdivision, CO ¹

Cebolla River Ranchettes, CO

Cedar Park, CO

Cedar Ridge Estates, CO ¹

Cedar Springs, CO

Cedaredge, CO ¹

Cement Creek Shg, CO ¹

Cement Creek Subdivision, CO ¹

Centerville, CO ¹

Central City, CO ¹

Chalet Park, CO ¹

Chalk Creek Acres, CO ¹

Chalk Creek Drive, CO ¹

Chalk Creek Estates, CO ¹

Cheeseman, CO ¹

Cherry Ck, CO ¹

Chicago Crk., CO ¹

Chief Hosa, CO

Chilton, CO

Chimney Rock Post Office, CO ¹

Chromo, CO ¹

Cliffdale, CO ¹

Coal Creek, CO ¹

Coal Creek Cnyn, CO ¹

Cold Spring, CO ¹

Collbran, CO ¹

Colona, CO

Columbus, CO ¹

Conifer, CO

Conifer Meadows, CO

Conifer Mtn., CO ¹

Copper, CO ¹

Copper Creek, CO ¹

Copperdale, CO ¹

Cordillera, CO ¹

Corona Heights, CO ¹

County Road 162, CO ¹

County Road 289, CO ¹

Coventry, CO ¹

Cowdrey, CO ¹

Craig, CO ¹

Cranor Acres Subdivision, CO ¹

Crawford, CO ¹

Crawford Gulch, CO

Creedmore Lakes, CO

Creekwood Subdivision, CO ¹

Creel Lands Subdivision, CO

Crescent Village, CO ¹

Cresent Lake Estates, CO ¹

Crested Butte, CO ¹

Crested Butte Highlands Subdivision, CO ¹

Crestone, CO ¹

Crestview Estates, CO ¹

Crisman, CO ¹

Crossons, CO ¹

Crystal Creek Subdivision, CO

Danni Ranch Subdivision, CO ¹

Dave Wood, CO ¹

Debeque, CO ¹

Deckers, CO ¹

Deer Creek Rd., CO

Deer Haven Subdivision, CO ¹

Deer Mesa, CO ¹

Deer Valley, CO ¹

Del Norte, CO

Devils Gulch, CO

Dgo Hills, CO ¹

Dharma Center, CO

Diamond Creek, CO

Dillon/Keystone, CO ¹

Divide Creek, CO ¹

Dolores, CO ¹

Dory Lakes, CO ¹

Double Header, CO

Douglas Ranch, CO ¹

Downieville, CO ¹

Drew Hill, CO ¹

Dry Gulch, CO

Dumont, CO ¹

Dunbar Tracts Subdivision, CO ¹

Dunraven Heights, CO

Durango, CO ¹

Dutch Charlie, CO

Dutch George Flats, CO

E. Fork Williams, CO ¹

Eagle, CO ¹

Eagle Ridge Subdivision, CO ¹

Eagle Rock Ranches, CO

Eagles Roost, CO ¹

East Owassa, CO

East Portal, CO ¹

Echo Hills, CO

Edgemont, CO ¹

El Jebel, CO ¹

El Pinal, CO

El Vado, CO ¹

Eldora, CO ¹

Eldorado Springs, CO ¹

Eldredge, CO ¹

Elk Falls, CO ¹

Elk Meadows Subdivision, CO

Elk Mountain Resort, CO

Elk Park, CO ¹

Elk Run, CO ¹

Elk Springs, CO ¹

Elkhead, CO ¹

Empire, CO

Ench. For, CO ¹

Est. At Blue Crk., CO ¹

Estabrook, CO

Estes Park, CO ¹

Eubank's Acres Subdivision, CO ¹

Eubank's Spring Creek Tracts Subdivision, CO ¹

Evans Ranch, CO ¹

Evergreen, CO ¹

Evrgrn. Highlnd, CO ¹

Evrgrn. Meadow, CO ¹

Fairmont, CO

Fairview Subdivision, CO ¹

Fall River Rd., CO ¹

Ferncliff, CO ¹

Ferndale, CO

Five Pine, CO ¹

Fl Rd Cor, CO ¹

Florida Mesa, CO ¹

Florida River, CO ¹

Floyd Hill, CO ¹

Flying G, CO ¹

Forbes Wagon Creek, CO ¹

Forest Hills, CO ¹

Forest Lakes, CO ¹

Four Elk, CO ¹

Fourth of July Creek Estates Subdivision, CO ¹

Fox Acres, CO

Fox Creek, CO ¹

Foxton, CO

Foxton Road, CO

Fraser Valley, CO ¹

Frisco, CO ¹

Frontier Ranch, CO ¹

Fruita, CO ¹

Fruitland Mesa, CO ¹

Fun Valley, CO ¹

Gamble Gulch, CO ¹

Game Trail, CO ¹

Gateway, CO ¹

Genesee, CO ¹

Georgetown, CO ¹

Gerrard, CO ¹

Gilpin, CO ¹

Ginger Quill, CO ¹

Glade Park, CO ¹

Glen Echo, CO

Glen Elk, CO

Glen Mawr, CO ¹

Glendale, CO ¹

Glenwood Springs, CO ¹

Gold Basin Meadows Subdivision, CO ¹

Gold Creek Acres Subdivision, CO ¹

Gold Hill, CO ¹

Gold Run, CO ¹

Golden, CO

Golden Gate Canyon Estates, CO ¹

Golden Gate Parkestates, CO ¹

Golden Meadow, CO

Goose Creek Estates Subdivision, CO ¹

Gordon Tracts Subdivision, CO ¹

Gothic, CO ¹

Gothic Mountain Subdivision, CO ¹

Gould, CO ¹

Gould Reservoir, CO

Government Springs, CO ¹

Granby, CO ¹

Grand Mesa, CO ¹

Grandview, CO ¹

Grant, CO

Grape Vine, CO

Great Sand Dunes Np, CO ¹

Green Valley, CO

Greenwood, CO ¹

Greystone, CO ¹

Grizzly Drive, CO

Gunnison, CO ¹

Gunnison Heights Subdivision, CO ¹

Gunnison Highlands North Subdivision, CO ¹

Gunnison Ranchettes Subdivision, CO ¹

Gurley, CO ¹

Happy Top, CO

Harris Park, CO

Hartman Rocks Subdivision, CO ¹

Hay Camp, CO ¹

Heeney, CO ¹

Helker Subdivision, CO

Henson, CO

Hesperus, CO ¹

Hiawatha Heights, CO

Hidden Hills, CO ¹

Hidden Lake (Subdivision), CO ¹

Hidden River Ranch Subdivision, CO ¹

High Country Estates, CO

Highgrade, CO

Hilldale Pines, CO

Hiwan, CO

Hiwan Hills, CO

Homestead, CO

Horca, CO ¹

Horsefly, CO ¹

Horseshoe Park, CO

Hotchkiss, CO ¹

Hwy 34 Corridor, CO ¹

Hwy 9, CO ¹

Idaho Springs, CO ¹

Idledale, CO

Ignacio, CO ¹

Indian Crk. Pk. Ranch, CO ¹

Indian Head, CO

Indian Hills, CO

Indian Meadows, CO

Insmont, CO

Iola Highlands South Subdivision, CO ¹

Iola Highlands West Subdivision, CO ¹

Iron Springs Mesa (Carstens), CO ¹

Irwin, CO ¹

Jacobs Ladder, CO ¹

Jamestown, CO ¹

Joe Love Ranch, CO ¹

Jubilee, CO

Junc Ck Cor, CO ¹

Kearns, CO ¹

Ken Caryl, CO

Kennedy Gulch, CO

Kerr Gulch, CO

Kincard Springs, CO

Kings Canyon, CO ¹

King's Valley, CO ¹

Kittredge, CO

Knollwood, CO ¹

Kuhlman Heights, CO ¹

Kvehster Road, CO

K-Z Ranch Estates, CO

La Plata, CO ¹

Ladder Can. Ranch, CO

Ladder Cr. Ranch, CO

Lake City, CO

Lake City Heights Subdivision, CO

Lake City North Subdivision, CO

Lake Edith, CO ¹

Lake Fork Estates I & II Subdivision, CO

Lake Fork Tracts Subdivision, CO

Lake Of The Pines, CO ¹

Lake San Cristobal Condominium Subdivision, CO

Lake San Cristobal Subdivision, CO

Lake Shore Park (Subdivision), CO ¹

Lake View At Skyland Subdivision, CO ¹

Lakeshore Estates Subdivision, CO

Lawson, CO ¹

Lazear, CO ¹

Lazy Acres (Subdivision), CO ¹

Lazy Crutch Park Subdivision, CO ¹

Lincoln Hills, CO ¹

Little Bear Crk., CO ¹

Log Hill Mesa, CO

Log Hill Village, CO

Log Park, CO ¹

Logan Mill, CO ¹

Loma Linda, CO ¹

Lonetree, CO ¹

Lookout Mtn., CO

Los Pinos/Cumbres, CO ¹

Lost Can, CO ¹

Lost Valley R., CO

Lump Gulch, CO ¹

Lyons, CO ¹

Lyons Park Estates, CO ¹

Magnolia, CO ¹

Maher, CO

Marshall, CO ¹

Marshdale Pk., CO ¹

Marvan Subdivision, CO

Massadona, CO ¹

Maxwell Hills, CO ¹

Mayday, CO ¹

Mayhen CO r, CO ¹

Mccray Tracts Subdivision, CO ¹

Mckinley, CO

Meeker, CO ¹

Meeker Park, CO ¹

Meredith, CO ¹

Meridian Lake Park, F-1, 2 Subdivision, CO ¹

Mesa, CO ¹

Mesa Antero, CO ¹

Mesa Lakes, CO ¹

Mesa Verde Park, CO ¹

Mill Creek, CO ¹

Mill Creek Park, CO

Millwood, CO ¹

Merriment, CO ¹

Missour Lake #1, CO ¹

Missouri Lake, CO ¹

Missouri Lake #3, CO ¹

Molina, CO ¹

Monarch Valley Subdivision, CO ¹

Monte Vista Nwr, CO ¹

Montezuma, CO ¹

Moon Gulch, CO ¹

Moon Ridge Subdivision, CO ¹

Morapes Ck., CO ¹

Morrison, CO

Mount Ethel Estates, CO

Mountain Glow Subdivision, CO ¹

Mountain House Estates, CO ¹

Mountain Meadows (Subdivision), CO ¹

Mountain Pines, CO ¹

Mountain Ridge, CO ¹

Mountain View, CO ¹

Mountain View Subdivision, CO ¹

Mt. Harvard Estates, CO ¹

Mt. Princeton, CO ¹

Mt. Princeton Hot Springs, CO ¹

Mt. Princeton South, CO ¹

Mt. Signal, CO ¹

Mt. Vernon, CO

Mtn. View Lakes, CO

Murdie Subdivision, CO ¹

N. Rainbow Falls, CO ¹

N. Stmbt, CO ¹

Naturita, CO

Nederland, CO ¹

Nevadaville, CO ¹

New Castle, CO ¹

North Elk Meadows, F-1, 2 Subdivision, CO ¹

North Pointe, CO ¹

North Routt, CO ¹

North Shore Village Subdivision, CO

Norwood, CO

Nucla, CO

Nutria, CO ¹

Oak Hill, CO ¹

Oehlman Park, CO

Ohio City, CO ¹

Ohio City-Stephenson's Addition Subdivision, CO ¹

Ohio Creek Properties Subdivision, CO ¹

Ohio Meadows, F-1, 2, 3, 4 Subdivision, Aka Castle Creek, CO ¹

Old Park, CO ¹

Old Sq. Pass Rd., CO

Old Stage, CO ¹

Orodell, CO ¹

Outward Bound, CO

Owassa Lake, CO

Oxford, CO

Oxyoke, CO

Packer's Knob Subdivision, CO

Pactolus, CO ¹

Pagosa Lakes, CO ¹

Pagosa Springs, CO ¹

Palisade Retreat Club Subdivision, CO ¹

Pan Ark, CO

Pandrama Est., CO

Panoview Park Subdivision, CO ¹

Paonia, CO ¹

Paradise Hills, CO

Paradise Valley Estates, CO ¹

Paradox, CO

Park 80 West, CO ¹

Park Creek Subdivision, CO

Park Creek West Subdivision, CO

Parkview, CO

Parsons Dr., CO ¹

Peaceful Hills, CO

Peaceful Valley, CO ¹

Piedra, CO ¹

Pine, CO ¹

Pine Brook Hill (Subdivision), CO ¹

Pine Junction, CO

Pine Needle Notch, CO ¹

Pine Ridge Road, CO

Pine Valley, CO ¹

Pine Valley Est., CO

Pinecliffe, CO ¹

Pinnacles, The Subdivision, CO ¹

Pinon, CO ¹

Pinon Acres, CO ¹

Pinos Creek Hoa's, CO ¹

Pinyon Mesa, CO ¹

Pitkin, CO ¹

Pleasant Park, CO

Pleasant View, CO

Post Hill, CO ¹

Poudre City, CO

Pride Of The West, CO ¹

Princeton Shadows, CO ¹

Pristine Point Subdivision, CO ¹

Pritchett, CO ¹

Quartz Creek Subdivision, CO ¹

Rabbit Gulch, CO

Rainbow Placer's 1, 2 Subdivision, CO ¹

Rancho Antero, CO ¹

Rancho Carramba Subdivision, CO

Rancho Mirage, CO

Rand, CO ¹

Rangely, CO ¹

Raymond, CO ¹

Red Cliff, CO ¹

Red Cross Millsite Subdivision, CO ¹

Red Feather Lakes, CO

Red Mesa, CO ¹

Red Mtn. Ranches Phase 1, 2, 3, 4 Subdivision, CO ¹

Redlands Mesa, CO ¹

Redstone, CO ¹

Redvale, CO ¹

Resort Creek Rd., CO

Rice Estates, CO ¹

Richmond Hill, CO

Ridge At Hiwan, CO

Ridgewood (Subdivision), CO ¹

Rifle, CO ¹

Riva Chase, CO

River Bend Subdivision, CO ¹

River Green Subdivision, CO ¹

River Ranch, CO ¹

River Rim Subdivision, CO ¹

River Road Subdivision, CO ¹

Rivergate Ranches Subdivision, CO ¹

Riverland Ind. Park Subdivision, CO ¹

Riverside, CO ¹

Riverside Estates Subdivision, CO

Roaring Judy At Round Top Subdivision, CO ¹

Roaring Judy, Phase 1, 2 Subdivision, CO ¹

Robinson Hill, CO

Rockledge, CO ¹

Rockridge, CO ¹

Rocky Mt. Arsenal, CO

Rocky Mtn Lodge, CO ¹

Rollinsville, CO ¹

Ropp Cnty. Est., CO

Rowena, CO ¹

Royal Ranch Subdivision, CO

Rulison, CO ¹

Rustic, CO ¹

Rye, CO ¹

S. Fork Williams, CO ¹

S. Ridge Road, CO

S.Turkey Creek, CO

Saddle Club Estates, CO ¹

Saddleback, CO ¹

Salina, CO ¹

Sampson Road, CO

San Juan Hills Subdivision, CO

San Juan Meadows Subdivision, CO

San Juan Ranch Estates Subdivision, CO ¹

San Juan Springs Subdivision, CO

Sanborn Park, CO ¹

Santa Maria, CO

Santaz Acres, CO ¹

Sargents, CO ¹

Sawatch View Subdivision, CO ¹

Saxon Hills, CO ¹

Scraggy View, CO ¹

Seven Hills (Subdivision), CO ¹

Seven Mile, CO ¹

Severance Lodge, CO ¹

Shadow Mtn., CO ¹

Shavano Valley, CO

Shdy.Brk. Cmp., CO ¹

Silesca, CO ¹

Silt, CO ¹

Silver Cliff Club, CO ¹

Silver Cliff Ranch, CO ¹

Silver Plume, CO ¹

Silver Ranch, CO

Silver Springs (Subdivision), CO ¹

Silver Spruce, CO ¹

Silverado Estates, CO

Silverthorne, CO ¹

Sims Mesa, CO

Singleton, CO

Sj River Vill., CO ¹

Sky Ranch Estates, CO ¹

Skydale, CO ¹

Skyland, F-1, 2, 3 Subdivision, CO ¹

Slate River Estates Subdivision, CO ¹

Snowline, CO ¹

Snowmass, CO ¹

Soda Creek, CO

Somerset, CO ¹

South Fork And Vic, CO ¹

Southern Ute Youth Camp, CO

Spar City, CO ¹

Sphynx Park, CO

Spring Creek, CO ¹

Spring Creek Estates Subdivision, CO ¹

Spring Creek Resort Subdivision, CO ¹

Spring Estates, CO ¹

Spring Gulch, CO ¹

Spring Meadows Subdivision, CO ¹

Springdale, CO ¹

Squaw Mtn., CO ¹

St Anton Highlands, CO ¹

St. Mary's/Alice, CO ¹

St. Vrain Park, CO ¹

Stagecoach X, CO ¹

Staples East River Est Subdivision, CO ¹

Stapleton, CO ¹

Star Mtn. Ranch Subdivision, CO ¹

Steamboat, CO ¹

Steenbergen Tracts Subdivision, CO ¹

Stmbt South, CO ¹

Stollsteimer, CO ¹

Stone Chimney, CO

Stoner, CO ¹

Stringtown Gulch, CO ¹

Sugar Creek, CO ¹

Sugarloaf, CO ¹

Summerville, CO ¹

Summit Subdivision, CO ¹

Sunny Side Trailer Park Subdivision, CO ¹

Sunnyside, CO ¹

Sunset, CO ¹

Sunset Trail, CO

Sunshine, CO ¹

Swiss Peaks, CO ¹

Swiss Village, CO

Switzerland Park, CO ¹

Sylvan, CO ¹

Tall Timber (Subdivision), CO ¹

Tanoa, CO

Taylor Park Unit 1 Subdivision, CO ¹

Taylor Park Unit 2 Subdivision, CO ¹

Taylor River Acres Subdivision, CO ¹

Taylor River Estates Subdivision, CO ¹

Taylor River Tracts Subdivision, CO ¹

Terra Subdivision, CO ¹

Terrace Reservoir, CO ¹

The O Ranch, CO

Thom. Pk, CO ¹

Thomasville, CO ¹

Thorn Lake, CO ¹

Thornworth Estates Subdivision, CO ¹

Three Elk, CO ¹

Three Forks, CO

Timber Ridge, CO ¹

Timberline, CO ¹

Tincup, CO ¹

Tomichi Park Subdivision, CO ¹

Towaoc, CO ¹

Trail West Village, CO ¹

Transfer, CO ¹

Trappers Crossing, CO ¹

Trappers Crossing At C.B. Subdivision, CO ¹

Trapper's Crossing At Wildcat, F-1, 2, 3 Subdivision, CO ¹

Trappers Crossing South Subdivision, CO ¹

Trappers Lake, CO ¹

Travis Gulch, CO ¹

Treasure, CO ¹

Trimble, CO ¹

Triple Creek, CO ¹

Trout Creek, CO ¹

Trout Creek Drainage, CO ¹

Trout Creek Meadows, CO ¹

Troutdale, CO

Trujillo, CO ¹

Trumbull, CO ¹

Trumbull (Snow Water), CO ¹

Tungsten (Historical), CO ¹

Turret, CO ¹

Tween Lakes, CO ¹

Unaweep Canyon, CO ¹

Uncompahgre, CO

Upper Bear Crk., CO ¹

Upper Clear Ck, CO ¹

Upper Dave Wood, CO ¹

Uravan, CO

Urraca Hoa, CO ¹

Ute, CO

Vail, CO ¹

Vallecito, CO ¹

Valley Del Rio, CO ¹

Valley View, CO ¹

Vancorum, CO

Vicker's Enterprise Ranch Estates Subdivision, CO

Virginia Cnyn., CO ¹

Walden, CO

Wallstreet, CO ¹

Walz, CO ¹

Wamblee Valley, CO

Wanderest, CO

Wapiti, CO ¹

Ward, CO ¹

Waterman And Hudlers Subdivision, CO ¹

Weaselskin, CO ¹

Webster, CO

Wedgewood #1, CO ¹

Wedgewood #2, CO ¹

Weem's Malter Placer Subdivision, CO

Wellington Lake, CO ¹

West Dolores, CO ¹

West Ranch, CO ¹

Westcreek, CO ¹

Western Knolls, CO ¹

Weston, CO ¹

Wetmore, CO ¹

Wheeler, CO ¹

Wheelman, CO ¹

Whispering Pine (Subdivision), CO ¹

Whispering Pines, CO ¹

White Pine, CO ¹

White Water Estates Subdivision, CO ¹

Whittingtonestates, CO ¹

Wilderness Streams Subdivision, CO ¹

Willow Creek Ranch, CO

Windy Peak, CO

Winter Park, CO ¹

Witter Gulch, CO

Wolf Canyon Subdivision, CO ¹

Wondervu, CO ¹

Woodland Park, CO

Woods At Evgrn., CO

Woodside Subdivision, CO

Yankee Creek, CO ¹

YMCA Of The Rockies, CO ¹

York Gulch, CO ¹

Youth Camp, CO ¹

Zapata Hoa, CO ¹

Broadkill Beach, DE ¹

Primehook Beach, DE ¹

Slaughter Beach, DE ¹

Alligator Point, FL

Altoona, FL

Apalachicola, FL

Arran, FL ¹

Astor, FL

Astor Park, FL

Auburn, FL ²

Avalon, FL ²

Avon Park, FL ²

Avon Park Estates, FL ¹ ²

Avon Park Lakes, FL ¹ ²

Bagdad, FL ²

Baker, FL ²

Bald Point, FL

Baxter, FL ¹

Beacon Hills, FL

Belview, FL²

Bethel, FL ¹

Beverly Area, FL

Big Cypress, FL ¹

Big Pine Key, FL ¹

Bloodybluff, FL ¹

Bloxam, FL

Blue Creek, FL

Brevard County, FL ¹

Brickyard, FL

Brighton, FL ¹

Bristol, FL

Buckhead Ridge, FL

Buckhorn, FL

Buelah, FL ²

Cape Canaveral, FL ¹

Card Sound Area, FL

Carrabelle, FL ¹

Cedar Landing, FL

Cedar Point, FL ¹

Chason Area, FL

Chocoloskee, FL ¹

City Of Parkland, FL

Cocoa Beach, FL

Copeland, FL ¹

Crawfordville, FL ¹

Crescent City, FL

Crestview, FL ²

Crestwood, FL

Crooked River, FL

Croom-A-Coochee, FL ¹ ²

Cutler Ridge, FL

Deep Creek, FL ¹

Deland, FL ¹

Deleon Springs, FL

Desoto City, FL ¹ ²

Destin, FL ¹ ²

Dorcas, FL ²

East Everglades, FL ¹

East Milton, FL ²

East Naples, FL ¹

Eastpoint, FL ¹

Eldora, FL ¹

Eureka, FL

Everglades City, FL ¹

Fellsmere, FL

Flamingo, FL

Florida City, FL

Forest Corners, FL

Fort Braden, FL

Fowlers Bluff, FL

Frostproof, FL ¹ ²

Ft. Pierce, FL ¹

Ft. Walton, FL ¹ ²

Ft. Mccoy, FL

Garden City, FL ²

Georgetown, FL

Glen St. Mary, FL ¹

Golden Gate, FL ¹

Golden Gate Estates, FL ¹

Gulf Breeze, FL ¹

Gulf Terrace, FL

Half Moon Island, FL ¹

Hampton, FL ²

Harold, FL ²

Highlands Park, FL ¹

Highlands Ridge, FL ²

Hilliardville, FL

Hobe Sound, FL

Holly, FL ²

Homestead, FL

Horseshoe, FL

Hosford, FL

Immokalee, FL ¹

Istokpoga, FL ²

Ivan, FL ¹

Jerome, FL ¹

Johnson, FL ¹

Kuhlman, FL

Kyler, FL ¹

Lake City, FL ¹

Lake Haven Estates, FL ¹ ²

Lake Josephine, FL

Lake Kathryne, FL ¹

Lake Mack, FL ¹

Lake Mystic, FL

Lake Sebring Estates, FL ²

Lakeport, FL

Lakewood, FL ²

Lanark Village, FL

Laurel Hill, FL

Lawtey, FL ²

Lehigh Acres, FL ¹

Leisure Lakes, FL ¹

Lighthouse Point, FL ¹

Little Chassahowitzka, FL

Little Torch Key, FL

Live Oak Island, FL ¹

Looneyville, FL ¹

Lorida, FL ²

Lowry, FL

Lulu, FL

Lynne, FL

Macclenny, FL

Margaretta, FL ¹

Mary Esther, FL ²

Mcintyre, FL

Medart, FL ¹

Mexico Beach, FL ¹ ²

Miccosukee Res., FL ¹

Miccosukee Trail, FL ¹

Midway, FL ¹ ²

Miles City, FL

Mulat, FL ²

Myrtle Grove, FL ²

Naples, FL

Narajana, FL

Navarre, FL ²

Newport, FL

Niceville, FL ²

North Cape Coral, FL ¹

North Fort Myers, FL ¹

North Naples, FL ¹

Nw Dade County, FL

Oak Hill, FL

Oak Park, FL ¹

Ocala, FL

Ochlochonee, FL ¹

Ochopee, FL

Oklawaha, FL

Olustee, FL ¹

Orange, FL

Orange Blossom Estates, FL ¹

Orange Springs, FL

Oyster Bay, FL ¹

Ozello, FL

Paisley, FL

Palestine, FL ¹

Panacea, FL ¹

Panama City, FL ¹ ²

Pensacola, FL ²

Pensacola Beach, FL

Perrine, FL

Pierson, FL

Pine Island, FL ¹

Pine Lakes, FL ¹

Pioneer Plantation, FL ¹ ²

Pittman, FL

Pleasant Grove, FL ¹ ²

Port Labelle, FL ¹ ²

River Sink, FL

Roseland, FL

Rosewood, FL

Royal Trails, FL ¹

Salt Springs, FL

Sampson City, FL

Sanborn, FL

Sanderson, FL ¹

Satsuma, FL

Scottmoor, FL ¹

Seaside, FL ¹ ²

Sebring, FL²

Sebring Country Estates, FL ¹ ²

Sebring Hills, FL ²

Sebring Lakes, FL

Sebring Ridge, FL ²

Sebring Shores, FL ²

Seminole, FL ²

Seminole Rest, FL

Seville, FL

Shadeville, FL ¹

Shell Insland Fish Camp, FL

Shell Point, FL

Silver Fox, FL ¹

Silver Springs, FL

Silver Springs Shores, FL

Smith Creek, FL

Sopchoppy, FL ¹

Southgate, FL ²

Spring Creek, FL

Spring Lake, FL ²

St. George Island, FL

St. James, FL

St. Marks, FL

St. Teresa, FL ¹

Starke, FL ²

Sugarmill Woods, FL ¹

Sumatra, FL

Summer Haven, FL

Sun N' Lakes Estates, FL ¹ ²

Suncoast, FL ¹

Surf, FL

Suwannee, FL

Tallahassee, FL

Taylor, FL ¹

Telogia, FL

Theressa, FL ²

Tilton Road Area, FL

Titusville, FL ¹

Tucker Area, FL ¹

Umatilla, FL

Vero Lake Estates, FL ¹

Wakulla, FL

Wakulla Beach, FL

Wakulla Station, FL

Ward, FL

Warrington, FL ²

Weirsdale, FL

Welaka, FL

Wellington, FL

West Sebring Estates, FL ²

Wetumpka, FL

White Springs, FL ¹

Wilma, FL

Yent Bayou, FL ¹

58 Crossing, GA ²

Abbottsford, GA ¹ ²

Acree, GA ²

Acworth, GA

Acworth Beach, GA

Adairsville, GA ¹ ²

Adams Park, GA

Adamson, GA ²

Adasburg, GA ¹ ²

Adel, GA ²

Adgateville, GA ¹

Aerial, GA ¹

Afton, GA

Ai, GA

Airport, GA

Akin, GA ²

Alaculsy, GA

Albany, GA ²

Alcovy North, GA

Alcovy Shores, GA

Alexander, GA ²

Allatoona, GA ²

Allatoona Beach, GA ²

Allendale, GA ²

Allenhurst, GA ²

Allenwood, GA ¹

Alpine, GA

Alta Vista, GA ²

Altamaha, GA ²

Altamaha Park, GA

Alto, GA ¹

Americus, GA

Amicalola, GA ¹

Amity, GA ¹ ²

Amos Mill, GA

Anderson T.P., GA ²

Andersons Corner, GA ²

Andersonville, GA ²

Angelville, GA

Anguilla, GA

Annadale, GA

Ansley Mill, GA ¹ ²

Aonia, GA ²

Apalachee,GA ¹

Appling, GA ²

Aquabella Subdivision, GA ²

Archery, GA

Arco, GA

Ardick, GA

Argyle, GA

Aries, GA

Arkwright, GA

Armuchee, GA

Arnoldsville, GA

Ashintilly, GA

Aska, GA

Astoria, GA

Atco, GA ²

Atkinson, GA

Atlanta Junction, GA

Attapulgus, GA ²

Aubrey, GA ²

Audubon, GA

Auraria, GA ¹ ²

Ausmac, GA ²

Austell, GA

Avalon, GA ²

Avery, GA ²

Avondale, GA ²

Ayersville, GA ²

Aylmer (Historical), GA ²

Babcock, GA

Bachlott, GA

Back Landing, GA

Bainbridge, GA ²

Bairdstown, GA ¹

Baker Village, GA ²

Baldwin, GA

Ball Ground, GA ²

Ballew Mill, GA

Bancroft, GA ²

Barbour Island, GA

Barkers Crossroads, GA ²

Barneyville, GA ²

Barretts, GA ²

Barrettsville, GA

Barrons Lane, GA

Bartlett, GA

Bass Crossroads, GA ²

Batesville, GA ²

Battle Creek, GA ²

Baughs Crossroads, GA ²

Baxley, GA ²

Baxter, GA

Beach, GA

Beacon Heights, GA

Beards Creek, GA ²

Beasley Gap, GA ²

Beatum, GA

Beaumount, GA

Beaverdale, GA

Beaverdam, GA

Beech Cove Vista, GA

Belaire (Subdivision), GA ²

Belfast, GA ²

Bell, GA ²

Belle Vista, GA

Bellfast, GA ²

Bellton, GA

Bellville, GA ²

Belmont, GA

Belverdere, GA ¹

Bemiss, GA ²

Benefit, GA ¹

Benning Hills, GA ²

Benning Park, GA ²

Benton, GA

Berginville, GA ²

Berner, GA

Berryton, GA

Berwin, GA

Berzelia, GA ²

Bethany, GA ²

Bethesda, GA

Bethleham School, GA ²

Beverly, GA ²

Beverly Hills, GA

Bibb City, GA ²

Bickley, GA

Big Ben, GA ²

Big Canoe, GA

Big Creek, GA ²

Big Oak, GA

Big Spring (Historical), GA

Big Springs, GA ²

Billyville, GA

Bio, GA ²

Bird Ford, GA ²

Black Island, GA

Black Jack, GA ²

Blackshear Place, GA

Blackwell, GA

Blackwells, GA

Blackwood, GA

Bladen, GA

Blairsville, GA

Blakely, GA ²

Blandy, GA

Blanton, GA ²

Blevins Acre, GA

Blitchton, GA ²

Bloodtown, GA ²

Bloomingdale, GA

Blount, GA

Blountsville, GA ¹

Blowing Spring, GA

Blue Spring, GA

Bluffton, GA ²

Blunt (Historical), GA

Blythe Community, GA ²

Bobby Brown Park Vicinity, GA ²

Bobo, GA

Boggy, GA

Boggy Bay, GA

Bolen, GA

Bolingbroke, GA

Bolivar, GA ²

Bonaire, GA ²

Boneville, GA ²

Booster Club, GA ²

Boozeville, GA

Bostwick, GA

Bottsford, GA

Bowersville, GA ²

Bowls (Historical), GA

Bowman, GA ²

Box Ankle, GA

Box Springs, GA ²

Boyd Highlands, GA

Boydville, GA ²

Boynton, GA

Boys Estate, GA

Bradley, GA ¹

Braganza, GA

Brantley, GA ²

Brent, GA

Brentwood, GA ²

Briar Patch, GA

Brice, GA

Briggston, GA ²

Brighton Mills, GA

Brinson, GA ²

Brisbon, GA ²

Brittany Harbour (Subdivision), GA ²

Broad, GA ²

Broad River/Lbk Subdivisions, GA ²

Broadfield, GA

Broadhurst, GA ²

Brobston, GA

Bronco, GA

Bronco Store, GA ²

Brookhaven, GA ²

Brooklyn, GA ²

Brookman, GA

Brookton, GA

Brookvale Estates, GA

Brookwood, GA ²

Broughton, GA

Brown Mill, GA

Browns (Historical), GA ²

Browns Crossing, GA

Browntown, GA

Brownwood, GA

Brunswick, GA

Bryan Mill, GA

Buckhead, GA¹

Buckhorn Tavern, GA ²

Buena Vista, GA ²

Buena Vista (Subdivision), GA ²

Buff (Historical), GA

Buffington, GA ²

Buford, GA

Bullard, GA

Bullhead Bluff, GA

Bunker Hill, GA

Burnett, GA ²

Burning Bush, GA

Burnt Fort, GA

Burnt Hickory Hills Subdivision, GA ²

Burnt Mt. Estate, GA

Burris Crossroads, GA ²

Burtsboro, GA ²

Bussey, GA ²

Cabaniss, GA

Cabin Bluff, GA

Cadley, GA ²

Calhoun, GA

Callaway Mill, GA

Calvin, GA

Cameron Point, GA ²

Camp Mikell, GA ²

Campania, GA ²

Canal Lake, GA

Candler, GA

Cane Creek, GA ²

Cannon Crossing, GA

Cannonville, GA ²

Canon, GA ²

Canton, GA ²

Carbondale, GA

Carey, GA¹

Carey Station, GA

Carlan, GA

Carmichael Crossroads, GA ²

Carnes Creek, GA ²

Carnesville, GA

Carnigan, GA

Caroline Park, GA ²

Cartecay, GA

Carter Acres, GA ²

Carters, GA

Carter's Byte, GA ²

Carters Lake Estates, GA ²

Cartersville, GA ²

Cascade Hills, GA ²

Cash, GA

Cassandra, GA

Cassville, G ²

Catlett, GA

Cauthen, GA ²

Cave Spring, GA

Cecil, GA ²

Cedar Cliff, GA

Cedar Creek, GA ²

Cedar Hill, GA

Cedar Point, GA

Cedar Springs, GA ²

Cedar Valley, GA

Celeste, GA ²

Cenchat, GA

Centennial, GA

Center Post, GA

Central Avenue, GA

Centralhatchee, GA ²

Chambers, GA

Charles, GA ²

Chaserville, GA ²

Chatsworth, GA ²

Chattahoochee Plantation, GA

Chattoogaville, GA

Chelsea, GA

Chennault, GA ²

Cherokee, GA ²

Cherry Log, GA

Cherryhog, GA

Chestatee, GA ²

Chestnut Gap, GA

Chestnut Mountain, GA

Chickamauga, GA

Chicopee, GA

Childs Place, GA ²

Choestoe, GA

Chopped Oak, GA

Chubbtown, GA

Chunn Estates, GA ²

Church Hill, GA ²

Cinderella Hills, GA

Circle East (Subdivision), GA ²

Cisco, GA

City Village, GA ²

Clark Place, GA

Clarkdale, GA

Clarkesville, GA

Clarking, GA

Clarks Bluff, GA

Claxton, GA ²

Clay Hill, GA ²

Clayton, GA

Clearview, GA

Clearwater Acres, GA ¹²

Clermont, GA

Cleveland, GA ¹

Climax, GA ²

Clinchfield, GA ²

Clinton, GA

Cloudland, GA

Cloverdale, GA

Clubview Heights, GA ²

Clyattville, GA ²

Coal Mountain, GA

Cobbham, GA2 ²

Cobbham Crossroads, GA

Cobbtown, GA2 ²

Coffee Bluff, GA

Coffinton, GA

Cogdell, GA

Cohentown, GA

Cohutta, GA

Cohutta Springs, GA

Cokesbury, GA ²

Cole City, GA

Colerain, GA

Coles Crossing, GA

Colesburg, GA

Colima, GA

Collier, GA

Collins, GA ²

Collins Woods, GA ²

Colman Bridge, GA ²

Colomokee, GA ²

Colon, GA

Columbus, GA ²

Colwell, GA

Coniston, GA

Conyers Estates Subdivision, GA ²

Cooksville, GA ²

Cooper Creek, GA

Cooper Heights, GA

Coopers, GA

Coosa, GA

Coosawattee (Historical), GA

Copeland Crossing, GA

Corbin, GA ²

Cords Bridge, GA

Corinth, GA ²

Cork, GA

Cornelia, GA

Cotton Hitll, GA ²

Cottons Crossroads, GA ²

Council, GA

Country Village Subdivision, GA ²

County Line Church, GA

County Manor Subdivision, GA ²

Cowford, GA ²

Cox, GA

Crandall, GA

Crane Eater, GA

Crawford, GA

Crawley, GA

Credit Hill, GA

Crescent, GA

Crews Crossing, GA

Cromers, GA

Cross Keys, GA

Crow Duck, GA ²

Croxton Crossroads, GA

Crystal Springs, GA

Crystal Valley, GA ²

Cuba, GA ²

Culloden, GA

Cumming, GA ²

Cumslo, GA

Cunningham, GA

Curry Hill, GA ²

Curryville, GA

Curtis, GA

Custer Road Terrace, GA ²

Cutcane, GA

Cutoff, GA

Cutting, GA

Cypress Mills, GA

Dacula, GA

Dahlonega, GA ²

Daisy, GA ²

Dallondale, GA

Dalton, GA

Damascus, Ga ²

Dames Ferry, GA

Danburg, GA ²

Daniel, GA ²

Daniel Springs, GA

Daniels, GA ²

Danville, GA

Darien, GA

Dark Corner, GA

Dasher, GA ²

Davis Crossroads, GA

Davis Landing, GA ²

Davis Road, GA

Dawnville, GA

Dawsonville, GA

Days Crossroads, GA ²

Deans Crossing, GA ²

Dearing, GA ²

Decora, GA

Deen's Landing, GA ²

Deer Wood, GA ²

Deerfield Estates Subdivision, GA ²

Deerwood, GA ²

Delhi, GA ²

Delmar, GA ²

Delta Plantation, GA

Demorest, GA

Dennis, GA

Denver, GA ²

Desser, GA ¹, ²

Devils Pond, GA

Dewey Crossroads, GA ²

Dewy Rose, GA ²

Dial, GA

Diamond, GA

Dickerson Mill, GA

Dicks Hill, GA

Dickson, GA

Dillard, GA

Dinglewood, GA ²

District Path, GA

Dixie Union, GA

Dixon Crossroads, GA

Doctortown, GA ²

Dollar Sub, GA ²

Donald, GA ²

Donalsonville, GA ¹, ²

Doogan, GA

Dorchester, GA ²

Dorchester #2, GA ²

Dorsey, GA

Double Branches, GA ²

Double Springs (Historical), GA ²

Dougherty, GA

Douglas Crossroads, GA ²

Dove Creek, GA ²

Dover Bluff, GA

Doyle, GA ²

Draneville, GA ²

Drew, GA ²

Drone, GA ²

Drum Point Landing, GA ²

Dry Branch, GA

Ducker, GA ²

Ducktown, GA ²

Duluth, GA

Dumas, GA

Dungeness, GA

Dunn, GA

Dupont, GA

Durham, GA

Durham Town, GA

Dyas, GA

Dyke, GA

Eagle Cliff, GA

Eagle Grove, GA ²

Eagle Neck, GA

Eason Bluff, GA ²

East Albany, GA ²

East Armuchee, GA

East Boxwood Estates, GA ²

East Boynton, GA

East Edgewood, GA ²

East Ellijay, GA

East Highlands, GA ²

East Juliette, GA ¹

East Trion, GA

Eastanollee, GA ²

Eastville, GA

Eatonton, GA ¹

Ebo Landing, GA

Echota, GA

Edgewood, GA ²

Edith, GA

Edna, GA ²

Eightmile Still, GA

Elbert Co. Subdivision, GA ²

Elberta, GA ²

Elberton, GA ²

Elder, GA

Elders, GA

Eldorendo, GA ²

Elery, GA ²

Elim/Davenport, GA ²

Elizabeth, GA

Elko, GA ²

Ella Gap, GA

Ellabell, GA¹, ²

Ellijay, GA ²

Elliotts Bluff, GA

Elmview, GA ²

Elrod Mill, GA

Emerson Park, GA

Emma, GA

Englewood, GA ²

Enon Grove, GA ²

Ephesus, GA ²

Epworth, GA

Erastus, GA

Ernest, GA

Estelle, GA

Ethridge, GA ²

Eton, GA

Euharlee, GA ²

Eulonia, GA

Evans, GA ²

Evansville, GA ²

Ever Green, GA

Everett, GA

Everett Springs, GA

Eves (Historical), GA ²

Faceville, GA ²

Fain, GA

Fair Oaks, GA

Fairfax, GA

Fairhaven, GA ²

Fairhope, GA

Fairlawn Acres, GA

Fairmount, GA

Falling Rocks, GA ²

Fambro (Historical), GA

Fancy Bluff, GA

Fancy Hall, GA ²

Fantasy Hills, GA

Fargo, GA

Farmersville, GA

Farmington, GA ¹

Farmville, GA

Farrar, GA

Fendig, GA

Ferrell Crossroads, GA ²

Ficklin, GA ²

Fidelle, GA

Fields Landing, GA ²

Fighting Pine, GA ²

Fincherville, GA

Fishers Chapel, GA

Fitzpatrick, GA

Five Points, GA ¹

Five Springs, GA

Fivemile Still, GA

Flat Branch, GA

Flat Ford, GA ²

Flat Rock, GA ¹

Flat Shoals, GA ²

Flea Hill, GA

Fleming, GA ²

Flemington, GA ²

Flintstone, GA

Floral Hill, GA ²

Florence, GA ²

Flovilla, GA ¹

Flowery Branch, GA

Floyd, GA

Floyd Springs, GA

Folkston, GA

Folsom, GA ²

Folwstown, GA ²

Ford (Historical), GA

Forge Mill, GA

Forsyth, GA

Fort Mcallister, GA ²

Fort Mountain (Historical), GA

Fort Mudge, GA

Fort Oglethorpe, GA

Fort Screven, GA

Fort Smith, GA ²

Fort Stewart, GA ²

Fortsonia, GA ²

Fortville, GA

Foster Hills, GA

Foster Mills, GA

Fouche, GA

Fountainville, GA

Fowlertown, GA ²

Franklin, GA ²

Franklin Springs, GA

Franklinton, GA

Frazers Crossing, GA

Free Home, GA ²

Freeman, GA ²

Frolona, GA ²

Fruitland, GA

Fry, GA

Ft. Gaines, GA ²

Funkhouser, GA ²

Furniture, GA

Furniture City, GA

Ga. Bend, GA

Gabbettville, GA ²

Gaddistown, GA

Gainesville, GA

Galloway, GA

Galloway Mill, GA

Garden City, GA

Garden Valley, GA

Gardi, GA ²

Garnersville, GA ²

Gass, GA

Gentian, GA ²

Georgetown, GA

German Village, GA

Germany, GA

Gill, GA ²

Gillis Place, GA ²

Gillsville, GA

Gilmore, GA

Girard, GA ²

Glades, GA

Gladesville, GA ¹

Glen Alta, GA ²

Glen Arden, GA ²

Glencoe, GA

Glenloch, GA ²

Glenmore, GA

Glenn, GA ²

Glenns, GA ²

Glennville, GA ²

Glynn Camp, GA

Glynn Haven, GA

Gober, GA ²

Godfrey, GA ¹

Goldmine, GA ²

Goolsby, GA

Goose Island, GA

Gopher Ridge, GA ²

Gordon Springs, GA

Gore, GA

Goshen, GA ²

Gospel Light, GA

Goss, GA ²

Gough, GA ²

Goulds Landing, GA

Graball, GA ²

Graham, GA ²

Grassdale, GA ²

Gray, GA ¹

Gray Hill, GA ²

Grayson, GA

Graysville, GA

Greely, GA ²

Green Acres, GA 1 2

Green Island Hills, GA ²

Greenberry Crossroads, GA

Greenbriar (Subdivision), GA ²

Greens Crossing, GA ²

Greens Cut, GA ²

Greensboro, GA ¹

Greggs, GA ²

Gregory, GA

Greshamville, GA ¹

Greyfield, GA

Griswoldville, GA

Gross Still (Historical), GA

Grovania, GA ²

Grove Point, GA

Groveland, GA ²

Grovetown, GA ²

Gum Branch, GA ²

Gum Cemetery, GA

Gum Log, GA ²

Gum Springs, GA ²

Gumlog, GA

Habersham, GA

Habersham (Subdivision), GA ²

Haddock, GA

Hagan, GA ²

Hahira, GA ²

Halfmoon Landing, GA ²

Halifax, GA

Hall Mill, GA

Halls, GA ²

Hallwood, GA

Hamilton Crossroads, GA ²

Hancocklanding, GA ²

Haney, GA

Happy Hollow, GA ²

Happy Landing, GA

Harbin, GA

Harbour Shores (Subdivision), GA ²

Hard Cash, GA ²

Hardwick, GA

Hardys Crossroads, GA

Harlem, GA ²

Harmony, GA ¹

Harper, GA ²

Harrietts Bluff, GA

Harrington, GA

Harrisburg, GA

Harrisonville, GA ²

Hartwell, GA ²

Hartwell Shores (Subdivision), GA ²

Harvest, GA

Harvest Estates (Subdivision), GA ²

Hassler Mill, GA

Hasslers Mill, GA

Hasty, GA

Hatcher, GA ²

Hatcher Store, GA ²

Hawkins, GA

Hayes Crossing, GA ²

Haylow, GA

Hayner, GA

Hayneville, GA ²

Haysville, GA

Haywood, GA

Hazard Neck, GA

Head River, GA

Heard Place, GA ²

Heardmont, GA ²

Heardville, GA ²

Hebardville, GA

Helen, GA

Hemp, GA

Henderson, GA ²

Hephzibah Community, GA ²

Hermitage, GA

Hiawassee, GA

Hickory Bluff, GA

Hickory Flat, GA ²

Hickory Hammock, GA ²

Hickox, GA

Hicks, GA

Hidden Hills, GA ²

Higdon, GA

Higdon Mill (Historical), GA

High Falls, GA

High Point, GA ¹

High Shoals, GA

Highland Heights, GA ²

Highland Park, GA

Highland Pines, GA ²

Hill City, GA

Hillsboro, GA ¹

Hilton, GA ²

Hilton Heights, GA ²

Hilview Youth Camp, GA ²

Hilyer, GA ²

Hinesville, GA ²

Hinkles, GA

Hinson Crossing, GA

Hird Island, GA

Hoboken, GA

Hog Mountain, GA

Hogan, GA

Hogansville, GA ²

Holbrook, GA ²

Holiday Hills (Subdivision), GA ²

Holland, GA

Hollingsworth, GA

Holly Hill, GA ²

Holly Isles, GA 1 2

Holly Spring, GA ²

Holly Springs, GA ²

Hollywood, GA

Holmas Town, GA ²

Homeland, GA

Homer, GA

Homerville, GA

Homestead Acres, GA ²

Honora, GA ²

Hood, GA

Hooker, GA

Hopkins, GA

Hormony Church, GA ²

Horse Stomp, GA

Horseshoe Cove, GA

Hortense, GA

Hothouse, GA

Houston, GA ²

Houston Lake, GA ²

Houston Valley, GA

Howards Mills, GA ²

Howell, GA

Huber, GA

Huffaker, GA

Hunts Corner, GA

Hurst, GA

Hutchings, GA

Hutchins Landing, GA ²

Ideal, GA

Idlewood, GA ²

Igo (Historical), GA

Imperial, GA ¹

Indian Springs, GA ¹

Indian Valley, GA ²

Indianola, GA ²

Interchange Village (Subdivision), GA ²

Iron City, GA 1 2

Isle Of Hope, GA

Ivylog, GA

Jackson, GA ¹

Jacksons Crossroads, GA ²

Jakin, GA ²

Jamaica, GA

James, GA

Jarrett, GA ²

Jarriel Bridge, GA ²

Jeff, GA ²

Jeffersonville, GA

Jenkinsburg, GA

Jennie, GA ²

Jesup, GA ²

Jewelville, GA

Jewtown, GA

Johnston, GA

Jones, GA

Jones Creek, GA ²

Jones Crossroads, GA ²

Jones Heights (Subdivision), GA ²

Jones Lake, GA ²

Jones Mill (Historical), GA

Josephine Park, GA

Joy Bluff, GA ²

Julienton, GA

Juliette, GA

Juniper, GA ²

Juno, GA

Junta, GA ²

Kartah, GA

Kathleen, GA ²

Keith, GA

Keiths Mill, GA

Keithsburg, GA ²

Keller, GA ²

Kelly, GA

Kennesaw, GA

Kennesaw Crossing, GA

Kensington, GA

Keysville, GA ²

Kiker, GA

Kilby Mill, GA

Kilkenny, GA ²

Kinderlou, GA ²

King Wood, GA

Kingsland, GA

Kingston, GA ²

Kinlaw, GA

Kinseytown, GA

Knott, GA ²

Krannert, GA

K'ville, GA ²

Kyle, GA

La Grange, GA ²

Ladds, GA ²

Lafayette, GA

Laffingal, GA ²

Lake Alapahp, GA ²

Lake Park, GA ²

Lakeland, GA

Lakemont, GA

Lakeshore Estates, GA

Lakeside, GA

Lamkin, GA ²

Lance Mill, GA

Landings, The, GA

Landrum, GA

Lanier, GA ²

Lanier Heights, GA

Lashley, GA ²

Lathemtown, GA ²

Laurel Hills, GA ²

Lavender, GA

Lavonia, GA ²

Lawrenceville, GA

Leaf, GA

Leah, GA ²

Leathersville, GA ²

Leatherwood, GA

Lebanon (Toonigh Station), GA ²

Lees Crossing, GA ²

Leicht (Historical), GA

Lela, GA 1 2

Leland, GA

Lenox, GA ²

Leo, GA

Leverett, GA ²

Lewis Corner, GA

Lewner, GA

Lexington, GA

Liberty, GA

Lickskillet, GA

Ligon (Historical), GA ²

Lilburn, GA

Lily Pond, GA

Limerick, GA ²

Lincoln Hills, GA ²

Lincolnton, GA ²

Lindale, GA

Linden, GA ²

Line, GA

Linesville, GA ²

Linwood, GA

Little Flock, GA ²

Little Hope, GA 1, 2,

Little Miami, GA ²

Little River, GA ²

Little River Landing, GA ²

Little River Park, GA

Little Spirit Creek Basin Community, GA ²

Livingston, GA

Lizella, GA

Loce, GA ²

Logan, GA ²

Long Branch, GA ²

Long Cane, GA ²

Long Shoals, GA

Lookout Mountain, GA

Lorane, GA

Lost Mountain, GA

Lotts (Historical), GA

Louise, GA ²

Louvale, GA ²

Louvale Station, GA ²

Love Hill, GA

Lovelace, GA ²

Lovers Lane, GA

Loving, GA

Lower Mill Creek, GA

Lower Sansavilla, GA ²

Lowes Crossing, GA

Lucile, GA ²

Lucius, GA

Ludowici, GA ²

Lula, GA

Lulaton, GA

Lumpkin, GA ²

Lundberg, GA ²

Lyerly, GA

Lyn Hills, GA ²

Lynntown, GA ²

Lytle, GA

Mableton, GA

Machen, GA

Macland, GA

Macon, GA

Maddox, GA

Madison, GA ¹

Madola, GA

Madray Springs, GA ²

Mahailey Crossroads, GA ²

Malbone (Historical), GA ²

Manassas, GA ²

Manningtown, GA ²

Manor, GA

Manson (Historical), GA

Maple Grove, GA

Maretts, GA ²

Margret, GA

Marietta, GA

Mariners Landing, GA ¹

Marion, GA

Mars Hill, GA

Marsh Crossing, GA

Marshallville, GA

Martin, GA ²

Martindale, GA

Martinez, GA ²

Mary Lane, GA

Mashburn Mill, GA

Mason, GA ²

Massee, GA ²

Masseyville, GA

Match, GA ²

Matlock, GA ²

Matt, GA ²

Mattox, GA

Maxeys, GA ¹

Maxim, GA ²

Maxwell, GA

Mayday, GA

Maynard, GA

Mays Bluff, GA

Mays-Ford, GA ²

Maysville, GA

Mccallie, GA ²

Mccaysville, GA

Mccullough, GA

Mcdade Rd./Mcbean Ga. Community, GA ²

Mcdaniels, GA

Mcdonald Acres, GA

Mcelheneys Crossroads, GA ¹

Mcintosh, GA ²

Mckee, GA

Mckinnon, GA ²

Mctier, GA ²

Meadowdale, GA ²

Meadowsville, GA ²

Meda, GA

Meeksville, GA ²

Melrose, GA ²

Melson, GA

Mendes, GA ²

Menlo, GA

Meridian, GA

Meriwether, GA

Metasville, GA ²

Mica, GA ²

Middleton, GA ²

Midland, GA ²

Midriver, GA

Midville, GA ²

Midway, GA 1, 2

Midway (Historical), GA

Mill Creek, GA

Milledgeville, GA

Millhaven, GA ²

Millwood, GA

Mineola, GA ²

Mineral Bluff, GA

Minneta, GA ¹

Mission Estates (Subdivision), GA ²

Mission Hills (Subdivision), GA ²

Mize, GA ²

Mogul, GA

Moniac, GA

Monks Crossing, GA ²

Montego Bay, GA

Montevideo, GA ²

Montezuma, GA

Monticello, GA ¹

Moons, GA

Morganton, GA

Morganville, GA

Morning Side Hills, GA

Morris, GA ²

Morris Estates, GA

Morton, GA

Mosquito Crossing, GA

Moss Oak, GA ²

Mossy Creek, GA

Mount Airy, GA

Mount Berry, GA

Mount Calvary, GA

Mount Carmel, GA

Mount Olive, GA

Mount Olivet, GA ²

Mount Pleasant, GA

Mountain City, GA

Mountain Ridge Estates, GA ²

Mountain Scene, GA

Mountain Springs, GA

Mountaintown, GA

Mountville, GA ²

Mt. Pleasant, GA²

Mud Creek, GA

Murchisons (Historical), GA ²

Murphy Junction, GA

Murrayville, GA

Myricks Mill, GA

Myrtle Grove, GA ²

N. Bobbyjones Exy. Community, GA ²

N. W. Gordon Hwy. Community, GA ²

N. Spirit Creek Basin Community, GA ²

Nacoochee, GA

Nahunta, GA

Nance Springs, GA

Nankipooh, GA ²

Naomi, GA

Naylor, GA ²

Neal Crossing, GA

Needham, GA

Needmore, GA

New Anderson, GA ²

New England, GA

New Franklin, GA

New Holland, GA

New Lowell, GA ²

New Point, GA

New Prospect, GA ²

New Town, GA ²

Newell, GA

Newport, GA

Nickelsville, GA

Nickville, GA ²

Nimblewill, GA ²

Noble, GA

Nona, GA

Noonday, GA

Norcross, GA

Norman, GA ²

North Canton, GA ²

North Cohutta (Historical), GA

North Elberton, GA ²

North Highland (Subdivision), GA ²

North Highlands, GA ²

North Lake, GA ²

North Washington Rd. Community, GA ²

North West Point, GA ²

Northcutt, GA

Norton, GA

Notalee Orchards, GA

Note, GA ¹

Nuberg, GA ²

Oak Dale, GA ²

Oak Knolls, GA ²

Oak Level, GA ²

Oakdale, GA

Oakland Heights, GA ²

Oakland Park, GA ²

Oakman, GA

Oakton, GA

Oakview, GA1, 2

Oakwell, GA

Oakwood, GA

Oasis, GA

Odessa, GA ²

Odis Crossroads, GA

Odum, GA ²

Ogeechee Farms, GA

Oglesby, GA ²

Oglethorpe, GA

Old Clyattville, GA ²

Old Plantation, GA

Old Salem, GA

Old Tugaloo Town (Subdivision), GA ²

Ollie, GA

Omaha, GA ²

O'neals Crossroads, GA ²

Oostanaula, GA

Ophir, GA ²

Oran, GA

Orange, GA ²

Orchard Hills, GA

Oreburg, GA

Orsman, GA

Osborn, GA

Oscarville, GA ²

Osprey Cove, GA

Ousley, GA ²

Owensbyville, GA ²

Owltown, GA

Pabst, GA ²

Padena, GA

Palato, GA

Palmetto Place, GA

Pancras, GA

Pantertown, GA

Paradise Acres, GA1 2

Paradise Park, GA ²

Pardue Mill, GA

Parhams, GA

Park City, GA

Parkchester, GA ²

Parkerosa, GA ²

Parkertown, GA ²

Parkertown Mill, GA ²

Parks Mill, GA

Parrett Crossing, GA

Patterson Island, GA

Paxton, GA

Payne, GA

Pearl, GA ²

Pebblebrook Estates, GA

Pecan City, GA ²

Pembroke, GA ²

Pendarvis, GA ²

Penfield, GA ¹

Penhollaway, GA ²

Pennick, GA

Pennington, GA

Pennville, GA

Pepperton, GA ¹

Perennial, GA

Perkins Place, GA ²

Perry, GA ²

Persimmon, GA

Petersburg, GA ²

Pettigrew, GA

Phelps, GA

Philomath, GA

Phinizy, GA ²

Phoenix, GA

Piedmont Heights, GA ²

Pierceville, GA

Pin Point, GA

Pine Harbor, GA

Pine Lake, GA1 2

Pine Log, GA ²

Pine Valley, GA

Pinefield Crossroads, GA

Pinesville, GA

Piney Bluff, GA

Piney Grove, GA ²

Pink, GA

Pinson, GA

Pirkle Woods, GA ²

Pisgah, GA

Pisgah (Po), GA

Plains, GA

Plainville, GA

Pleasant Valley, GA ²

Plentitude, GA

Plum Nelly, GA

Point Peter, GA

Pollards Corner, GA ²

Pond Spring, GA

Ponderosa Subdivision, GA ²

Pooler, GA

Popes Ferry, GA

Poppell Farms, GA

Popwellville, GA

Port Royal, GA ²

Port Wentworth, GA

Porter Springs, GA ²

Postell, GA

Potter, GA

Powder Springs, GA

Power Place, GA ²

Prater Mill, GA

Pratersville, GA

Prather, GA ²

Prather Bridge (Historical), GA ²

Prentiss, GA ²

Price, GA

Priester, GA

Prospect, GA

Prosperity, GA

Pumpkin Center, GA ²

Putnam, GA ²

Putney, GA ²

Pyles Marsh, GA

Pyne, GA ²

Quill, GA

Rabbit Hill, GA ²

Racepond, GA

Radio Springs, GA

Radium Springs, GA ²

Rains Landing, GA

Ramhurst, GA

Randall, GA ²

Ranger, GA

Raybon, GA

Rayle, GA ²

Raysville, GA ²

Recovery, GA ²

Red Clay, GA

Red Hill, GA

Redbud, GA

Redland, GA ²

Redwine Cove, GA

Reed Creek, GA ²

Reeseburg, GA

Reeves, GA

Refuge (Historical), GA

Reids, GA

Reids Crossroads, GA ¹

Reidsville, GA ²

Reka, GA ²

Relay, GA

Remerton, GA ²

Reo, GA

Resaca, GA

Resseaus Crossroads, GA ¹

Rest Haven, GA

Retreat, GA ²

Reynoldsville, GA1 2

Riceboro, GA1 2

Richland, GA ²

Richmond Hill, GA ²

Ridgeville, GA

Ridgeway Church, GA ²

Ridley, GA ²

Ringgold, GA

Ripley, GA

Rising Fawn, GA

Ritch, GA ²

River Bend, GA

River North, GA

River Oaks, GA

River Ridge, GA ²

Riverland Terrace, GA ²

Roberts Crossroads, GA

Roberts Dist., GA

Robertstown, GA

Robertsville, GA

Robinson, GA

Rock Branch, GA ²

Rock Creek, GA ²

Rock Hill, GA ²

Rock Spring, GA

Rockalo, GA ²

Rockridge, GA ²

Rockville, GA

Rocky Creek (Historical), GA

Rocky Face, GA

Rodgers, GA ²

Rogers Mill, GA

Rolston, GA

Rome, GA

Roosevelt, GA

Roosterville, GA ²

Ropers Crossroads, GA ²

Rose Hill Heights, GA ²

Rosedale, GA

Rosemont, GA ²

Rosier, GA ²

Rossville, GA

Round Oak, GA ¹

Roundtop, GA

Rousseau Spring (Historic), GA ²

Roving Hills Estates (Subdivision), GA ²

Rowena, GA ²

Rowland Spring, GA ²

Roy, GA

Royston, GA ²

Ruckersville, GA ²

Rudden, GA

Ruskin, GA

Russellville, GA

Rust Cemetery, GA ²

Rutland, GA

Rutledge, GA ¹

Rydal, GA ²

Rye Patch, GA ²

Ryo, GA

S.E. 56 & Bennock Mill Community, GA ²

S.W. Blythe Community, GA ²

Saddle Ridge Estates, GA ²

Sadlers Landing, GA

Saffold, GA ²

Saint Clair, GA ²

Saint George, GA ¹

Saint Louis, GA

Saint Marys, GA

Saint Marys Hills, GA ²

Saint Simons, GA

Saint Simons Island, GA

Salacoa, GA ²

Salter, GA

Sand Bed, GA ²

Sand Hills, GA ²

Sandfly, GA

Sandtown, GA ²

Sandy, GA

Sandy Cross, GA

Sandy Hill, GA ²

Sandy Plains, GA

Santaluca, GA

Sapelo Island, GA

Sappville, GA

Sarah, GA

Sardis, GA ²

Satolah, GA

Sautee, GA

Savannah, GA

Savannah Beach, GA ²

Sawatchee, GA ²

Sawdust, GA ²

Scarlet, GA

Scenic Hills, GA

Schatulga, GA ²

Schlatterville, GA

Scotchville, GA

Scotts Corner, GA ²

Scottsboro, GA

Screven, GA ²

Screven Fork, GA ²

Scuffletown, GA ²

Sea Island, GA

Seabrook, GA ²

Seals, GA

Sequoyah Estates, GA ²

Shadowlawn, GA

Shady Dale, GA

Shady Lake (Subdivision), GA ²

Shallwood (Subdivision), GA ²

Shana, GA

Shannon, GA

Sharp Top, GA ²

Shawville, GA ²

Shell B.Landing, GA ²

Shell Bluff, GA ²

Shellman (Historical), GA ²

Shellman Bluff, GA

Shiloh (Historical), GA ²

Shirley Grove, GA

Shoal Creek, GA ²

Shookville, GA

Shorewood (Subdivision), GA ²

Shorts Mill, GA

Silco, GA

Silk Mills, GA ²

Siloam, GA

Silver City, GA

Silver Creek, GA

Silver Hill, GA

Simpson, GA ²

Simpson Crossroads, GA ²

Sinclaire Marina, GA

Sirmans, GA

Six Mile, GA

Skipperton, GA

Skullhead, GA

Sky Valley, GA

Slover, GA ²

Smarr, GA ¹

Smiley Crossroads, GA ²

Smiley Woods, GA ²

Smithboro, GA

Smithonia, GA

Smiths Crossroad, GA ²

Smiths Mill, GA ²

Smithsonia, GA

Smyrna, GA

Snake Nation, GA ²

Snead, GA ²

Snellville, GA

Snow Springs, GA ²

Soap Cr./Montigo Pt. Subdivisions, GA ²

Soapstick, GA

Sofkee, GA

Sonoraville, GA

Sophia (Historical), GA ²

South Canton, GA ²

South Newport, GA

South Rossville, GA

Southern Junction, GA

Spalding, GA

Sparks Mill, GA

Spencer Hills, GA

Spile, GA

Spout Spring Crossroads, GA

Spring Bluff, GA

Spring Branch, GA ²

Spring Creek, GA ²

Spring Lake, GA

Spring Place, GA

Spring View Acres, GA

Springhill, GA ²

Sprite, GA

Stafford, GA

Stage Coach, GA

Stamp Creek (Historical), GA ²

Stanfield, GA ²

Stanfordville, GA ¹

Stanley Mill (Historical), GA

Star Mills, GA

Stark, GA ¹

Statenville, GA

Staunton, GA ²

Stephens, GA ¹

Stephens Grove, GA

Stephensville, GA

Sterling, GA

Stewart Mill, GA

Stewart Town, GA

Stilesboro, GA ²

Stock Hill, GA

Stockton, GA

Stones Crossroads, GA ²

Stoney Hill, GA ²

Stovall Mill, GA

Strouds, GA

Subligna, GA

Suches, GA

Sugar Creek, GA

Sugar Hill (Historical), GA ²

Sugar Valley, GA

Sugarmill Plantation, GA

Sugartown, GA

Sulphur Springs Station, GA

Sumac, GA

Summerville, GA

Summit (Historical), GA ²

Summit Hill, GA

Sunbury, GA ²

Sunnyside, GA

Sunset Heights, GA

Sunset Terrace, GA ²

Surrency, GA ²

Sutallee, GA ²

Suttles Mill, GA

Suttons Corner, GA ²

Suwanee, GA

Swan, GA

Swanson Mill, GA

Sweet Gum, GA

Swords, GA ¹

Sybert, GA ²

Tails Creek, GA

Talamanda, GA

Tallulah Falls, GA

Talona, GA

Tanner Mill, GA

Tarboro, GA

Tarver, GA

Tarversville, GA

Tate City, GA

Tattnall Camp Ground, GA ²

Tattnall Woods, GA ²

Tatum (Historical), GA

Tatum Corner, GA ²

Taylorsville, GA ²

Tazewell, GA ²

Teeterville, GA

Telfair Woods, GA ²

Teloga, GA

Temperance Bell, GA

Temple Grove, GA

Tennga, GA

Terra Cotta, GA

Terrell Heights (Subdivision), GA ²

Tetlow, GA ²

Texas, GA ²

Thalean, GA

Thalmann, GA

The Colony, GA

The Meadows, GA

Thirteen Forks, GA ²

Thomas Mill, GA

Thompsonville, GA

Thomson, GA ²

Three Forks, GA

Three Points, GA

Thunderbolt, GA

Tibet, GA ²

Tickanetley, GA

Tidings, GA

Tiger, GA

Tignall, GA ²

Tillman, GA ²

Tilton, GA

Tioga, GA

Tippins Lake, GA ²

Titus, GA

Toccoa, GA ²

Toccoa Creek, GA ²

Toccoa Falls, GA ²

Toledo, GA

Tompkins, GA

Toms Creek, GA ²

Toonnerville, GA

Town Creek, GA

Townsend, GA

Townsend Mill, GA

Traders Hill, GA

Traisville, GA

Travelers Rest (Historical), GA ²

Treadwell, GA

Trenton, GA

Trickum, GA

Trimble, GA ²

Trion, GA

Troutman, GA ²

Trudie, GA

Tugaloo, GA

Tunnel Hill, GA

Turners Corner, GA ²

Turnerville, GA

Turtle Cove, GA

Twin Lakes, GA ²

Tybee Island, GA

Tyson, GA ²

Underwood, GA

Undine, GA ²

Union Point, GA

Unity, GA

Univeter, GA ²

Upatoi, GA ²

Upper Bradley Place, GA ²

Uptonville, GA

Urquhart, GA ²

Vacuna (Historical), GA

Valdosta, GA ²

Valley Oak Acres (Subdivision), GA ²

Valley View, GA

Valona, GA

Vandiver, GA

Vanna, GA ²

Vans Valley, GA

Varnell, GA

Veazey, GA

Veribest, GA

Vernon, GA ²

Vernonburg, GA

Vesta, GA

Veterans Park, GA ²

Vickers Crossing, GA

Victoria, GA ²

Victoria Landing, GA ²

Vidette, GA ²

Villanow, GA

Vinings, GA

Viola, GA ²

Vista Terrace, GA ²

Wagon Wheel, GA ²

Wahoma, GA

Walden, GA

Waleska, GA ²

Walker, GA ²

Walker Hills, GA ²

Walker's Church, GA

Walker's Crossing, GA ²

Wallaceville, GA

Waltertown, GA

Walthourville, GA ²

Wards Creek, GA ²

Wares Crossroads, GA¹ ²

Waresboro, GA

Waresville, GA ²

Warfield, GA

Waring, GA

Warner Robins, GA ²

Warren Terrace, GA

Washington, GA ²

Water Valley (Historical), GA

Waterville, GA

Watkinsville, GA

Waverly, GA

Waverly Park, GA

Wax, GA

Waycross, GA

Wayfare Estates (Subdivision), GA ²

Waynesboro, GA ²

Waynesville, GA

Wayside, GA¹

Welch, GA

Welcome Hill, GA

Weracoba Heights, GA ²

Wesley Chapel, GA

Wesleyan, GA

West Armuchee, GA

West Brow, GA

West Point, GA ²

West Summerville, GA

West Valdosta, GA ²

Westlake, GA

Westoak, GA

Wheeler (Historical), GA

Wheeler Heights, GA

Whispering Pines, GA ²

White, GA ²

White Oak, GA

White Path, GA

White Pines, GA ²

White Plains, GA

White Sulphur, GA

Whitestone, GA

Whitfield, GA ²

Whitworth, GA ²

Wildwood, GA

Wildwood (Subdivision), GA ²

Wiley, GA

Willard, GA¹

Willett, GA ²

Williamstown, GA

Willis Plaza, GA ²

Wilscot, GA

Wilson Mill, GA

Winchester, GA

Windy Ridge, GA

Winfield, GA ²

Winfield Hill, GA ²

Winokur, GA

Winona Park, GA

Withers, GA

Wolfskin, GA

Woodbine, GA

Woodlawn, GA ²

Woodlawn Estates, GA ²

Woodstation, GA

Woodstock, GA ²

Woodville, GA¹

Woollys (Historical), GA ²

Worley Crossroads, GA ²

Wormsloe, GA

Worthville, GA

Wrayswood, GA

Wright Mill, GA

Wrights Chapel, GA

Wrightsboro, GA ²

Wynnton, GA ²

Yarbroughs Mill, GA

Yates Crossroads, GA ²

Yellow Bluff, GA ²

Yellow Dirt, GA ²

Yonah, GA

York, GA

Young Harris, GA

Youngs Island, GA

Youngstown, GA

Yukon, GA

Zellobee, GA ²

Zetto, GA ²

Zion, GA ²

Zuta, GA

Apra Heights Area, GU ²

Asan Village, GU

Mt. Santa Rosa, Yigo, GU

Nimitz Hill, Channel 10 Road, GU1 2

Santa Rita, Js Borja Street, Route 5 & 12, GU1, 2

Sinajana, Pipeline Area, GU1 2

Aiea, HI ²

Aliamanu-Salt Lake, HI ²

Ewa, HI

Fern Acres, HI

Fern Forest, HI

Glenwood, HI

Hawaii Kai, HI ²

Kailua-Kona, HI

Kaneohe, HI ²

Kapoho, HI ²

Kaupo, HI

Kawaihae, HI

Kekaha, HI ²

Kilauea, HI

Kipahulu, HI

Kokee, HI1 2

Koolauloa, HI

Makakilo Mauka, HI ²

Makakilo/Kapolei, HI ²

Mililani Mauka, HI

Mililani-Waipio, HI ²

Moanalua, HI ²

Mokapu, HI ²

North Shore, HI ²

Pearl City, HI ²

Volcano, HI

Wahiawa, HI ²

Waianae Coast, HI ²

Waimanalo, HI ²

Waipahu, HI ²

Ankeny, IA,1 2

Boone, IA1 2

Carlisle, IA1 2

Coralville, IA1 2

Hartford, IA1 2

Iowa City, IA1 2

Johnston, IA1 2

Knoxville Rural, IA1 2

Madrid, IA1 2

Marquette, IA ¹

Mesquakie, IA

Mesquakie Indian Reservation, IA

North Liberty, IA1 2

Pella, IA1 2

Polk City, IA1 2

Prairie City, IA1 2

Solon, IA1 2

Swan, IA1 2

Swisher, IA1 2

Aberdeen, ID

Acequin, ID

Ahsahka, ID

Albeni, ID

Albion, ID

Almo, ID

Alridge, ID

American Falls, ID

Ammon, ID

Arbon, ID

Arco, ID

Arimo, ID

Ashton, ID

Athol, ID

Atlanta, ID

Atomic City, ID ¹

Avery, ID

Avon, ID

Baker, ID ¹

Bancroft, ID

Banida, ID

Banks, ID

Basalt, ID

Bayview, ID

Bearpaw, ID

Bellevue, ID

Bennington, ID

Bern, ID

Blackfoot, ID

Blanchard, ID

Bliss, ID ¹

Bloomington, ID

Bluebell, ID

Boise, ID ¹

Bone, ID

Bonners Ferry, ID ¹

Bovill, ID

Bowmont, ID

Bridge, ID

Bruneau, ID

Bruneau Hot Springs, ID

Buhl, ID

Burke, ID

Burley, ID

Butte City, ID

Cabinet, ID

Calder, ID

Caldwell, ID

Cambridge, ID

Cape Horn, ID

Carey, ID ¹

Careywood, ID

Carmen, ID ¹

Cascade, ID

Castleford, ID

Cataldo, ID

Cavendish, ID

Centerville, ID

Challis, ID ¹

Chatcolet, ID ¹

Chester, ID

Chubbuck, ID

Clark Fork, ID ¹

Clarkia, ID

Clayton, ID ¹

Clearwater, ID

Clifton, ID

Cobalt, ID ¹

Cocolalla, ID

Coeur d'Alene, ID ¹

Colburn, ID

Conda, ID

Conner Creek, ID

Coolin, ID

Copeland, ID

Corral, ID

Cottonwood, ID ¹

Council, ID

Craigmont, ID ¹

Crouch, ID ¹

Culdesac, ID

Cuprum, ID

Dalton Gardens, ID

Darlington, ID

Dayton, ID

Deary, ID

Declo, ID

Desmet, ID

Dietrich, ID

Dingle, ID

Dixie, ID ¹

Donnelly, ID

Dover, ID

Downey, ID

Driggs, ID ¹

Drummond, ID

Dubois, ID

Eagle, ID

East Hope, ID ¹

Eastport, ID ¹

Eden, ID

Edgemere, ID

Elba, ID ¹

Elk Bend, ID

Elk City, ID ¹

Elk River, ID

Elkhorn Village, ID

Ellis, ID

Elmira, ID

Emida, ID

Emmett, ID

Enaville, ID

Evergreen, ID

Fairfield, ID ¹

Fairview, ID

Featherville, ID ¹

Felt, ID

Fenn, ID

Ferdinand, ID

Fernan Lake, ID

Fernwood, ID

Filer, ID

Firth, ID

Fish Haven, ID

Fort Hall, ID

Franklin, ID

Fruit Vale, ID

Fruitland, ID

Gannett, ID

Garden City, ID

Garden Valley, ID ¹

Gardena, ID

Garfield, ID

Garfield Bay, ID

Garwood, ID

Gem, ID

Genesee, ID

Geneva, ID

Georgetown, ID

Gibbonsville, ID

Gifford, ID

Gilmore, ID

Givens Hot Springs, ID

Glenns Ferry, ID ¹

Golden, ID

Gooding, ID ¹

Grace, ID ¹

Grandview, ID

Grangemont, ID

Grangeville, ID

Granite, ID

Grant, ID

Grasmere, ID

Greencreek, ID

Greenleaf, ID

Greer, ID

Hagerman, ID

Hailey, ID ¹

Hamer, ID

Hammett, ID

Hansen, ID

Harpster, ID

Harrison, ID

Harvard, ID ¹

Hauser, ID

Hayden, ID ¹

Hayden Lake, ID ¹

Hazelton, ID

Headquarters, ID

Heise, ID ¹

Helmer, ID

Henry, ID

Heyburn, ID

Hill City, ID

Holbrook, ID

Hollister, ID ¹

Homedale, ID

Hope, ID ¹

Horseshoe Bend, ID ¹

Houston, ID

Howe, ID ¹

Huetter, ID

Humphrey, ID

Idaho City, ID ¹

Idaho Falls, ID ¹

Indian Valley, ID

Inkom, ID ¹

Iona, ID

Irwin, ID

Island Park, ID ¹

Jerome, ID ¹

Joel, ID

Juiliaetta, ID

Kamiah, ID ¹

Kellogg, ID

Kendrick, ID

Ketchum, ID ¹

Keuterville, ID

Kilgore, ID ¹

Kimama, ID

Kimberly, ID

King Hill, ID

Kingston, ID

Kleinschmidt, ID

Kooskia, ID ¹

Kootenai, ID

Kuna, ID ¹

Laclede, ID

Lake Fork, ID

Lakeview, ID

Lamb Creek, ID ¹

Lane, ID

Lapwai, ID ¹

Lava Hot Springs, ID ¹

Leadore, ID ¹

Lemhi, ID ¹

Lenore, ID

Leonia, ID

Letha, ID

Lewiston, ID ¹

Lewisville, ID

Lincoln, ID

Lorenzo, ID

Lost River, ID

Lowell, ID

Lowman, ID

Lucille, ID

Lund, ID

Mackay, ID ¹

Macks Inn, ID

Malad, ID ¹

Malta, ID ¹

Marion, ID

Marsing, ID

Marysville, ID

May, ID

Mayfield, ID ¹

Mccall, ID ¹

Mccammon, ID

Meadow Creek, ID

Meadows, ID

Medimont, ID ¹

Melba, ID

Menan, ID

Meridian, ID

Mesa, ID

Middleton, ID

Midvale, ID ¹

Minidoka, ID

Mink Creek, ID

Mohler, ID

Monteview, ID

Montpelier, ID

Moore, ID

Moravia, ID

Moreland, ID

Moscow, ID

Mount Idaho, ID

Mountain Home, ID ¹

Moyie Springs, ID

Mud Lake, ID

Mullan, ID

Murphy, ID

Murray, ID ¹

Murtaugh, ID

Myrtle, ID

Naf, ID

Nampa, ID

Naples, ID

New Meadows, ID

New Plymouth, ID

Newdale, ID

Nezperce, ID

Nordman, ID

Norland, ID

Northfork, ID

Notus, ID

Nounan, ID

Oakley, ID ¹

Ola, ID

Oldtown, ID

Onaway, ID

Oreana, ID

Orofino, ID

Orogrande, ID

Osburn, ID

Ovid, ID

Owyhee, ID

Oxford, ID

Palisades, ID

Paris, ID

Parker, ID

Parkline, ID

Parma, ID

Patterson, ID

Paul, ID

Pauline, ID

Payette, ID ¹

Pearl, ID

Peck, ID

Picabo, ID

Pierce, ID

Pine, ID ¹

Pinehurst, ID ¹

Pingree, ID

Pioneerville, ID

Placerville, ID

Plummer, ID ¹

Pocatello, ID ¹

Pollock, ID

Ponderay, ID

Porthill, ID

Portneuf, ID

Post Falls, ID

Potlatch, ID ¹

Prairie, ID

Preston, ID ¹

Priest Lake, ID ¹

Priest River, ID

Princeton, ID

Pritchard, ID ¹

Raft River, ID

Rathdrum, ID

Reubens, ID

Rexburg, ID

Reynolds, ID

Richfield, ID

Riddle, ID

Rigby, ID

Riggins, ID ¹

Ririe, ID

Riverside, ID

Roberts, ID

Robin, ID

Rock Creek, ID ¹

Rockford, ID

Rockland, ID

Rogerson, ID ¹

Rose Lake, ID

Roswell, ID

Rupert, ID

Sagle, ID1

Salmon, ID ¹

Samaria, ID

Samuels, ID

Sanders, ID

Sandpoint, ID

Santa, ID

Secesh Meadows, ID

Setters, ID

Shelley, ID

Shoshone, ID

Shoup, ID

Silver City, ID ¹

Silverton, ID

Smelterville, ID

Smiths Ferry, ID

Soda Springs, ID ¹

South Mountain, ID

Southwick, ID

Spalding, ID

Spencer, ID ¹

Spirit Lake, ID

Springfield, ID

Springston, ID

St Anthony, ID

St Charles, ID

St Joe City, ID

St Maries, ID

Stanley, ID ¹

Star, ID

Starkey, ID

State Line, ID

Sterling, ID

Stibnite, ID

Stites, ID ¹

Stone, ID

Sugar City, ID

Sun Beam, ID ¹

Sun Valley, ID ¹

Swan Lake, ID ¹

Swan Valley, ID

Sweet, ID

Tamarack, ID

Tendoy, ID ¹

Tensed, ID

Terrenton, ID

Teton, ID ¹

Tetonia, ID

Thatcher, ID

Thorton, ID

Three Creek, ID

Triangle, ID

Troy, ID

Tuttle, ID

Twin Falls, ID ¹

Ucon, ID

Victor, ID

Viola, ID

Virginia, ID

Waha, ID ¹

Wallace, ID

Wardner, ID

Warm Lake, ID ¹

Warm River, ID

Warren, ID

Wayan, ID

Weippe, ID

Weiser, ID

Wendell, ID

Westmond, ID

Weston, ID

White Bird, ID ¹

Whitney, ID

Wilder, ID

Wilderness Ranch, ID ¹

Winchester, ID

Woodland, ID

Worley, ID ¹

Yellow Pine, ID ¹

Arrow, ID

Bannock Creek/Arbon Valley, ID

Coeur D'alene Subagency, ID

Hatwai, ID ¹

Juliaetta, ID

Kamiah, ID ¹

Kooskia, ID ¹

Lapwai, ID ¹

Lenore, ID

Lincoln Creek, ID

North Lapwai, ID ¹

Orofino, ID

Pauline, ID

Plummer, ID ¹

Pocatello Creek/Buckskin Area, ID

Riverside, ID ¹

St. Maries, ID

Stites, ID

Sweetwater, ID

Winchester, ID ¹

Wolverine Canyon, ID

Worley, ID ¹

Deer Run Industrial Park, IL

Lincoln Nat Cemetery, IL ¹

Mobil Oil, IL ¹

Abydel, IN

Apalona, IN

Arthur, IN

Augusta, IN

Ayrshire, IN

Bandon, IN

Bartlettsville, IN

Bean Blossom, IN

Beverly Shores, IN

Birdseye, IN

Bloomington, IN

Branchville, IN

Brownstown, IN

Bryantsville, IN

Burns Harbor, IN

Butlerville, IN

Campbelltown, IN

Canaan, IN

Cannellton, IN

Chambersburg, IN

Chappel Hill, IN

Chesterton, IN

Chestnut Ridge, IN

Dabney, IN

Derby, IN

Dexter, IN

Dodd, IN

Dudleytown, IN

Dune Acres, IN

Dupont, IN

Elkensville, IN

English, IN

Four Corner, IN

Francisco, IN

Freetown, IN

Gary, IN

Gatchel, IN

Gerald, IN

Hardinggrove, IN

Hayden, IN

Hazelton, IN

Heltonville, IN

Hobart, IN

Holton, IN

Houston, IN

Huron, IN

Ironton, IN

Kriete Corner, IN

Kurtz, IN

Lacy, IN

Lake Of Four Seasons, IN

Lauer, IN

Leavenworth, IN

Leopold, IN

Lilly Dale, IN

Lost River, IN

Madison, IN

Magnet, IN

Maumee, IN

Moorsetown, IN

Mt. Pleasant, IN

Mt. Tabor, IN

Natchez, IN

New Farmington, IN

New Marion, IN

Norman, IN

Oakland City, IN

Odgen Dunes, IN

Oriole, IN

Paoli, IN

Patoka, IN

Pikeville, IN

Pleasant Valley, IN

Portage, IN

Porter, IN

Princeton, IN

Prospect, IN

Ranger, IN

Rocky Point, IN

Roland, IN

Rome, IN

Rusk, IN

Seymour, IN

South Haven, IN

Spraytown, IN

Spurgeons Corner, IN

St. Croix, IN

Stinesville, IN

Story, IN

Tell City, IN

Terry, IN

Tobinsport, IN

Town Of Pines, IN

Waymansville, IN

West Baden Springs, IN

Westville, IN

Windom, IN

Winslow, IN

Woodlawn Grove, IN

Yenne, IN

Zelma, IN

Blue Rapids, KS ²

Carneiro, KS ²

Clinton, KS ²

Delia, KS

Elkhart, KS

Glade, KS

Grandview Plaza, KS ²

Hartford, KS

Hillsdale, KS ²

Junction City, KS ²

Kanopolis, KS ²

Kanwaka, KS ²

Keats, KS ²

Kickapoo, KS ²

Kirwin, KS

Leavenworth, KS ²

Lebo, KS ²

Mayetta, KS

Melvern, KS ²

Meriden, KS ²

Michigan Valley, KS ²

Milford, KS ²

Neosho Rapids, KS

Ogden, KS ²

Olivet, KS ²

Oskaloosa, KS ²

Ottumwa, KS

Ozawkie, KS ²

Perry, KS ²

Pleasanton, KS

Powhattan, KS

Randolph, KS ²

Reading, KS ²

Reserve, KS

Riley, KS ²

Rock Creek, KS ²

Rolla, KS

Spring Hill, KS ²

Strong City, KS

Stull, KS ²

Trading Post, KS

Valley Falls, KS ²

Vassar, KS ²

Wakefield, KS ²

White Cloud, KS

Woodruff, KS ²

Cottonwood Falls, KS

Hudson, KS

Quivera Nwr Hq, KS

Alexandria State Forest, LA ¹

Antonia, LA ¹

Arabi, LA

Ashland, LA

Atlanta, LA

Bagdad, LA

Bellwood, LA

Bentley, LA ¹

Big Branch, LA

Bogue Chitto, LA ¹

Brewton's Mill, LA ¹

Calvin, LA ¹

Caster Plunge, LA ¹

Chalmette, LA

Chestnut, LA

Coldwater, LA ¹

Couley/Saline Lake, LA

Covington, LA ¹

Cravens, LA ¹

Dry Prong, LA ¹

Eunice, LA

Fairfield, LA ¹

Fishville, LA

Flatwoods, LA

Florida Parishes, LA ¹

Forest Hill, LA

Ft. Polk, LA ¹

Fullerton, LA ¹

Gardner, LA

Georgetown, LA

Goldonna, LA

Gorum, LA

Grangeville, LA ²

Gretna, LA

Hinston, LA

Irish Bayou, LA

Johnsonville, LA ¹

Jordan Hill, LA ¹

Lacombe, LA ¹

Lafayette, LA

Mandeville, LA ¹

Marlow, LA ¹

Marrero, LA

Melder, LA

Melrose, LA

Meraux, LA

Montgomery, LA

Mound, LA

Natchez, LA

New Orleans, LA

Oak Hill/Elmer, LA ¹

Oden, LA

Packton, LA ¹

Penial, LA

Pickering, LA

Pollock, LA ¹

Poydras, LA

Provencal, LA

Readheimer, LA

Rock Hill, LA

Slidell, LA ¹

Spring Creek, LA ¹

St. Maurice, LA

Statewide, LA ¹

Sunset, LA ¹

Thibodaux, LA

Venetian Isles, LA

Verda, LA

Vidalia, LA

Violet, LA

Vowels Mill, LA

Wheeling, LA

Willianna, LA ¹

Winnfield, LA

Woodworth, LA

Aquinnah, MA

Bourne, MA 1 2

Commonlands, MA

Eastham, MA

Mashpee, MA

Nantucket, MA ¹

Plymouth, MA ¹

Provincetown, MA

Truro, MA

Wampanoaq, MA

Wellfleet, MA

Aberdeen Proving Gounds, MD ²

Bishops Head, MD

Bucktown/Green Briar Roads, MD

Crocheron, MD

Crystal Falls, MD ¹

Duckettsville, MD

Garrison Hollow, MD

Halltown, MD

Hilltop Lane, MD

Horseshoe Bend, MD ¹

Little Orleans, MD

Madison, MD

Maple Dam Road, MD

Montpelier Woods, MD

Potomac Valley Farm, MD ¹

Robbins, MD

Shorters Wharf, MD

Smithville, MD

West Fredrick, MD 1 2

Albany, ME

Alder Stream Twp., ME

Argyle, ME

Bar Harbor, ME

Baring, ME

Benton, ME

Bethel, ME

Biddeford, ME

Brunswick, ME ²

Calais, ME

Cape Elizabeth, ME

Caribou, ME ²

Caswell, ME ²

Connor, ME ²

Cooks Corner, ME ²

Cutler, ME

Edmunds, ME

Fort Fairfield, ME ²

Fowler, ME

Gilead, ME

Gouldsboro, ME

Greenbush, ME

Greenfield, ME

Hall Quarry, ME

Hollis, ME

Hull's Cove, ME

Indian Island, ME

Indian Township, ME

Isle Au Haut, ME

Junior Lake, ME

Kennebunk, ME

Kennebunkport, ME

Kittery, ME

Limestone, ME ²

Lovell, ME

Manset, ME

Marion, ME

Milford, ME

Mt. Desert Island, ME

Newfield, ME

Northeast Harbor, ME

Old Town, ME

Otter Creek, ME

Peter Dana Point, ME

Pleasant Point, ME

Princeton, ME

Saco, ME

Scarborough, ME

Schoodic Point, ME ²

Seal Harbor, ME

Seawall, ME

Shapleigh, ME

Southwest Harbor, ME

Stoneham, ME

T3 R1, ME

T6 R8 Wels, ME

Topsham, ME ²

Tremont, ME

Trenton, ME

Trescott, ME

Waite, ME

Waterboro, ME

Waterford, ME

Wells, ME

West Tremont, ME

Whiting, ME

Williamsburg, ME

Winter Harbor, ME

York, ME

Alcona Township, MI

Au Train Township, MI

Baldwin, MI

Baraga, MI

Barton Township, MI

Battle Creek, MI ²

Bay De Noc Twp., MI

Beaver Creek Township, MI ¹

Big Creek Township, MI

Big Prairie Township, MI

Blue Lake Township, MI

Branch Township, MI

Brimley, MI

Brooks Township, MI

Cadillac, MI

Cherry Grove Twp., MI

Chippewa Township, MI

Cleveland Township, MI

Clinton Township, MI

Comins Township, MI

Covington Township, MI

Croton Township, MI

Curtis Township, MI

Denver Township, MI

Dublin, MI

Duncan Township, MI

Empire Township, MI

Ensign Township, MI

Forsyth Township, MI1 2

Frederick Township, MI ¹

Freesoil Township, MI

Galesburg, MI ²

Garden Township, MI

Germfask Township, MI

Gladstone, MI

Glen Arbor, MI

Glen Arbor Township, MI

Glennie, MI

Grant Township, MI

Grayling, MI1 2

Grayling Township, MI¹

Greenwood Township, MI

Gwinn, MI1 2

Holton, MI

Holton Township, MI

Home Township, MI

Howard City, MI

Hoxeyville, MI

Interior Township, MI

Iron River, MI

Iron River Township, MI

Irons, MI

Lake Township, MI

Lakewood, MI

L'anse, MI

Logan Township, MI

Lovells Township, MI ¹

Luther, MI

Luzerne, MI

Mack Lake, MI

Masonville Township, MI

Mathias Township, MI

Meade Township, MI

Mentor Township, MI

Merrill Township, MI

Mikado, MI

Mikado Township, MI

Millen Township, MI

Mio, MI

Monroe Township, MI

Montague, MI

Montague Township, MI

Munising Township, MI

Nahma Township, MI

Newaygo, MI

Newfield Township, MI

Norwich Township, MI

Oscoda, MI

Oscoda Township, MI

Plainfield Township, MI

Platte Township, MI

Raco, MI

Rapid River, MI

Reynolds Township, MI

Rockland Township, MI

S. Branch Township, MI ¹

Saginaw, MI

Saginaw Township, MI

Saint Helen, MI

Selma Township, MI

Seney, MI

South Branch, MI

Springville Township, MI

Stambaugh Township, MI

Stannard Township, MI

Stonington, MI

Stronach, MI

Stronach Township, MI

Superior Township, MI

Trenary, MI

Trout Lake, MI

Trout Lake Township, MI

Troy Township, MI

Twin Lake, MI

Wakefield, MI

Weidman, MI

Wellston, MI

White Cloud, MI

Whitehall, MI

Wilbur Township, MI

Wise Township, MI

Wolf Lake, MI

Woodville, MI

Aurora, MN

Babbit, MN

Bagley, MN

Ball Club, MN ¹

Becker, MN

Bena, MN

Bigfork, MN

Biwabik, MN

Blackduck, MN

Bowstring, MN

Boy River, MN

Brimson, MN

Britt, MN

Brookston, MN

Burnsville, MN

Buyck, MN

Cass Lake, MN

Cass Lake/ Mission/ Pen, MN

Cloquet, MN ¹

Cook, MN

Crane Lake, MN

Deer River, MN

Eagan, MN

East Lake, MN

Elbow Lake, MN ¹

Ely, MN

Embarrass, MN

Federal Dam, MN

Grand Portage, MN

Gunflint Corridor, MN

Hackensack, MN

Hinckley, MN

Hovland, MN

Hoyt Lakes, MN

Indian Pt., MN

Inger, MN

International Falls, MN

Isabella, MN

Jessie Lake, MN

Kabetogama, MN

Kebish, MN

Lake Itasca, MN

Laporte, MN

Longville, MN

Marcell, MN

Mcgregor, MN

Mckinley, MN

Naytahwaush, MN

Nett Lake, MN

North Shore Communities, MN

Onigum, MN

Orr, MN

Osage, MN

Palmquist, MN ¹

Pine Pt., MN

Ponemah, MN

Ponsford, MN

Princeton, MN

Ranier, MN

Red Lake, MN

Redby, MN

Remer, MN

Rice Lake, MN

Sawyer, MN ¹

Soudan, MN

Squaw Lake, MN

Talmoon, MN

Taylor Falls, MN

Two Inlets, MN

Vermillion, MN

Vineland, MN

Virginia, MN

Walker, MN

White Earth, MN ¹

Whiteface Reservoir, MN

Zimmerman, MN

Alley Spring, MO

Alton, MO

Annada, MO

Bardley, MO

Battlefield, MO ¹

Bennett, MO

Big Piney, MO

Big Spring, MO

Bixby, MO ¹

Black, MO

Blue Buck, MO

Boss, MO

Boydsville, MO ¹

Bradleyville, MO ¹

Brazil, MO

Brownfield, MO

Bunker, MO ¹

Centerville, MO

Central, MO

Chadwick, MO

Cherryville, MO

Collins Ridge, MO

Delbridge, MO

Diamond, MO

Duke, MO

Eastwood, MO

Ellsinore, MO

Eminence, MO

Englewood, MO

Evening Shade, MO

Fairview, MO

Falcon, MO

Fremont, MO

Garrison, MO

Greeley, MO

Greenville, MO

Greer, MO

Handy, MO

Hanna, MO

Hendrickson, MO

Hilda, MO

Hill City, MO

Huzzah, MO

Ironton, MO ¹

Jadwin, MO

Keltner, MO

Killarney Shores, MO

Kimberling City, MO

Lampe, MO

Lisbon, MO

Longrun, MO

Low Wassie, MO

Lynchburg, MO

Marquland, MO

Mcclurg, MO

Mill Spring, MO

Mound City, MO

New Liberty, MO

Newburg, MO ¹

Owls Bend, MO ¹

Pine, MO

Plato, MO

Pomona, MO

Puxico, MO

Redmondville, MO

Reynolds, MO

Riverton, MO

Rockhouse, MO

Rombauer, MO

Round Spring, MO

Rueter, MO

Seneca #1, MO

Shell Knob, MO

Siloam Springs, MO

Sparta, MO

Success, MO

Sumner, MO

Timber, MO

Van Buren, MO ¹

Viburnum, MO

West Fork, MO

Wilderness, MO

Williamsville, MO ¹

Winona, MO ¹

Abbeville, MS

Aberdeen, MS ²

Ackerman, MS

Allen, MS

Amory, MS ²

Anquilla, MS

Arkabutla, MS ²

Ashland, MS

August Landing, MS ²

Avent, MS

Bacon Springs, MS ²

Barlow, MS

Barton Ferry, MS ²

Baxter, MS

Bay Springs, MS

Be Welcome, MS

Beat 4, MS

Beaumont, MS

Becker, MS ²

Belmont, MS

Benndale, MS

Berea, MS

Betheden, MS

Bethelam, MS

Beulah Hill, MS

Bigbee, MS ²

Bigbee Valley, MS ²

Biloxi, MS ¹

Bissel, MS

Blue Hill, MS

Blue Mt., MS

Bogue Chitto, MS

Boguechitto, MS

Boque Chitto, MS

Brody, MS

Brooklyn, MS

Browning Creek, MS

Buckatunna, MS

Bud Price Camp, MS ²

Bude, MS

Bugh, MS

Bunkley, MS

Burnsville, MS ²

Busy Corner, MS

Butler, MS

Bynum, MS

Bywy, MS

Cambridge, MS

Camp Shelby, MS

Canan, MS

Carlisle, MS

Carnes, MS

Carthage, MS

Cary, MS

Caseyville, MS

Chickasaw, MS

Choctaw Indian Res., MS

Clara, MS

Clinton, MS

Coffeeville, MS

Coldwater, MS ²

Coles, MS

College Hill, MS ²

Columbus, MS ²

Como, MS

Conehatta, MS ¹

Corena, MS

Corinth, MS

Cornersville, MS

Craigsprings, MS

Crosby, MS

Cross Roads, MS ²

Cumberland, MS

Cypress Garden Cove, MS ²

Dancy, MS

Darden, MS

Dennis, MS

Denton Roberts, MS ²

D'Iberville, MS

Dick, MS

Doskie, MS ²

Dossville, MS

Eastport, MS ²

Eddiceton, MS

Enid Shores, MS

Ethel, MS

Etta, MS

Eupora, MS

Falkner, MS

Farmhaven, MS

Fayette, MS

Fontainebleau, MS ¹

Forest, MS

Franklin, MS

Freewoods, MS

French Camp, MS

Fruitland, MS

Fulton, MS ²

Garden City, MS

Garlansville, MS

Gautier, MS ¹

Gholson, MS

Glade, MS

Gloster, MS

Goat Island, MS ²

Gravestown, MS

Green Acres, MS

Gulfport, MS ¹

Gumbranch, MS

Guntown, MS

Halfloy Creek, MS ²

Hamilton, MS ²

Handaway Pond, MS

Hanson's Landing, MS ²

Harmontown, MS ²

Harnerhill, MS

Helena, MS ¹

Hermanville, MS

Hickory Flat, MS

Higdon, MS

Hillsboro, MS

Holcut, MS ²

Holly Springs, MS

Hollybluff, MS

Homewood, MS

Homochitto, MS

Hopes Spur, MS ²

Houlka, MS

Houston, MS

Humphrey's Cove, MS ²

Ireland, MS

Jackson, MS

Janice, MS

John Kyle St Park, MS

Kennolia, MS

Kiln, MS ²

Kings, MS

Kings Circle, MS

Kingston, MS

Kinkaide Cove, MS ²

Kirby, MS

Kirkville, MS

Knoxville, MS

Kolola Springs, MS ²

Koscuisko, MS

Lake, MS

Lake Center, MS

Lake Monroe, MS ²

Larue, MS

Latimer, MS

Laws Hill, MS ²

Learned, MS

Leesdale, MS

Lena, MS

Little Springs, MS

Lizana, MS

Loakfoma, MS

Longbeach, MS

Lorman, MS

Louin, MS

Louisville, MS

Ludlow, MS

Lumberton, MS

Lynn Creek, MS

Maben, MS

Macedonia, MS

Madden, MS

Madison, MS

Madisonville, MS

Mantachie, MS

Mantee, MS

Mashulaville, MS

Mathiston, MS

Maxie, MS

Mcadams, MS

Mcbride, MS

Mccallcreek, MS

Mchenry, MS ¹

Mckinnley Creek, MS ²

Mclain, MS

Mclaurin, MS

Mcville, MS

Meadville, MS

Millcreek, MS

Mingo, MS

Monroe, MS

Montpelier, MS

Montrose, MS

Moores Mill, MS ²

Morton, MS

Moselle, MS

Mosspoint, MS

Myrick, MS

Myrtle, MS

Natchez, MS

Natcheztracers, MS

Naval Air Station, MS ²

New Hamilton, MS ²

Newaugusta, MS

Newton, MS

Nicholson, MS ²

Oak Dale Park, MS ²

Oceansprings, MS ¹

Ofahoma, MS

Okatibbee Lake, MS

Oktoc, MS

Oldham, MS ²

Orange, MS

Ovett, MS

Oxford, MS

Paden, MS ²

Palmetto, MS

Parkersburg, MS

Pascagoula, MS

Passchristian, MS

Pearl River, MS

Pearlington, MS ²

Pecan, MS ¹

Perkinston, MS

Perrytown, MS

Philadelphia, MS ²

Picayune, MS ²

Pinedale, MS

Pineville, MS

Pittman, MS ²

Pleasant Hill, MS

Plymouth Bluff, MS ²

Point Harbor, MS ²

Polkville, MS

Poor House, MS

Port Gibson Cliaborne, MS

Potts Camp, MS

Pulaski, MS

Pumpkin Creek, MS ²

Quentin, MS

Raleigh, MS

Ramseys, MS

Raymond, MS

Redwater, MS

Redwood, MS ²

Reganton, MS

Ridgeland, MS

Ripley, MS

River Hills, MS

River Oaks, MS ²

Riverchase, MS ²

Rollingfork, MS

Rosetta, MS

Roxie, MS

Russum, MS

Sabougla, MS ²

Sallies Cove, MS ²

Saltillo, MS

Sandersville, MS

Sandy Land, MS ²

Saucier, MS

Scobey, MS

Senatobia, MS ²

Shuqualak, MS ²

Sialoam, MS ²

Signal Hill, MS

Silvercreek, MS ¹

Smithville, MS ²

Snow Lake, MS

Standingpine, MS

Starkville, MS

Strengthford, MS

Sturgis, MS

Success, MS

Suffolk, MS

Sunset Point, MS ²

Talking Warrior, MS

Talley Land, MS ²

Taylor, MS ²

Teckville, MS ²

Tibbee Bluff, MS ²

Tishomingo State Park, MS

Trace Road, MS ²

Troy, MS

Tucker, MS

Tupelo, MS ¹

Unionchurch, MS

Utica, MS

Valleypark, MS

Van Buren, MS ²

Vancleave, MS ²

Vanfleet, MS

Vestry, MS

Vicksburg, MS ¹

Walker Sideins, MS ²

Walnut Point, MS ²

Waltersville, MS

Washington, MS

Waterford, MS

Waverly, MS ²

Waverly Plantation, MS ²

Waynesboro, MS

Weir, MS

White Apple, MS

White Cap, MS

Whitten Town, MS

Wiggins, MS ¹

Williamsville, MS

Winborn, MS

Wortham, MS

Yocona, MS ²

Agency, MT

Alberton, MT

Anaconda, MT¹

Argenta, MT ¹

Arlee, MT

Ashland, MT ¹

Babb, MT

Belfry, MT

Benchmark, MT

Big Arm, MT

Big Fork, MT

Big Sky, MT

Billings, MT ¹

Birney, MT

Birney Divide, MT

Blue Slide Corridor, MT

Boulder, MT ¹

Box Elder, MT

Boxelder, MT

Bridger, MT

Brockton, MT

Buffalo, MT

Bull River Corridor, MT

Busby, MT

Butte, MT ¹

Camas Prairie, MT ¹

Canyon Creek, MT

Charlo, MT

Columbus, MT ¹

Condon, MT ¹

Cooke City, MT

Crackerville, MT

Craig, MT

Crow Agency, MT ¹

Dagmar, MT

Darby, MT

Deer Lodge, MT

Dillon, MT ¹

Dixon, MT

Dodson, MT

Drummond, MT ¹

Duck Creek Drainage, MT

Dunmore, MT ¹

East Glacier, MT

East Glacier Little Badger, MT

East Shore Flathead Lake, MT ¹

Ekalaka, MT ¹

Elmo, MT

Ennis, MT ¹

Essex, MT ¹

Eureka, MT ¹

Evaro, MT

Forest Green, MT

Forest Grove, MT ¹

Fort Kipp, MT

Fort Smith, MT

Fortine, MT ¹

Frazer, MT

Frenchtown, MT ¹

Froid, MT

Gardiner, MT

Garryowen, MT

Garryownen, MT

Georgetown Lake, MT ¹

Geraldine, MT

Giltedge, MT ¹

Glen, MT

Glendale, MT

Grant, MT

Grass Range, MT ¹

Hamilton, MT ¹

Hardin, MT

Hays, MT

Heart Butte, MT

Helena, MT ¹

Helmville, MT

Heron, MT ¹

Highway 200 Corridor, MT

Highway 93 Corridor, MT ¹

Hilger, MT ¹

Hindsdale, MT

Homestead, MT

Hot Springs, MT ¹

Hungry Horse, MT

Huson, MT ¹

Jocko River Corridor, MT

Jordan, MT ¹

Judith Gap, MT

Kalispell, MT ¹

Kendal, MT

Kila, MT

Kiowa, MT

Lakeview, MT ¹

Lame Deer, MT

Landusky, MT ¹

Laurel, MT ¹

Lewistown, MT ¹

Libby, MT ¹

Lima, MT

Lincoln, MT ¹

Lodgegrass, MT ¹

Lodgepole, MT

Loring, MT

Maiden, MT ¹

Malta, MT

Marion, MT ¹

Marysville, MT ¹

Medicine Lake, MT

Miles City, MT ¹

Mission, MT

Missoula, MT ¹

Moiese, MT

Monarch, MT ¹

Monida, MT

Mosby, MT ¹

Muddy Cluster, MT

N. Fk. Flatwillow, MT

Neihart, MT

Ninepine, MT

Noxon, MT

Oswego, MT

Ovando, MT ¹

Pablo, MT

Park City, MT

Parker Canyon, MT

Philipsburg, MT

Pinesdale, MT

Plains, MT

Pleasant Valley, MT

Polebridge, MT

Polson, MT ¹

Pony, MT ¹

Poplar, MT

Pryor, MT ¹

Rapelje, MT

Ravalli, MT

Red Lodge, MT

Reed Point, MT ¹

Rexford, MT

Rock Creek, MT ¹

Rocky Boy Townsite, MT

Ronan, MT

Roundup, MT

Roy, MT

Saint Mary, MT

Saint Xavier, MT ¹

Sapphire Village, MT

Seeley Lake, MT ¹

Shepard, MT ¹

Somers, MT ¹

Square Butte, MT

St. Maries, MT

St. Mary, MT

St. Regis, MT

Stevensville, MT

Stryker, MT

Sula, MT

Superior, MT ¹

Swan Lake, MT ¹

Thompson Falls, MT ¹

Tobacco Valley, MT

Townsend, MT ¹

Trego, MT

Trout Creek, MT ¹

Troy, MT ¹

Turner, MT

Two Medicine, MT

West Kootenai, MT ¹

West Yellowstone, MT

Westby, MT

White Sulpher Springs, MT

Whitefish, MT

Whitehall, MT

Whitewater, MT

Winnett, MT

Wisdom, MT

Wolf Point, MT

Worden, MT ¹

Wyola, MT ¹

Yaak, MT

Yellow Bay, MT

Zortman, MT ¹

Big Ridge Subdivision, NC

Deep Creek Hs, NC

Kitty Hawk, NC ¹

Manteo, NC ²

Sheperds Cr., NC

Woodrun, NC

Abner, NC

Adams Branch, NC

Adams Creek, NC ¹

Adams Creek Comm, NC

Ahoe, NC

Alarka, NC

Allegny, NC

Allen Gap, NC

Allison Creek, NC

Almond Boat Park, NC

Amos Creek, NC

Andrews Watershed, NC

Appletree, NC

Aquone, NC

Armstrong, NC

Arrowood Glade, NC

Ashford, NC

Auman's Crossroad, NC

Avery Creek, NC

Avery Park, NC

Avon, NC

Bald Mtn., NC

Bald Rock, NC

Ball Gap Rd, NC

Ball Town, NC

Balsam, NC

Balsam Grove, NC

Balsam Lake, NC

Barlow Fields, NC

Bates Creek, NC

Bay Leaf, NC ²

Bean Creek, NC

Bear Creek Hs, NC

Bear Paw Estates, NC ²

Beaverdam, NC

Bee Tree Ridge, NC

Beech Mtn Hunt Club, NC

Beechertown, NC

Beig Creek, NC

Ben Creek, NC

Bender Road, NC

Bent Creek, NC

Bent Creek Exper. Forest, NC

Bent Creek Ranch, NC

Betty's Creek, NC

Big Creek, NC

Big Ivey, Lump Rd, NC

Big Laurel, NC

Big Pine, NC

Big Rock Creek, NC

Big Sheep Cliff, NC

Bill King Branch, NC

Bill Top, NC

Biltmore Estate, NC

Black Bear Hollow, NC

Black Gap, NC

Black Rock, NC

Blackberry Inn, NC

Blanton Branch, NC

Blood River, NC

Blowing Rock, NC

Blue Ridge Lakes, NC

Bluff, NC

Bogue Community, NC

Boiling Spring Lakes, NC ¹

Bolwens Creek, NC

Bowlen's Creek, NC

Boy Scout Camp, NC

Boyd Ridge, NC

Braden Mountain, NC

Bradley Branch, NC

Brandywood, NC ²

Breeden Mt., NC

Brevard Music, NC

Bristol Road, NC

Broad Creek School, NC

Brooks Cove, NC

Brown Fork Gap, NC

Brown Gap School Road, NC

Brown Mountain, NC

Brown's Creek, NC

Brummet Creek, NC

Brummett's Creek, NC

Brush Creek, NC

Brushy Creek, NC

Brushy Fork, NC

Bryson City, NC

Buck Creek, NC

Buck Creek Estates, NC

Buck Mt, NC

Buckner Branch, NC

Bucks Corner Community, NC

Buff Creek, NC

Bull Pen, NC

Bullock, NC ²

Burnett Cove, NC

Burrel Mtn., NC

Busick, NC

Butells, NC

Buxton, NC ¹

Buxton Woods, NC

Buzzard Roost, NC

Cable Cove Church, NC

Cable Cove Shelter, NC

Caesar's Cove, NC

Calebs Branch Comm, NC

Calfpil Sp, NC

Calvin Creek, NC

Camp Buc, NC

Camp Carolina, NC

Camp Creek, NC

Camp Daniel Boone, NC

Camp Hope, NC

Camp Winding Gap, NC

Cane River Club, NC

Caney Creek, NC

Caney Fork, NC

Cape Village, NC

Carolina Forest, NC

Carolina Lakes, NC ¹

Carolina Woods, NC ²

Carson Cove, NC

Cary's Flat, NC

Cashiers, NC

Cat Creek Ridge, NC ¹

Catfish Lake Wui, NC

Cathey's Creek, NC

Cattail, NC

Cedar Creek Estates, NC

Cedar Creek Woods, NC

Cedar Mtn, NC

Celo Community, NC

Chairmaker, NC

Chairmaker Branch, NC

Chastain Creek, NC

Chatooga Forest, NC

Cheoah Comm., NC

Cherokee, NC

Chesnut Ridge, NC

Chimney Ridge, NC ¹

Chosatonga, NC

Cliff Of Neuse, NC ¹

Cold Branch, NC

Cold Mtn. Estates, NC

Cold Mtn. Gap, NC

Cold Springs, NC

Cole Mtn., NC

Coleman Boundry, NC

Collettsville, NC

Commissioner, NC

Compass Creek, NC

Conleys Creek, NC

Connestee, NC

Connnelly Creek, NC

Contenintal Cliffs, NC

Cook Town, NC

Coopers Creek, NC

Country, NC

Country Club Estates, NC

Cowee Bald, NC

Coweeta, NC

Coweeta Hydrologic Lab, NC

Coweeta Lands, NC ¹

Crabtree Meadows, NC

Cradle Of Forestry In America, NC

Craig Mtn, NC

Crawford Cove, NC

Crawford Creek, NC

Creedmoor, NC ²

Creek Run, NC ¹

Crestview Pointe, NC

Crowder Farms, NC ²

Crystal Bay, NC ¹

Cullasaja Club, NC

Curso, NC

Cutshalltown, NC

Dabney Woods, NC ²

Dave's Cove, NC

Davis Crossing, NC

Deals Gap, NC

Deep Creek, NC

Deep Gap, NC

Deep Gap Hollow, NC

Deer Lake, NC

Deer Park, NC

Deer Run, NC

Deercroft, NC 1, 2

Delvels Fork Gap, NC

Diamonds Creek Cove, NC

Dicks Creek East, NC

Dicks Creek West, NC

Dills Gap, NC

Dismal Cove, NC

Dix Creek, NC

Dobson Knob, NC

Dodgen Creek, NC

Doe Branch, NC

Doral Woods, NC ¹

Double Gap, NC

Double Top, NC

Dryman Fork, NC

Duck Mill Creek, NC

Duggar, NC

Eagle Fork, NC

East Barkers Creek, NC

East Fork, NC

Eden Valley, NC ¹

Edgemount, NC

Ekerd Camp, NC ¹

El Shaddai, NC

Elk River, NC

Enka, NC

Eureka Springs, NC ²

Fain Mountain, NC

Farlow Lake, NC

Ferry Road Comm., NC

Fines Creek Gap, NC

Fires Creek Cove, NC

Fires Creek Road, NC

First Step, NC

Fish Hatchery, NC

Fisher Branch, NC

Flat Creek, NC

Flat Rock, NC

Flatwoods, NC

Fleetwood Falls, NC

Fodderstack, NC

Forest Lake, NC

Forest Ridge, NC ²

Forge Mountain, NC ¹

Fort Raleigh, NC

Foster Creek, NC

Found Forest, NC

Frisco, NC

Galbraith Creek, NC

Garden Branch, NC

Garen Flow Gap, NC

Gaston Mtn. Es., NC

Gison Cove, NC

Glen Lake Subdivision, NC

Glen Ridge Subdivision, NC

Glen Shores Subdivision, NC

Glenn Alpine, NC

Globe, NC

Gold City, NC

Goldmine, NC

Golf Club Estates, NC

Goose Creek, NC ¹

Gowans Cove, NC

Granny Squirrel, NC

Grape Vine Duggar, NC

Grassy Branch, NC

Greasy Branch, NC

Greens Creek, NC

Greensboro, NC

Grimshaws, NC

Grindstone, NC ¹

Guntertown, NC

Hadnot, NC

Hammrick, NC

Hampton's Place, NC

Hamton Creek, NC

Hannah Mtn. Estates, NC

Harbor Gate, NC ¹

Harmony Corner, NC

Hatteras, NC

Havelock, NC ¹

Havelock Area, NC ¹

Hawk Mountain, NC

Hawks Nest, NC

Hawthorne Estates, NC

Haywood Landing Comm, NC

Heady Mtn., NC

Healey Fields, NC

Heart Lake, NC ²

Heavenly Mtn, NC

Hensley Branch, NC

Heritage Cabins, NC

Heritage Village, NC ²

Hibbert Mountain, NC

Hibbs Road, NC

Hickey Fork, NC

Hickory Log Branch, NC

Hickory Ridge, NC

Hicks Branch, NC

High Hampton, NC

High Meadows, NC

High Pines, NC

High Rock, NC ¹

High Rock Ac, NC

High Vista Estates, NC

Highland Church, NC

Highlands, NC

Highlands Club, NC

Highlands Falls, NC

Highlands Gates, NC

Highlands Subdivision, NC

Hiwassee Lake Vista, NC

Hogback Mtn., NC

Hogback Subdivision, NC

Hoke Loop Rd, NC ²

Holden Subdivision, NC

Holiday Shores, NC

Holly Berry Estates, NC

Holly Forest, NC

Holly Shelter, NC ¹

Honey Mtn Estates, NC

Horse Cove, NC

Horse Creek, NC

Horseshoe Rock, NC

Hot House, NC

Hot Springs, NC

Houston Knob, NC

Howard Branch, NC

Hughes Gap, NC

Hurricane Chapel, NC

Hurricane Creek, NC

Hurricane Ridge, NC

Hwy 24/Hibbs Road, NC

Hwy 280 Corridor, NC

Hwy191 Corridor, NC

Indian Grave Gap, NC

Indian Lake Estates, NC

Iotla, NC

Iron Mtn., NC

Island Creek, NC

Ivory Johnson Est, NC

Ivy Lane, NC

Jackie Cove, NC

Jackrabbit, NC

Jacks Branch, NC

Jackson Hole, NC

Jacobs Branch, NC

Jaoanna Tower, NC

Jarrett Creek, NC

Johnnies Creek, NC

Johns Creek, NC

John's River, NC

Johnson Branch, NC

Jonathans Creek/Cove Creek, NC

Jones Creek, NC

Julie Knob, NC

Kawana, NC

Kees Forest, NC ²

Killian Park Subdivision, NC

King Mtn., NC

Kirklands Creek, NC

Kitty Hawk Woods, NC ¹

Knolls Of Cedar Creek, NC

Kuhns Comm, NC

Lake James, NC

Lake Logan, NC

Lake N The Pines, NC

Lake Road Community, NC

Lake Sega, NC

Lake Tahoma, NC

Lake Toxaway, NC

Lakeview Gardens, NC

Lakewood Shores, NC

Lambs Creek, NC

Lands Creek, NC

Laural, NC ¹

Laural Springs, NC

Laurel Branch, NC

Laurel Falls Subdivision, NC

Laurel Lake, NC

Laurel Mountain, NC

LBJ CCC, NC

Leatherwood, NC

Lee Creek, NC

Lick Skillet, NC

Lil' Switserland, NC

Linville Heights, NC

Linville Mtn. Estates, NC ¹

Linville Ridge, NC

Little Buck Creek, NC

Little Canada, NC

Little Choga, NC

Little Creek, NC

Little Elk Creek, NC

Little Laurel, NC

Little Switzerland, NC

Locust Creek, NC

Long Arm Mtn., NC

Long Br.-Swan., NC

Long Mtn., NC

Long Point Comm, NC

Lovejoy, NC

Low Gap, NC ¹

Lower Nantahala Gorge, NC

Lower Silvermine, NC

Luck, NC

Macedonia Church, NC

Maggie Valley, NC

Maguire Rd, NC

Maple Grove, NC

Maplesprings, NC

Marble, NC

Marion, NC

Marion Watershed, NC

Matlock Creek, NC

Max Patch, NC

Mayview Manor, NC

McClure Creek, NC

McCraken Cove, NC ²

Mcdougal Downs, NC ²

Mcelrath, NC

Meadow Fork, NC

Middle Creek, NC

Mill Brook, NC

Mill Creek, NC

Mill Knob, NC

Mill Wheel, NC

Mine Mountain, NC

Misty Mtn, NC

Montreat, NC

Morgan Hill, NC

Mortimer, NC

Moses Creek, NC

Mother Vinyard/Nri, NC

Mount Mitchell Lands, NC

Mountain Shadows, NC

Mountain View, NC ¹

Mountain Waterfalls, NC

Mt Pisgah Tower, NC

Mt. Mitchell Lands, NC

Mtn. Chalet, NC

Mulberry, NC

Mull Road, NC

Muskrat, NC

Myers Chapel, NC ²

N Mills River, NC

Nantahala Dam, NC

Nantahala Highlands Est., NC

Nantahala River, NC

Nantahala Shores, NC

Nc Arboretum, NC

Neal's Creek, NC

Neddy Mtn., NC

Needmore, NC

Nelson Ridge, NC

Newberry, NC

Nickajack, NC

Nicks Creek, NC

Nmr Hunt Club, NC

North Cove, NC

North Fork, NC

North Fork-Coweeta, NC

North Mills, NC

North Mills River, NC

Northridge Plantation, NC 1 2

Oakwood Acres, NC ¹

Ocracoke, NC

Ogle Meadows, NC

Old Beau, NC

Old Fort, NC

Onion Mountain, NC

Ophir, NC

Orchard Mtn., NC ¹

Ore Knob, NC

Otter Creek, NC

Outward Bound, NC

Outward Bound, NC

Ox Creek, NC

Paddy Creek, NC

Paint Rock, NC

Panther Branch, NC

Panther Knob, NC

Panther Mnt., NC

Panther Ridge, NC

Pari, NC

Partridge Creek, NC

Penley, NC

Pigeon Roost, NC

Pilot Mountain Subdivision, NC

Pine Lakes, NC ¹

Pine Root, NC

Pinhook Gap, NC

Pisgah Est., NC

Pisgah Inn, NC ²

Pisgah Wildlife Education, NC

Pleasant Grove/Capelsie, NC

Plesant Gardens, NC

Plum Nuttie, NC ²

Pond Mtn, NC

Poplar, NC

Poplar Cove, NC

Portsmouth Village, NC ¹

Potatoe Gap, NC

Pounding Mill Branch, NC

Powder Horn Mtn, NC

Pressley Creek, NC

Puett Cove Est., NC

Pumpkintown, NC

Punchbowl, NC

Puncheon Fork, NC

Quebec, NC

Queen Mtn., NC

Queens Creek, NC

Rainbow Springs, NC

Rattler Ford, NC

Rattlesnake, NC

Raven Knob, NC ¹

Ray Creek, NC

Reed's Cove, NC

Reese Cove, NC

Reynolds Woods, NC

Rhinehart, NC

Rice Knob, NC

Rice Pinnacle, NC

Rich Knob, NC

Richland Ridge, NC

River Road/Dow Rd., NC ¹

Riverdale Community, NC

Roan Valley, NC

Roaring Creek, NC

Roaring Fork, NC

Roaring Gap, NC

Roberdo, NC

Roberts Road, NC

Rock Branch, NC

Rock Creek, NC

Rocky Mnt. Estates, NC

Rose Creek, NC

Roseboro Ridge, NC

Roseborough, NC

Rough Branch, NC ¹

Round Hill, NC

Round Hill Estates, NC

Round Mountain Estates, NC

Roundhill, NC

Rowland Creek, NC

S Mills River, NC

Salve, NC

Sams Gap, NC

Sandy Plains, NC ²

Saphire, NC

Sapphire Lakes, NC

Sassafras Gap, NC

Saunook, NC

Saunooke Heights, NC ¹

Saw Branch, NC

Scaly Mtn., NC

Schnck Job Corp, NC

Scotsman Creek, NC

Sean's Knoll, NC

Senaird Comm, NC

Seven Mile Ridge, NC

Sharkey Creek Comm., NC

Shaver Road Comm., NC

Shearer Creek, NC

Sheepback Mtn., NC

Shelton Branch, NC

Shelton Laurel, NC

Shoal Creek, NC

Shootout Mtn., NC

Shope Cr., NC

Shortoff, NC

Shut-In, NC

Shutin Road, NC

Silver Run, NC

Silver Slip Falls, NC

Silvermine, NC

Silverstein, NC

Skeenah, NC

Sky Valley, NC

Sleepy Valley, NC

Slick Fisher Road, NC

Slickens Creek, NC

Smith Branch, NC

Smokey Falls, NC

Smr Hunt Club, NC

Soco Acres, NC

Sols Creek, NC

South Hominy, NC

South Mills, NC

South Mills River, NC

South Shoal Creek, NC

Spillcorn, NC

Spring Creek, NC ¹

Spring Forest, NC

Spring Lake, NC 1, 2

Stack House, NC

Stackhouse, NC

Stamey Cove, NC

Standhill Mtn, NC

Staus Park, NC

Stephens Branch, NC

Stephenson Br., NC

Stewart Cabin, NC

Stone Creek Crossing, NC

Stone Hedge, NC ¹

Stoney Fork, NC

Stoney Spur, NC

Stony Point, NC ¹

Straus Park, NC

Strawberry Hills Subdivision, NC

Stumpy Point Comm., NC

Sugar Cove, NC

Sugar Creek, NC

Sugar Loaf, NC

Summit, NC ¹

Sunburst, NC

Sutton Creek, NC

Swan Cabin, NC

Swansee Knob, NC

Swiss Park, NC ²

Table Rock, NC

Tahala Shores, NC

Tallulah River, NC

Tanassee Gap, NC

Tarheel, NC

Tate City, NC

Tater Knob Subdivision, NC

Tellico, NC

Temples Point Comm, NC

Texana, NC

The Landings, NC

The Springs, NC ¹

The Summit, NC ¹

The Wilds, NC

Thumping Creek, NC

Thunder Hole, NC

Thurmond, Hwy 21, NC

Timber Lake Est., NC ²

Timber Ridge, NC

Tipton Creek, NC

Todd, NC

Tot Hill Farm, NC

Town Branch, NC

Toxaway Mtn., NC

Traphill, Greenstone, NC

Trent Rd, NC

Trillium, NC

Trimont Estates, NC

Trust, NC

Tucker Creek, NC

Turkey Branch, NC

Turkey Creek, NC

Turkey Mtn., NC

Turkey Pen, NC

Turtle Pond, NC

Tusquittee Landing, NC

Tusquittee Laurel, NC

Twin Creek Estates, NC

Umstead, NC ¹

Upper Burningtown, NC

Upper Nantahala Gorge, NC

Upper Shutin, NC

Upper Silvermine, NC

Upton, NC

Uwharrie, NC

Varner Estates, NC ¹

Village Of Flat Rock, NC

Vineyard, NC

V-Z Top, NC

Wade Hampton, NC

Wadeville, NC

Walking Stick, NC

Wallace Branch, NC

Walnut, NC

Walnut Cove Farms, NC

Walnut Ridge, NC

Watauga, NC

Waterfall Love Estates, NC

Waterford Place, NC

Waterville, NC

Watia, NC

Waucheeha Bald, NC

Waves, NC

Wayah Bald, NC

Wayah Creek, NC

Wayehutta, NC

Waynesville 2, Ltmb, NC

Web Town, NC

Wesser Creek, NC

West Barkers Creek, NC

West Wood, NC

White Oak Flats, NC

White Rock, NC

Whiteoak Bottoms, NC

Whiterock Creek, NC

Whiteside Cove, NC

Wiggins Creek, NC

Wilbar, Grindstone, NC

Wild Acres, NC

Wild Cat Ridge, NC

Wildacres, NC

Wildcat, NC

Wildcat Cliffs, NC

Wildes Cove, NC

Wilkins Creek, NC

Willis Cove, NC

Willow Lakes, NC

Wilson Creek, NC

Wilson Lick, NC

Winding Gap, NC

Winespring Bald, NC

Wisper Lake, NC

Wolf Creek Reservoir, NC

Wolf Laurel, NC ¹

Woodesen Branch, NC

Woodlawn, NC

Yellow Mountain Subdivision, NC

Younce Creek, NC

Young's Mtn, NC ¹

4-Winds, ND

Belcourt, ND

Cannon Ball, ND

Crow Hill, ND

Dunseith, ND

Fort Yates, ND

Four Bears, ND

Ft. Totten, ND

Mandaree, ND

Porcupine, ND

St. John, ND

St. Michael, ND

Tokio, ND

Twin Butte, ND

White Shield, ND

Agate, NE

Alma, NE ²

Andrews, NE

Beatrice, NE

Belmont, NE

Bignell, NE ²

Blair, NE

Bodarc, NE

Bordeaux, NE ²

Burge, NE

Chadron, NE ¹

Cody, NE

Conterra, NE

Costin, NE

Crawford, NE

Desoto, NE

Doughboy, NE

Dunning, NE

Eldorado, NE ²

Ft. Calhoun, NE

Gering, NE ¹

Glen, NE

Glenover, NE

Haig, NE

Halsey, NE

Harrison, NE

Hoag, NE

Hubbard Corner, NE

James, NE

Joder, NE

Kennedy, NE ¹

Kilgore, NE

Long Pine, NE

Macy, NE

Macy, NE ¹

Marsland, NE

Mcgrew, NE

Melbeta, NE

Mintle, NE

Montrose, NE

Naponee, NE ²

Nashville, NE

Natick, NE

Nenzel, NE

Niobrara, NE

Norden, NE

Orella, NE

Orleans, NE ²

Pine Ridge, NE ¹

Ponca, NE

Rackett, Mumper, NE

Republican City, NE ²

Riford, NE

Santee, NE

Santee, NE ¹

Scottsbluff, NE

Simeon, NE

South Bayard, NE

Sparks, NE

Stockham, NE ²

Story, NE

Thatcher, NE

Thedford, NE

Thomas, NE

Tiny Town, NE

Valentine, NE ¹

Verdel, NE

Amherst, NH ²

Bartlett, NH

Bedford, NH ²

Campton, NH

Chatham, NH

Conway, NH

Cornish, NH ¹

Dunbarton, NH ²

Francestown, NH ²

Hopkinton, NH ²

Jefferson, NH

Lincoln, NH

Lyndeborough, NH ²

Madison, NH

New Boston, NH ²

Ossipee, NH

Plymouth, NH

Randolph, NH ¹

Rumney, NH

Salisbury, NH ²

Sandwich, NH

Tamworth, NH

Thornton, NH

Weare, NH ²

Webster, NH ²

Woodstock, NH

Absecon, NJ ²

Barnegat, NJ

Bass River, NJ 1, 2

Bernards, NJ

Bernardsville, NJ

Blairstown, NJ

Brick, NJ

Colts Neck, NJ ²

Dennis, NJ

Eagleswood, NJ ²

Egg Harbor Twp, NJ ²

Freehold, NJ ²

Galloway, NJ ²

Hamilton, NJ ²

Hardwick, NJ

Hardyston, NJ

Howell, NJ ²

Jackson, NJ ²

Jefferson, NJ ²

Knowlton, NJ

Lacey, NJ

Lakehurst, NJ ²

Little Egg Harbor, NJ ²

Lower, NJ

Manchester, NJ ²

Marlboro, NJ ²

Middle, NJ

Montague, NJ

Pemberton, NJ ²

Plumstead, NJ ²

Port Republic City, NJ

Rockaway, NJ ²

Sandyston, NJ

Stafford, NJ

Stillwater, NJ

Tinton Falls, NJ ²

Upper, NJ

Vernon, NJ

Wall, NJ ²

Walpack, NJ

Wantage, NJ

Warwick, NJ

Washington, NJ ²

Woodbine, NJ

Woodland, NJ ²

Angel Fire/Black Lake, NM ¹

Candy Kitchen, NM

Capitan/Lincoln, NM ¹

Carrizo, NM ¹

Catron County, NM ¹

Cloudcroft, NM ¹

Cochiti Pueblo, NM ¹

Crystal, NM

Dulce, NM ¹

East Mountains, NM ¹

Elk, NM

Espanola Bosque, NM ¹

Fort Wingate, NM

Gallinas Watershed, NM ¹

Isleta Pueblo, NM ¹

Jemez Pueblo, NM ¹

Jemez/La Cueva, NM ¹

Los Alamos, NM ¹

Manuelito, NM

Manzano Mountains, NM ¹

Mayhill/Timberon, NM ¹

Mescalero, NM ¹

Middle Rio Grande Bosque, NM

Mora County, NM ¹

Moreno Valley, NM ¹

Mount Taylor Game Ranch, NM ¹

Mt. Taylor Game Ranch, NM

Nambe Pueblo, NM

No. Rio Arriba, NM

Paguate, NM ¹

Pecos, NM ¹

Pescado, NM ¹

Picuris Pueblo, NM ¹

Pine Haven, NM ¹

Pine Hill, NM

Pojoaque Pueblo, NM

Red River, NM ¹

Rio San Jose/Acoma, NM

Rio San Jose/Laguna, NM

Ruidoso, NM ¹

San Felipe Pueblo, NM

San Ildefonso Pueblo, NM ¹

San Juan Pueblo, NM ¹

Sandia Pueblo, NM ¹

Santa Ana Pueblo, NM ¹

Santa Clara, NM ¹

Santa Fe Watershed, NM ¹

Santo Domingo Pueblo, NM

Silver City Area, NM ¹

Tamaya, NM

Taos Canyon/Shadybrook, NM ¹

Taos Pueblo, NM ¹

Tesuque Pueblo, NM

Three Rivers, NM

Toadlena, NM ¹

Vanderwagon, NM

White Tail, NM

Whitetail, NM

Zia Pueblo, NM

Zuni, NM ¹

Adobe Heights, NV

Adobe Ranchos, NV

Alamo, NV

Alpine View, NV

Altamira Farms, NV

Amargosa, NV

Antelope Valley, NV

Arden, NV

Ash Springs, NV

Austin, NV ¹

Baker, NV

Battle Mtn, NV ¹

Bean Flat, NV

Beatty, NV

Belmont, NV

Beowawe, NV ¹

Black Mountain, NV

Blue Diamond, NV

Bodie Flats, NV

Boulder City, NV

Bunkerville, NV ¹

Cactus Springs, NV

Caliente, NV

Calnevari, NV

Carico Valley, NV

Carlin, NV

Carson City, NV ¹

Carvers, NV

Charleston, NV

Cherry Creek, NV ¹

China Springs, NV

City Of Fallon, NV

Clear Creek, NV

Clover Valley, NV

Cold Creek, NV

Cold Springs, NV ¹

Contact, NV

Cottonwood Cove, NV

Crescent Valley, NV ¹

Crystal Bay, NV

Currie, NV ¹

Dayton, NV

Deeth/Starr Valley, NV

Denio, NV

Denio Junction, NV

Desert Creek Development, NV

Diamond Valley, NV

Double Springs, NV

Dresslerville, NV

Dunphy, NV

Dyer/Fish Lake Valley, NV

Eagle Valley, NV

Eastern Washoe Valley, NV ¹

Eastgate, NV

Elburz, NV

Elko, NV

Ely, NV ¹

Empire-Gerlach, NV

Eureka, NV

Fallon Naval Base, NV

Fallon Outskirts, NV

Fallon Reservation, NV

Fernely, NV

Fish Springs, NV

Fort Churchill, NV

Fort Mcdermitt, NV

Fredricksberg, NV

Gabbs, NV

Galena, NV ¹

Gardnerville, NV

Genoa, NV ¹

Gerlach, NV

Gilman Springs, NV

Glenbrook, NV

Glendale, NV

Golconda, NV

Gold Creek, NV

Gold Hill, NV ¹

Gold Point, NV

Golden Valley, NV

Goldfield, NV

Good Springs, NV

Goose Creek/East of Jackpot, NV

Goshute, NV

Grass Valley, NV ¹

Grass Valley/Gund Ranch, NV

Great Basin Nat'l Park, NV

Hawthorne, NV

Henderson, NV

Hidden Valley/Coal Mine Canyon, NV

Hiko, NV

Hilltop, NV

Holbrook Junction, NV ¹

Horizon Hills/Anderson Acres, NV ¹

Humboldt Ranchettes, NV

I-80 Corridor West, NV

Imlay-Humboldt, NV

Incline Village, NV ¹

Independence Valley, NV

Indian Springs, NV

Ione, NV

Jackpot, NV

Jacks Valley/Indian Hills, NV ¹

Jarbidge, NV ¹

Jean, NV

Jiggs/Smith Creek, NV ¹

Johnson Lane, NV

Kings River, NV

Kingsbury, NV

Kingston Canyon, NV ¹

Lackawana, NV

Lake Tahoe Hwy 50 Corridor, NV

Lamoille, NV

Las Vegas, NV

Las Vegas Paiute Reservation, NV

Laughlin, NV

Lee, NV

Lemon Valley, NV

Leviathan, NV

Lida, NV

Lockwood, NV

Logandale, NV

Lovelock, NV

Lucky Nugget I & II, NV

Lund, NV

Luning, NV

Maggie Summit Road, NV

Manhattan, NV

Marietta, NV

Mark Twain, NV

Mason Valley, NV

McDermitt, NV

McGill, NV

Mesquite, NV

Midas, NV ¹

Middlegate, NV

Mill City, NV

Mina, NV

Minden, NV

Minerva/Shoshone, NV

Moapa, NV

Moapa Paiute Reservation, NV

Montello, NV

Montgomery Pass, NV

Moundhouse, NV

Mount Rose Corridor, NV

Mountain City, NV ¹

Mt. Charleston/Kyle Canyon, NV ¹

Mt. Charleston/Lee Canyon, NV ¹

Mt. Springs, NV

Mt. Wilson, NV ¹

Nelson Landing, NV

Nightingale, NV

Nixon, NV

North Foothill Rd Corridor, NV

North Las Vegas, NV

Northfork, NV

Oasis, NV

Odger's Ranch Indian Reservation, NV ¹

O'Neil Basin, NV

Oreana-Rochester, NV

Orovada, NV

Osino, NV

Overton, NV

Owyaee, NV

Owyhee, NV

Pahrump, NV

Palisade, NV

Palomino Valley, NV

Panaca, NV

Paradise Ranchos, NV

Paradise Valley, NV ¹

Pilot Valley, NV

Pine Valley, NV

Pioche, NV

Pioneer Pass, NV

Pleasant Valley, NV

Preston, NV

Primm, NV

Quinn River, NV

Rancho Haven, NV

Red Rock, NV

Reese River Valley, NV

Reno-Northwest, NV

Reno-Southeast, NV

Reno-Southwest, NV

Round Mountain, NV

Ruby Lake Estates, NV

Ruby Valley, NV

Ruhenstroth, NV

Ruth, NV

Rye Patch, NV

Ryndon, NV

Sand Harbor, NV

Sandy Valley, NV

Schurz, NV

Searchlight, NV

Shanty Town, NV

Sheridan Acres, NV

Silver City, NV

Silver Peak, NV

Silver Springs, NV

Six Mile Canyon, NV

Sloan, NV

Smith Valley, NV

Smokey Valley, NV

South Lake Tahoe, NV

Spanish Springs, NV

Sparks-Northeast, NV

Spooner State Park, NV

Spring Creek, NV ¹

Stagecoach, NV

Stead, NV

Steamboat, NV

Stewart, NV

Strawberry, NV

Summit Lake, NV

Sun Valley, NV

Sutcliff, NV

Sweetwater Summit Development, NV

Ten Mile, NV

Tenabo, NV

Tonopah, NV

Topaz Lake, NV

Topaz Ranch Estates, NV

Trout Canyon, NV ¹

Tuscarora, NV ¹

Unionville, NV

Valmy, NV

Verdi, NV ¹

Virginia City, NV ¹

Virginia City Highlands, NV ¹

Wabuska, NV

Wadsworth, NV

Walker Lake, NV

Warm Springs Valley, NV

Washoe City, NV

Wells, NV

West Wendover, NV

Western Washoe Valley, NV

Wildhorse Estates, NV

Winnemucca, NV

Yerington, NV

Yomba, NV ¹

Yomba Reservation, NV

Alabama, NY

Amagansett, NY ¹

Antwerp, NY ²

Atlantique, NY ¹

Barneveld, NY ²

Bemis Heights, NY

Bennetsburg, NY

Big Flats, NY ²

Brant, NY

Breezy Point, NY 1, 2

Brookhaven, NY ¹

Cardiff, NY

Carrollton, NY

Central Valley, NY ²

Cold Spring, NY

Cornwall, NY ²

Cuba, NY

Davis Park, NY ¹

Deferiet, NY ²

Dune Woods, NY ¹

East Galway, NY ²

Evans Mills, NY ²

F. Bennett Field, NY1 2

Fair Harbor, NY ¹

Farnham, NY

Felts Mills, NY ²

Fort Montgomery, NY ²

Fort Tilden, NY 1 2

Fowler, NY ²

Ft. Hamilton, NY 1 2

Ft. Wadsworth, NY 1 2

Gowanda, NY

Great Bend, NY ²

Great Kills, NY 1 2

Greenwood, NY

Griffins Corners, NY

Gwills Corners, NY

Halsey Corners, NY

Harrisville, NY ²

Hector, NY

Highbanks, NY

Highland Falls, NY ²

Huntington, NY ¹

Hyde Park, NY

Irvine Mills, NY

Irving, NY

Jimersontown, NY

Kill Buck, NY

Kismet, NY ¹

Lawtons, NY

Lido Beach, NY ¹

Limestone, NY

Logan, NY

Mastic, NY ¹

Model City, NY

Montauk, NY ²

Munson Corners, NY

Natural Bridge, NY ²

Nedrow, NY

Newtown, NY

Niagara Falls, NY ²

Niskayuna, NY ²

Ocean Bay Park, NY ¹

Ocean Beach, NY ¹

Oyster Bay, NY ¹

Pawling, NY

Perrysburg, NY

Philadelphia, NY ²

Plumb Beach, NY 1 2

Point O Woods, NY ¹

Poughquag, NY

Quaker Springs, NY

Queens, NY ²

Red House, NY

Remsen, NY ²

Reynoldsville, NY

Ridge, NY 1 2

Rock City Falls, NY ²

Sag Harbor, NY ¹

Salamanca, NY

Saltaire, NY ¹

Savannah, NY

Sayville, NY ¹

Searsburg, NY

Seaview, NY ¹

Sentinel Heights, NY

South Galway Corner, NY ²

South Vandallia, NY

Steamburg, NY

Tyre, NY

Vandallia, NY

Versailles, NY

Water Island, NY ¹

West Corners, NY ²

West Milton, NY ²

Wocottsvile, NY

Aid Twp., OH

Bearfield Twp., OH

Benton Twp., OH

Bethel Twp., OH

Bloom Twp., OH

Buchtel, OH

Carbon Hill, OH

Center Twp., OH

Coal Twp., OH

Decatur, OH

Dover Twp., OH

Elizabeth, OH

Fairfield Twp., OH

Falls Gore Twp., OH

Grandview Twp., OH

Green Twp., OH

Greenfield Twp., OH

Independence Twp., OH

Jackson Twp., OH

Jefferson Twp., OH

Lawrence Twp., OH

Lee Twp., OH

Liberty Twp., OH

Ludlow Twp., OH

Madison Twp., OH

Mason Twp., OH

Monday Twp., OH

Monroe Twp., OH

Nelsonville, OH

New Straitsville, OH

Newport Twp., OH

Perry Twp., OH

Pleasant Twp., OH

Salt Lick Twp., OH

Shawnee, OH

Starr Twp., OH

Swan Twp., OH

Symmes Twp., OH

Trimble Twp., OH

Union Twp., OH

Upper Twp., OH

Vernon Twp., OH

Walnut Twp., OH

Ward Twp., OH

Washington Twp., OH

Wayne Twp., OH

Windsor Twp., OH

York Twp., OH

Achille, OK ¹

Ada, OK ¹

Akins, OK

Albion, OK

Alden, OK

Alex, OK

Anadarko/Riverside, OK ¹

Antlers, OK ¹

Apache, OK

Apache, OK ¹

Arapaho, OK ¹

Arcadia, OK 1 2

Ardmore, OK ¹

Arrowhead Estates, OK ²

Barber, OK

Barnsdall, OK

Battiest, OK

Bee/Butcher Pen, OK ²

Bell, OK

Belvin, OK ¹

Bengal, OK

Berryhill, OK 1 2

Bethel, OK ¹

Big Cedar, OK ¹

Binger, OK ¹

Blackgum Mountain, OK ²

Blanchard, OK ¹

Bluff, OK

Bokhoma, OK ¹

Bokoshe, OK

Boley, OK ¹

Boswell, OK ¹

Boulanger, OK ²

Bowlegs, OK ¹

Bowring, OK ²

Brent, OK ²

Briartown, OK

Bristow, OK ¹

Bristow Point Property, OK ²

Broken Bow, OK ¹

Bromide, OK ¹

Brooken, OK ²

Brooksville, OK

Brushy Mountain, OK ²

Brushy Ridge, OK

Buckhorn, OK ²

Buffalo, OK ¹

Buffalo Valley, OK

Bug Tussle, OK ²

Buncombe Creek, OK ²

Cabin Creek, OK ²

Cache, OK ²

Cairo, OK

Calumet, OK

Canadian, OK ²

Canadian Shores, OK ²

Caney/Soldier Creek, OK ²

Canton, OK ¹

Cardin, OK ¹

Cardinal Cove, OK ²

Carnegie, OK

Carnegie, OK ¹

Carters Corner, OK

Cartwright, OK ²

Castle, OK

Catoosa, OK 1 2

Cedar Blue, OK

Cement, OK ¹

Center, OK

Centerpoint, OK ¹

Chattanooga, OK ¹

Cherokee, OK 1, 2

Cherokee Landing, OK ²

Chicken Creek, OK ²

Chili Flats, OK

Chilocco, OK ¹

Chilocho, OK

Choleta, OK

Clinton, OK ¹

Cold Springs, OK ²

Colony, OK ¹

Comanche, OK ¹

Commerce, OK

Concho, OK ¹

Connerville, OK ¹

Cookson, OK 1, 2

Cooperton, OK ¹

Copan, OK ²

Corrine, OK

Corum, OK ²

Cove Acres, OK ²

Coweta, OK ¹

Cowlington, OK ²

Crawford, OK ¹

Criner Hills, OK

Cromwell, OK

Crow Roost, OK ²

Crowder, OK ²

Cyril, OK ¹

Dahlonegah, OK

Darwin, OK

Davis, OK

Delaware, OK 1, 2

Devol, OK

Dewey, OK

Dixon, OK

Dougherty, OK 1, 2

Drumright, OK

Dunbar, OK

Duncan, OK ¹

Durham, OK

Dustin, OK

Eagle City, OK

Eagletown, OK ¹

Earlsboro, OK

Echota, OK

Edgewater Park, OK

Edmond, OK 1, 2

Elm Point, OK ²

Elohim City, OK

Enos, OK ²

Enville, OK ²

Eufaula, OK ¹

Fair Oaks, OK ¹

Fairfax, OK

Falconhead, OK ²

Fallis, OK

Fame, OK ²

Farmers Hill, OK

Faxon, OK ¹

Felt, OK

Finley, OK

Fittstown, OK

Fitzhugh, OK ¹

Five Lakes, OK

Flat Rock, OK ²

Fletcher, OK ¹

Fly Inn Resort II, OK ²

Fort Cobb, OK ¹

Fort Coffee, OK ²

Fort Gibson, OK ²

Fort Sill, OK ²

Fort Washita, OK ²

Foss, OK 1 2

Foss Lake, OK 1, 2

Fox/Graham, OK

Geary, OK ¹

Gerty, OK ¹

Glover, OK

Goddard, OK

Golden, OK

Goldsby, OK

Goodwater, OK

Gooseneck Bend, OK ²

Gore, OK

Gotebo, OK ¹

Gowen, OK

Gracemont, OK ¹

Grainola, OK ¹

Granite, OK 1, 2

Grayhorse Indian Village, OK ¹

Grayhorse Village, OK ¹

Grayson, OK

Greasy, OK

Green Acres, OK ²

Greenfield, OK ¹

Guy Sandy, OK ¹

Haileyville, OK ¹

Hanna, OK

Hardesty, OK ¹

Harrah, OK ¹

Harris, OK

Hartshorne, OK ¹

Hastings, OK 1 2

Hauana Creek, OK ²

Haw Creek, OK ¹

Haworth, OK ¹

Haywood, OK ²

Healdton, OK ¹

Heavener, OK ²

Hectoville, OK

Henryetta, OK ¹

Herd, OK ²

Hickory, OK

Higgins, OK

High Hill, OK

Highway #9, OK ²

Highway 48 Bethel, OK

Hitchcock, OK ¹

Hitchita, OK ¹

Hobart, OK ¹

Hodgen, OK ¹

Hoffman, OK ²

Holdenville, OK

Holly Creek-Oak Hill, OK

Hominy, OK ¹

Hominy Indian Village, OK ¹

Honobia, OK

Hugo, OK

Hulah, OK 1 2

Hulen, OK

Hunting Areas, OK

Idabel, OK ¹

Ind. Elderly Housing/Durant, OK

Ind. Elderly Housing/Hugo, OK

Ind. Elderly Housing/Idabell, OK

Ind. Elderly Housing/Talihina, OK ¹

Independent Elderly Housing Durant, OK

Independent Elderly Housing Hugo, OK

Independent Elderly Housing Idabell, OK

Independent Elderly Housing Talihina, OK ¹

Indiahoma, OK ²

Indianola, OK ²

Iowa Tribal Complex, OK

Jay, OK ¹

Jet, OK

Jimtown, OK

Jones Academey, OK ¹

Jones Academy, OK ¹

Kansas, OK ¹

Kent, OK

Kenwood, OK ¹

Keota, OK 1 2

Keys, OK ²

Keystone, OK 1 2

Keystone State Park, OK 1 2

Kiamichi Wilderness, OK ¹

Kiefer, OK

Kingston, OK ¹

Konawa, OK ¹

Kosoma, OK

Lakeside Village, OK

Lakewood Ranchetts, OK ²

Lamar, OK ¹

Latham-Dog Creek, OK ¹

Lawrence Creek, OK ²

Lawton, OK ¹

Lebanon, OK ²

Lee Creek, OK

Leflore, OK ²

Leisure Land, OK ²

Lennox, OK ¹

Leon, OK 1 2

Lequire, OK

Lewisville, OK

Little Axe, OK ²

Little Chief, OK

Loco, OK

Longdale, OK

Longdale, OK ¹

Lookeba, OK ¹

Lotawatah, OK ²

Lula, OK

Macomb, OK ¹

Mangum, OK 1 2

Mannford, OK 1 2

Mannsville, OK

Maramec, OK ¹

Marble City, OK

Marietta, OK ¹

Marland, OK

Marlow, OK ¹

Mcalester, OK

McBride, OK ²

McComb, OK

Mclaughlin Creek, OK ²

Medicine Park, OK ¹

Meers, OK

Messer, OK ²

Miami, OK ¹

Mill Creek, OK ¹

Millerton, OK ¹

Moffett, OK ²

Moon/Amerca, OK

Morgan's Corner, OK ²

Mountain View, OK ²

Mt Herman, OK ¹

Muldrow, OK ¹

Muse, OK ¹

Muskogee, OK ¹

Nani-Chfto, OK

Ne Lincoln County, OK

Nelagoney, OK

Nescatunga, OK

New Alluwe, OK 1, 2

New Prue, OK ¹

Newcastle, OK ¹

Nicut, OK

Norman, OK ²

North Shore, OK ²

Nowata, OK ²

Oakridge, OK

Oaks, OK ¹

Octavia, OK ¹

Oilton, OK ¹

Okay, OK ²

Okemah, OK ¹

Okmulgee, OK ¹

Onapa, OK ¹

Oolagah, OK 1 2

Orchard Hill, OK

Osage, OK 1 2

Otoe, OK

Paden, OK

Page, OK

Paradise Hill, OK ²

Paradise Point, OK ²

Paradise Valley, OK

Pawhuska, OK ¹

Pawhuska, OK ¹

Pawhuska Indian Village, OK ¹

Pawnee, OK ¹

Pennisula, OK ²

Peoria #1, OK ¹

Pettit Bay, OK ²

Picher, OK

Pickens, OK

Pickett Center, OK

Pierce, OK ²

Pine Creek, OK ²

Pink, OK

Plainview, OK

Pleasant Grove, OK

Pleasant Hill, OK

Plunketville, OK

Pocasset, OK

Ponca City, OK ¹

Porter Hill, OK

Porum, OK ¹

Porum Landing, OK ²

Prague, OK

Pumpkin Center, OK ²

Quapaw, OK ¹

Quartz Mountain, OK ²

Quay, OK ¹

Quinton, OK

Ralston, OK ¹

Randlett, OK ¹

Rattan, OK 1 2

Ravia, OK ²

Reagan, OK

Red Rock, OK

Redland, OK

Reichert, OK

Ripley, OK ¹

Rock Creek, OK

Roll, OK

Roman Nose Park, OK

Rufe, OK

Sac & Fox Tribal Complex, OK

Saddle Mountain, OK ¹

Salina, OK 1 2

Sallisaw, OK ¹

Sasakwa, OK ¹

Savanna, OK ²

Sawyer, OK ²

Schulter, OK ¹

Sedan, OK

Seiling, OK

Seiling, OK ¹

Seminole, OK ¹

Sequoyah Bay State Park, OK ²

Shady Grove, OK ²

Shamrock, OK ¹

Shawnee, OK ¹

Sherwood, OK ¹

Shinewell, OK

Silo, OK ¹

Silver City, OK ²

Skedee, OK ¹

Smithville, OK ¹

Soper, OK ¹

Southside, OK

Sparrow Hawk, OK

Spencerville, OK ²

Stapp Zoe & Ouachita, OK

Sterling, OK ¹

Stigler, OK ¹

Stone Bluff, OK

Stonewall, OK ¹

Strang Community, OK 1 2

Stratford, OK

Stroud, OK

Summerfield, OK

Swan Lake, OK ²

Tablerville, OK

Tahlequah, OK ¹

Talala, OK ²

Talihina, OK ¹

Tamaha, OK ²

Taylor, OK

Taylors Ferry Area, OK ²

Tecumseh, OK

Tenkiller Lake, OK ²

Texoma, OK ²

Thackerville, OK ¹

The Point, OK

Thlopthlocco, OK ¹

Thomas, OK ¹

Tiger Mtn, OK ¹

Tishomingo, OK ¹

Tom, OK ¹

Tonkawa, OK

Tri Community/Honey Hill, OK

Tupelo, OK

Tuskahoma, OK

Tuttle, OK

Twin Oaks, OK ¹

Valliant, OK

Vamoosa, OK

Verden, OK

Vernon, OK

Vian, OK ¹

Vining, OK

Vivian, OK ¹

Wagoner, OK ¹

Wainwright, OK ¹

Walnut Creek State Park, OK ²

Walters, OK ¹

Warner, OK ¹

Washita, OK

Watonga, OK ¹

Watson, OK ¹

Webb City, OK

Webbers Falls, OK 1, 2

Weleetka, OK

West Bryan County, OK ²

West End, OK

Westport, OK ²

Wetumka, OK

Wewoka, OK

White Eagle, OK ¹

Whitefield, OK ¹

Whitehorn, OK ²

Whitesboro, OK ¹

Wichita Mountain Estates, OK

Wilburton, OK

Willis Powell, OK ²

Wilson, OK ¹

Wister, OK 1, 2

Wright City, OK ¹

Wyandotte, OK ¹

Wynona, OK ¹

Yale, OK ¹

Yanush, OK ²

Yeager, OK ¹

Yonkers, OK ¹

Zafra, OK

Zink, OK ²

Adel, OR ¹

Adrian, OR

Agness, OR ¹

Alder, OR

Alsea, OR

Andrews, OR

Antelop Creek, OR

Antelope, OR

Anthony Lakes Resort, OR

Applegate, OR ¹

Arock, OR

Ash Valley, OR

Ashland, OR ¹

Ashwood, OR

Austin, OR

Azalea, OR ¹

Baker Valley, OR ¹

Bates, OR

Bay City, OR

Bear Springs, OR

Beatty, OR ¹

Beaver, OR

Beaver Creek, OR

Beaver Marsh, OR

Bend, OR ¹

Big Muddy Ranch, OR

Black Butte, OR ¹

Blaine, OR

Blake's Addition, OR

Blitzen, OR

Bly, OR ¹

Bly Mountain, OR

Bohemia City, OR ¹

Bonanza, OR ¹

Bonneville, OR

Bourne, OR

Breitenbush, OR

Bridge, OR

Brogan, OR

Brookings, OR

Brothers, OR

Buell, OR

Bull Run, OR

Burns—Hines, OR

Butte Falls, OR ¹

Buxton, OR

Camas Valley, OR

Camp Elkanah, OR

Camp Sherman, OR ¹

Canyon City, OR ¹

Canyonville, OR

Cascade Locks, OR

Cayuse, OR

Cedarhurst Park, OR

Charleston, OR

Chemult, OR

Chenoweth, OR

Cherry Grove, OR

Cherry Heights, OR

Chiloquin, OR ¹

Christmas Valley, OR

Clarno, OR

Clear Lake Resort, OR

Cloverdale, OR

Coburg, OR ¹

Colestin, OR

Colton, OR

Coos Bay, OR

Cornnucopia, OR

Cottrell, OR

County Line, OR ¹

Cove, OR

Crane, OR

Crater Lake, OR ¹

Crescent, OR

Crescent Lake, OR

Crooked River Ranch, OR

Crowfoot, OR ¹

Culver, OR

Curtin, OR

Cutsforth Park, OR

Dairy, OR

Danner, OR

Dawson, OR

Days Creek, OR

Dayville, OR

Dee, OR

Depoe Bay, OR

Detroit, OR

Dexter, OR ¹

Diamond, OR

Diamond Lake Composite, OR ¹

Diamond Lake Junction, OR

Dickey Prairie, OR

Dillard, OR

Dixonville, OR ¹

Dora, OR

Dorena, OR

Drain, OR

Drew's Gap, OR ¹

Drewsey, OR

Dry Creek, OR

Dunes City, OR

Durkee, OR

Eagle Creek, OR

East Metro, OR

Eden, OR

Elgin, OR

Elk City, OR

Elk Creek, OR

Elk Lake, OR

Elkton, OR

Elsie-Vinemaple, OR

Estacada, OR

Fair Oaks, OR

Fairview, OR

Falls City, OR

Fallsview, OR

Fields, OR

Firgrove, OR

Florence, OR

Fort Clatsop, OR

Fort Hill, OR

Fossil, OR ¹

Freezeout Creek, OR

Frenchglen, OR

Gales Creek, OR

Galice, OR ¹

Gardiner, OR

Gates, OR

Gateway, OR

Gibbon, OR

Gilchrist, OR

Glenbrook, OR

Glendale, OR ¹

Glide, OR

Gold Beach, OR

Gold Hill, OR

Government Camp, OR

Grand Ronde Agency, OR

Granite, OR

Grants Pass, OR

Grass Valley, OR

Green Acres, OR

Green Springs, OR

Greenhorn, OR

Halfway Valley, OR ¹

Hampton, OR

Harper, OR

Harriman, OR

Harrisburg, OR

Hebo, OR

Hemlock, OR

Hilgard, OR

Hood River, OR

Hoodland Corridor, OR

Hurricane Grange, OR

I-84 Corridor, OR

Idanha, OR

Idleyld Park, OR

Illinois Valley, OR

Imanaha River Woods, OR

Imnaha, OR

Ironside, OR

Jacksonville, OR

Jasper Point Resort, OR

Jewell, OR

John Day, OR

Jordan Valley, OR

Juntura, OR

Kahneeta Hot Springs, OR

Kah-Nee-Tah, OR

Kamela, OR

Keating, OR

Keno, OR

Klamath Falls, OR ¹

La Pine, OR ¹

Lake Creek, OR ¹

Lakeside, OR

Lakeview Basin, OR ¹

Langlois, OR

Lebanon, OR

Lehman Springs, OR ¹

Lemolo Lake Composite, OR ¹

Lincoln City, OR

Little River, OR

London Springs, OR

Lookingglass, OR

Lorane, OR

Lostine, OR

Lower Columbia Gorge, OR

Lower Mckenzie, OR

Lower Willamette, OR

Lyons, OR

Madras, OR ¹

Malin, OR

Maple Grove, OR

Mapleton, OR

Marcola, OR ¹

Marion Forks, OR

Maupin, OR

Mcdermitt, OR

Meacham, OR

Meacham Lake, OR

Medford, OR

Medical Springs, OR

Merlin, OR ¹

Merrill, OR

Metolius, OR

Midway, OR

Mill City, OR

Mill Creek, OR

Mission, OR

Mission Highway Corridor, OR

Mitchell, OR

Molalla River, OR

Monument, OR

Morgan Lake, OR

Mosier/7mile Hill, OR

Mount Emily, OR

Mount Hood, OR

Mount Vernon, OR ¹

Mulino, OR

Murphy, OR

Myrtle Creek, OR

Narrows, OR

Neskowin, OR

New Idanha, OR

New Pine Creek, OR

North Bend, OR

North Junction (Davidson), OR

Oak Grove, OR

Oak Springs, OR

Oakland, OR

Odell Lake, OR

Ontario Heights, OR ¹

Oo (Double O), OR

Orchard View, OR

Oregon Caves, OR ¹

Oretown, OR

Pacific City, OR

Paisley, OR ¹

Palmer Junction, OR ¹

Parkdale, OR ¹

Paulina, OR ¹

Penland Lake, OR ¹

Pine Grove, OR

Pleasant Valley, OR

Plush, OR

Post, OR

Powder River, OR

Power City, OR

Powers, OR

Prairie City, OR ¹

Prairie Creek, OR

Prineville, OR ¹

Prospect, OR

Rattlesnake Estates, OR

Redland, OR

Redmond, OR ¹

Reedsport, OR

Rice Hill, OR

Richland, OR

Richmond, OR

Riddle, OR

Rockford, OR

Rocky Point, OR

Rogue River, OR ¹

Rose Lodge, OR

Rosedale, OR

Rowena, OR

S.Fork Catherine Creek, OR

Sams Valley, OR

Sand Creek, OR

Sandlake, OR

Saunders Lake, OR

Scappoose, OR

Scotts Mills, OR

Scottsburg, OR

Seal Rock, OR

Seekseequa, OR

Selma, OR

Seneca, OR ¹

Sf Lostine River Subdivision, OR

Shady Cove, OR

Shady Pine, OR

Sidwalter, OR

Sidwalter Flats, OR ¹

Silver Lake, OR ¹

Simnasho, OR

Siskeyville, OR

Sisters-Cloverdale, OR ¹

Ski Run/Ski Run Road, OR ¹

South Drews, OR ¹

Sparta, OR ¹

Spitzenberg, OR

Sprague River Valley, OR

Spray, OR ¹

Springfield, OR

Springwater, OR

Starkey, OR

Starkey Pnw Hqrs, OR ¹

Steamboat, OR

Stices Gulch, OR ¹

Stimson Mill, OR

Summer Lake, OR

Sumner, OR

Sumpter City Of, OR ¹

Sumpter Valley, OR ¹

Sunny Valley, OR

Sunriver, OR

Sutherlin, OR

Sweet Home East, OR

Sweet Home West, OR

Swisshome, OR

Sycan Estates, OR

Tadmor, OR

Taylorville/Sportsmans Paradise, OR

Tenmile, OR ¹

Terrebonne, OR ¹

Thornhollow, OR

Tidewater, OR

Tierra Del Mar, OR

Tiller, OR ¹

Timber Grove, OR

Toketee, OR ¹

Tollgate, OR ¹

Trail, OR ¹

Tri City, OR

Triangle Lake, OR

Trout Creek, OR

Twickenham, OR

Umatilla, OR

Umpqua, OR

Union, OR

Union Creek, OR

Union Gap, OR ¹

Unity, OR

Upper Applegate, OR ¹

Upper Mckenzie, OR

Upper Willamette, OR

Vale, OR ¹

Valley Falls/Chandler, OR

Viento, OR

Waldport, OR

Wallowa Lake Basin, OR ¹

Walton, OR

Wamic/Pinehollow/Sportsmans Park, OR ¹

Wapinitia, OR

Warm Springs, OR ¹

Warrendale, OR

West Valley, OR

Weston Mountain, OR ¹

Westside, OR

Wilderville, OR

Williams, OR

Wimer, OR

Winchester Bay, OR

Winema Beach, OR

Winlock, OR

Winston, OR

Wolf Creek, OR

Wolf Creek Jcc, OR

Woods, OR

Wyeth, OR

Yachats, OR

Yoncalla, OR

Bushkill, PA ¹

Dingman Ferry, PA ¹

Echo Lake, PA ¹

Lehman, PA ¹

Marklesburg, PA

Milford, PA ¹

Shawnee, PA ¹

Aguas Claras, PR ²

Amuelas, PR ²

Arenale, PR

Benitez, PR

Caimito, PR

Ceiba, PR ²

Chalets De La Reina, PR ²

Coco, PR ²

Colinas Del Yunque, PR

Corozo, PR

Cubuy, PR

Culebra City, PR

Daguao, PR ²

Florida, PR

La Placita, PR

Las Marias, PR ²

Las Palmas, PR

Lujan, PR ²

Maizales, PR

Monte Santo, PR ²

Morovis, PR

Pastillito, PR ²

Pole Ojea, PR

Potala Pastillo, PR ²

Quebrada Grande, PR

Quebrada Seca, PR ²

Rio Chiquito, PR

Sabana, PR

Sabana, PR ²

Sabana Llana, PR ²

Sandoval, PR

Santa Maria, PR ²

Such Court, PR ²

Tintillo Gardens, PR ²

Tintillo Hills, PR ²

Vasquez, PR ²

Victors Braeggers, PR ²

Vieques City, PR ²

Villa Caparra, PR ²

Deep Pond, RI

Indian Church, RI

Narragansett Boy's Club, RI

Narragansett Trailer Site, RI

Angelus, SC ¹

Antioch, SC

Awendaw, SC

Bay Springs, SC ¹

Beech Island, SC ²

Bethera, SC ¹

Blair, SC

Brasstown, SC ¹

Buckhall, SC

Campbells Crossroads, SC ¹

Cherokee Creek, SC

Chesnee, SC

Cordesville, SC

Cross Keys, SC ¹

Feasterville, SC

Feasterville, SC

Francis Marion, SC

Gadsen, SC ¹

Germantown, SC ¹

Grapevine, SC ¹

Honeyhill, SC ¹

Houser House, SC ¹

Huffman Hill, SC

Huger, SC ¹

Ivester, SC ¹

Jackson, SC ²

Jamestown, SC ¹

Joanna, SC ¹

Johnson, SC ¹

K.M. State Park, SC

King Mtn. St. Park, SC

Leeds, SC

Love Valley, SC

Macedonia, SC

Martin, SC ²

Mcbee, SC ¹

Mcclellanville, SC

Middendorf, SC ¹

Mill Creek Subdivision, SC

N/A, SC ²

New Ellenton, SC ²

New Pleasant, SC

North Santee, SC

Pine Mountain, SC

Polley Cantey, SC

Renno, SC

Rock House, SC ¹

Rock House Rd, SC ¹

Savannah Lakes, SC ¹

Sedalia, SC ¹

Senard, SC ¹

Shulerville, SC ¹

Snelling Fire Dept, SC ²

St. Stephens, SC ¹

Tibwin, SC

Wando, SC ¹

White Oak/Fairview Community, SC ¹

Whitmire, SC

Williston Fire Dept, SC ²

Yesebehena, SC

Agency Village, SD ¹

Allen, SD ¹

Argyle, SD

Astria, SD

Bear Creek, SD ¹

Bear Soldier, SD ¹

Belle Fourche, SD

Big Bend, SD

Big Coulee, SD ¹

Black Hawk, SD

Blackfoot, SD ¹

Boulder Park, SD

Bowdle, SD

Bridger, SD ¹

Buffalo, SD

Camp Crook, SD ¹

Cascade Springs, SD ¹

Central City, SD

Cherry Creek, SD ¹

Cheyenne Crossing, SD

Custer, SD ¹

Custer Highlands, SD

Deadwood, SD ¹

Deerfield, SD ¹

Desmet, SD

Dewey, SD

Doty, SD

Elmore, SD

Enemy Swim, SD ¹

Englewood, SD ¹

Erskine, SD

Eureka, SD

Evergreen, SD ¹

Finley Heights, SD ¹

Finley Hgts, SD

Fox Ridge, SD ¹

Ft Thompson, SD

Ft. Thompson, SD ¹

Galena, SD

Georgetown, SD ¹

Grass Mountain, SD ¹

Grass Mtn, SD

Green Grass, SD ¹

Hayward, SD ¹

Heckula, SD ¹

Hermosa, SD

Hill City, SD

Hisega, SD ¹

Hot Springs, SD ¹

Iron Lighting, SD ¹

Iron Lightning, SD

Johnson Siding, SD

Kenel, SD ¹

Keystone, SD ¹

Kyle, SD ¹

La Plant, SD ¹

Lake Traverse, SD ¹

Lakeside, SD ¹

Lead, SD ¹

Little Eagle, SD ¹

Long Hollow, SD ¹

Lower Brule, SD ¹

Maitland, SD ¹

Manderson, SD ¹

Marksville, SD ¹

Marty, SD ¹

Maurice, SD ¹

Minnekahta, SD ¹

Nemo, SD ¹

New Effington, SD

Number Six, SD ¹

Oglala, SD ¹

On The Tree, SD ¹

Parade, SD ¹

Piedmont, SD

Pine Ridge, SD ¹

Pluma, SD

Porcupine, SD ¹

Potatoe Creek, SD ¹

Potatoe Crk, SD

Pringle, SD ¹

Promise, SD ¹

Rapid City, SD

Red Iron, SD ¹

Red Scaffold, SD ¹

Red Shirt, SD ¹

Reva, SD ¹

Ridgeview, SD ¹

Rochford, SD

Rock Creek, SD ¹

Rockerville, SD

Rockyford, SD ¹

Rosebud, SD ¹

Savoy, SD

Sharp's Corner, SD

Sharp's Corner, SD ¹

Silver City, SD ¹

Sinia, SD

Soldier Creek, SD ¹

Soldier Crk, SD

Spearfish, SD

Spring Creek, SD ¹

Spring Crk, SD

St. Francis, SD ¹

Sturgis, SD ¹

Summit, SD ¹

Swiftbird, SD ¹

Takini, SD ¹

Tea, SD

Thunder Butte, SD ¹

Tilford, SD ¹

Two Strike, SD ¹

Virgil, SD ¹

Wakpala, SD ¹

Wanblee, SD ¹

West Brule, SD ¹

Whispering Pines, SD

Whitehorse, SD ¹

Whitewood, SD

Wold Creek, SD ¹

Wolf Creek, SD

Wounded Knee, SD ¹

A E D C, TN1, 2

Adkins Rd, TN

Allardt, TN

Alticrest, TN

Avery Branch, TN

Ballplay, TN

Barr, TN

Bear Branch, TN

Benton Springs, TN ¹

Big Sandy, TN

Biltmore, TN

Bitter End, TN

Blevins, TN

Bliar, TN ²

Bloomington, TN ²

Bluebird Lane, TN

Bluff Point Subdivision, TN ²

Boogertown Rd, TN

Briceville, TN ²

Bridgeport, TN

Brown Branch, TN

Buck Mountain, TN

Buladeen, TN

Bumpass Cove, TN

Bunton Town, TN

Burbank, TN

Butler, TN

Camp Creek, TN

Cape Norris, TN ²

Carter, TN

Cedar Creek, TN

Cedar Hill Lane, TN

Centerview, TN

Charity Hill, TN

Chartersville, TN

Cherokee, TN

Chestoa, TN

Chinquapin, TN

Chisolm Lake, TN

Clark Town, TN

Cobbly Knob Village, TN

Coconut Ridge, TN ²

Coffee Ridge, TN

Coker Creek, TN ¹

Collinwood, TN

Conklin, TN

Corn Creek, TN

Cosby, TN

Cove Creek, TN

Cove Hollow, TN ²

Cove Mtn Ridge, TN

Crabtree, TN

Crackers Neck, TN

Cumberland Gap Area, TN

Cumberland Mtn, TN

Cypress Inn, TN

Damascus, TN

Del Rio, TN

Dennis Cove, TN

Denton, TN

Denton Valley, TN

Doakes Creek, TN ²

Doeville, TN

Dog Town, TN

Dogwood Farms, TN

Dogwood Shores, TN ²

Dry Run, TN

Dry Valley Rd, TN

Duckett Ridge, TN

Earnestville, TN

East Norris Point Subdivision, TN ²

Edgar Evins, TN ²

Edwina, TN

Eighth District, TN ²

Elizabethton, TN

Elk Mills, TN

Embreeville, TN

Emmett, TN

English Mtn Area, TN

Erwin, TN

Erwin, Town of, TN

Fish Hatchery Rd, TN

Fish Springs, TN

Flag Pond, TN

Flat Hollow, TN ²

Floating Mill, TN ²

Forge Creek, TN

Four Seasons, TN ²

Friendsville Area, TN ²

Furnace Creek, TN

Gap Creek, TN

Gatlinburg, TN ¹

Gatlinburg City, TN

Gentry Creek, TN

Gordonsburg, TN

Grassy Creek, TN ¹

Grassy Fork, TN

Grey Stone, TN

Half Moon, TN ²

Half Moon Shores, TN ²

Hammon Chapel, TN

Hampton, TN

Hampton Creek, TN

Happy Hollow, TN

Happy Valley, TN

Harriman Area, TN ²

Hartford, TN

Heath, TN

Heaton Branch, TN

Hickory Hollow Subdivision, TN

Hickory Star Resort, TN ²

Hickory Tree, TN

Hidden Harbor, TN ²

Hidden Hollow Way, TN

Hillville, TN

Holder Cemetery Rd, TN

Holiday Haven, TN ²

Honeycreek, TN

Horse Shove, TN

Houston Valley, TN

Hummingbird, TN

Hunter, TN

Hurricane Bridge, TN ²

Indian Fork, TN ²

Ironsburg, TN

Jim Davis Rd, TN

Johnson's Chapel, TN ²

Jones Chapel, TN ²

Keenburg, TN

Kelly Knob, TN

King Branch, TN

Kingston Area, TN ²

Koko, TN

Laurel Bloomery, TN

Laurel Grove, TN ²

Laurel Valley, TN

Laurels, TN

Leipers Fork, TN

Limestone Cove, TN

Little Cove, TN

Little Milligan, TN

Long Creek, TN

Love Station, TN

Lower Smithfield Rd, TN

Luciuda, TN

Marbleton, TN

Maymead, TN

Mccall, TN

Mcglamery's Stand, TN

Meadow Creek, TN

Midtown, TN ²

Millers Landing Subdivision, TN ²

Milligan College, TN

Moon Light Bay, TN ²

Mountain City, TN

Mountain Harbor, TN ²

Mt. City, TN

Mtn Laurel Way, TN

Mtn View Estates, TN ²

Natty Branch, TN

Natures Way, TN

Neva, TN

Nix Lane, TN

Norris Shores, TN ²

Northshores Area (Loud), TN ²

Ober Gatlinburg, TN

Offset, TN

Old Bald River Rd, TN

Old Doc Rodgers Rd, TN

Old Furnace Rd, TN

Old Lee Hwy, TN

Oliver Springs Area, TN ²

Onedia, TN

Open Lake, TN

Ovilla, TN

Pandora, TN

Parksville, TN ¹

Pasquo, TN

Pate's Ford, TN ²

Payne Mtn Rd, TN

Pewitt, TN

Pierce Town, TN

Pilroe Town, TN

Pittman Center, TN

Poga, TN

Point Harbour Subdivision, TN ²

Powder Branch, TN

Powell Valley Shores, TN ²

Ptttman Center, TN

Puckett's Point, TN ²

Puckett's Point, TN ²

Rafter, TN

Ragland Bottom, TN ²

Range, TN

Raven Branch, TN

Rich Mtn, TN

Rich Mtn Estates, TN

Rich Mtn., TN

Ridgeview Point, TN

Ripshin, TN

Ritter Town, TN

Roan Creek, TN

Roan Mt., TN

Rockwood Area, TN ²

Rosedale, TN ²

Round Knob, TN

Sadie, TN

Samburg, TN

Scioto, TN ¹

Sequoyah Landing, TN ²

Setterberg Rd, TN

Shady Valley, TN ¹

Shell Creek, TN

Shelton Laurel, TN

Shelton Mission, TN

Shepp, TN

Shingle Town, TN

Shirley, TN ¹

Shultz Hollow, TN ²

Siam, TN

Simerly Creek, TN

Sims Hill, TN

Sink Mt, TN ¹

Sizlar Rd, TN

Sky Harbor, TN

Sligo, TN ²

Slyco, TN ¹

Snugglers View, TN

South Central, TN

South Holston Lk, TN

Springtown, TN

Sugar Hollow, TN

Sunny Hill, TN

Sunnyhill, TN

Sutherland, TN ¹

Swan Seymour, TN ²

Sweetwater, TN

Sylco, TN

Tallassee Area, TN ²

Taylor Valley, TN

Teaberry, TN

Tellico Plains, TN

Tellico Village, TN ²

Temple, TN

Thompson Rd, TN

Three Mountain, TN

Tiger Creek, TN

Tiger Creek, TN

Tiger Valley, TN

Tolley Town, TN

Top-O-World, TN

Townsend, TN

Townsend Area, TN

Trade, TN

Tumblin Run, TN ²

Turkey Creek, TN

Turkey Pin, TN

Twin Cove Subdivision, TN ²

Unaka Springs, TN

Unicoi, TN ¹

Upper Shell Creek, TN

Upper Smithfield Rd, TN

Valley Forge, TN

Viking Mountain, TN

Vowell Mtn, TN ²

Wa-Floy Retreat, TN

Watauga, TN

Water Street Rd, TN ²

Water Valley, TN

Waterville, TN

Wears Valley, TN

Wears Valley (Blount), TN

West Hills, TN ²

West Millers Cove, TN

Whaley Town, TN

White Rock, TN

White Sand, TN

Whitehead Hill, TN

Wilber Dam, TN

Wills, TN

Windrock, TN ²

Winfield, TN

Winner, TN

Woodnote, TN

177 Lake Estates, TX

2604 Community, TX ²

Abilene, TX ²

Adell, TX ²

Aguilares, TX ²

Alabama-Coushatta Tribal Community, TX ¹

Alamo, TX

Aledo, TX ²

Alice, TX ²

Alpine Fly In, TX

Alton, TX

Aransas Pass, TX ²

Arbors At Dogwood, TX1, 2

Arlington, TX ²

Armstrong, TX ²

Arrowhead, TX

Aston Park, TX

Auga Dulce, TX ²

Austwell, TX

Azle, TX ²

Baileyboro, TX

Banquete, TX ²

Bar K, TX ¹

Bayside, TX

Bear Creek Est., TX

Bedford, TX ²

Beechwood 1234, TX

Beeville, TX ²

Ben Bolt, TX ²

Benavides, TX ²

Benbrook, TX ²

Bevil Oaks, TX

Big Spring, TX ²

Big Thicket Lake Est., TX

Bishop, TX ²

Bishop Hills, TX

Blanconia, TX ²

Blue Mound, TX ²

Boerne, TX¹, ²

Borger, TX

Brock, TX ²

Brook Wood, TX

Brownsville, TX

Brownwood, TX

Bruni, TX ²

Buffalo Springs, TX ²

Bula, TX

Bull Creek Hollow, TX

Bulverde, TX ²

Butlers Point, TX

Canadian, TX

Canal City, TX

Canutillo, TX ²

Canyon, TX

Canyon Ridge Springs, TX ¹

Cape Malibu, TX

Caps, TX ²

Cedar Lake, TX

Cedar Ridge, TX1, 2

Central Community, TX ²

Chasewood Forest, TX

Cherry Hollow Estates, TX ¹

China Grove, TX ²

Cibolo, TX ²

Circle D, TX¹, ²

Clear Water Cove, TX

Coleman, TX ²

Colleyville, TX ²

Converse, TX ²

Cool, TX ²

Coppers Cove, TX ²

Corinthian Point, TX

Cougar, TX

Country Meadows, TX

Country Wood, TX

Crestwood, TX ²

Crowley, TX ²

Crystal Forest, TX

Cut—N—Shoot, TX

Dalhart, TX

Dalrock, TX ²

Dalworthington Gardens, TX ²

Dardin Village, TX

Deer Haven, TX

Del Rio, TX ²

Dell City, TX

Den Marina, TX

Dennis, TX ²

Dent Subdivision, TX

Dixie Lane, TX

Dobbin, TX

Dodge, TX

Donna, TX

Dove Creek, TX ²

Drake Estates, TX

Drake Shores, TX

Driscoll, TX ²

Dyess Afb, TX ²

Eagle Lake, TX

Edcouch, TX

Edgecliff Village, TX ²

El Camino Bay, TX

El Cenico, TX ²

El Paso, TX ²

Eldorado, TX ²

Elgin, TX¹, ²

Elkins Lake, TX

Ellison Estates, TX

Elmendorf, TX ²

Elsa, TX

Encino, TX ²

Enochs, TX

Euless, TX ²

Evergreen Forest, TX

Evergreen Heights, TX

Everman, TX ²

Fair Oaks Ranch, TX ²

Falfurrias, TX ²

Farmersville, TX ²

Flamingo Lake, TX

Flour Bluff, TX ²

Flower Mound, TX ²

Forest Heights, TX

Forest Hill, TX ²

Forest Trails, TX

Forest Woods, TX

Fort Worth, TX ²

Freer, TX ²

Fricth, TX

Frontier Lake, TX

Frontier Park, TX

Ft. Davis, TX

Fulton, TX

Garner, TX ²

Gatesville, TX ²

Gateway Meadows, TX

George West, TX ²

Glen Cove, TX ²

Gordon, TX ²

Graford, TX ²

Grand Prairie, TX ²

Granger Lake, TX ²

Grape Creek, TX ²

Grapevine, TX ²

Green Acres, TX

Green Belt Estates, TX

Gregory, TX ²

Haltom City, TX ²

Harbor Grove, TX ²

Harker Heights, TX ²

Harlingen, TX

Hartburg, TX

Haslet, TX ²

Hebbronville, TX ²

Helotes, TX ²

Hickory Creek, TX ²

Hickory Hills, TX

Hicks And Lollar, TX

Hidalgo, TX

Hidden Acres, TX

Hidden Forest, TX

High River Ranch, TX ¹

Highland Village, TX ²

Holiday Beach, TX

Holiday Harbor, TX ²

Holly Bay, TX

Hooks, TX ²

Hoop & Hoooer, TX

Hopewell Cemetery, TX ¹

Hostetter Creek, TX

Hudson Bend, TX

Hudson Oaks, TX ²

Hunters Point, TX

Hunters Run, TX

Hurst, TX ²

Idle Acres, TX

Indian Hills, TX ²

Indian Mounds, TX

Indian Springs, TX

Ingleside, TX ²

Jamestown, TX

Jennifer Lane Trailer Park, TX ¹

Johnson City, TX

Keller, TX ²

Kennedale, TX ²

Kerrick, TX

Kerrville, TX ¹

Kickapoo Indian Res., TX

Killeen, TX ²

Kinard Estates, TX

Kingsville, TX

La Casita, TX

La Feria, TX

La Grulla, TX

La Joya, TX

La Junta, TX ²

La Rosita, TX

La Villa, TX

Lagarto, TX ²

Lago Vista, TX

Laguna Park, TX ²

Lajitas, TX

Lake Bastrop Acres, TX 1, 2

Lake Louise, TX

Lake Louise Terrace, TX

Lake Rolling Wood, TX

Lake Wildwood, TX

Lake Worth, TX ²

Lakeside, TX ²

Lamar, TX

Laredo, TX ²

Lasara, TX

Lavon, TX ²

Lazey Forest, TX

Lefors, TX

Liberty Grove, TX ²

Linn-San Manuel, TX

Little Elm, TX ²

Little Mcacres, TX 1, 2

Live Oak, TX ²

Live Oak Resorts, TX ²

Loan Camp, TX ²

Lochness Cove, TX

Los Fresnos, TX

Los Indios, TX

Lyford, TX

Macdona, TX ²

Mansfield, TX ²

Mathis, TX ²

Mcallen, TX

Mcclean, TX

Mcdade, TX 1, 2

Mcgee Landing, TX

Mckinney, TX ²

Mcrae Lake, TX

Meadow Brook, TX

Mercedes, TX

Millsap, TX ²

Mineral Wells, TX ²

Mingus, TX ²

Minton, TX ²

Mirando City, TX ²

Mission, TX

Monte Alto, TX

Montgomery, TX

Mount Pleasant, TX

Mount Zion Acres, TX

Mountain Creek Estates, TX ¹

Mountain River, TX ²

Muleshoe, TX

Nameless Hollow, TX ¹

Nameless Valley Ranch, TX ¹

Needmore, TX

New Waverly, TX

Newark, TX ²

Nolanville, TX ²

Norias, TX ²

Normanna, TX ²

North Richland Hills, TX ²

Oak Valley, TX ²

Oakwood, TX

Oatmeal Community, TX ¹

Odem, TX ²

Oilton, TX ²

Olmito, TX

Oran, TX ²

Palmhurst, TX

Palo Pinto, TX ²

Panhandle, TX ²

Panorama Village, TX

Pantego, TX ²

Papalote, TX ²

Pawnee, TX ²

Peaseter, TX ²

Pelican Bay, TX ²

Pendleton Harbor, TX

Petronila, TX ²

Pettus-Tuleta, TX ²

Pharr, TX

Pilot Point, TX ²

Pine Bush, TX

Pine Harbor, TX ²

Pinewood, TX

Poolville, TX ²

Port Isabel, TX

Port Mansfield, TX

Portland, TX ²

Powderly, TX ²

Premont, TX ²

Princeton, TX ²

Promontory Park, TX ²

Purmella, TX ²

Quiet Village, TX

Rancho Nuevo, TX

Rayburn, TX

Raymondville, TX

Rebel Ridge, TX

Redwater, TX ²

Refugio, TX

Reno, TX ²

Ricardo, TX

Richland Hills, TX ²

Rio Bravo, TX ²

Rio Grande City, TX

Rio Hondo, TX

River Bend, TX

River Oaks, TX ²

Riviera, TX

Roanoke, TX ²

Robstown, TX ²

Rockport, TX

Rockwall, TX ²

Roma, TX

Roman Hills, TX

Round Mountain, TX ¹

Rowlett, TX ²

Royal Forest, TX

Saginaw, TX ²

Salineno, TX

San Angelo, TX ²

San Antonio, TX ²

San Diego, TX ²

San Isidiro, TX

San Marcos, TX

San Perlita, TX

Sandia, TX ²

Sanford, TX

Sansom Park, TX ²

Santa Maria, TX

Santa Monica, TX

Santa Rosa, TX

Santo, TX ²

Sarita, TX ²

Seagoville, TX ²

Sebastian, TX

Security Forest, TX

Selma, TX ²

Serenity Woods, TX

Sharon Acres, TX ²

Shertz, TX ²

Silver Creek, TX ²

Sinton, TX ²

Skidmore, TX ²

Somerset, TX ²

Sommerville, TX ²

South Padre Island, TX

Southlake, TX ²

Spring Creek Ranch, TX ¹

Spring Lake Estates, TX

Springtown, TX ²

Stillhouse, TX ²

Stinnett, TX

Stonewall, TX

Strawn, TX ²

Study Butte, TX

Sullivan City, TX

Sunland Park, TX ²

Swinney Switch, TX ²

Sycamore Falls Estates, TX ¹

Taft, TX ²

Tall Timbers, TX

Tealwood, TX

Terlingua, TX

Texaba, TX

Texas National, TX

The Colony, TX ²

The Grove, TX ²

Three Rivers, TX ²

Tin Top, TX ²

Tivoli, TX

Toledo Village, TX

Tri-Lake Estates, TX

Trophy Club, TX ²

Twain Landing, TX

Tye, TX ²

Tynan, TX ²

Umbarger, TX

Union Hill, TX ²

Universal City, TX ²

Valera, TX ²

Van Horn, TX

View, TX ²

Waco, TX ²

Wadsworth, TX

Walco Hills, TX

Watauga, TX ²

Weatherford, TX ²

Weslaco, TX

West Austin, TX ²

Westlake, TX ²

Westover Hills, TX ²

Westworth Village, TX ²

White Settlement, TX ²

Whitewater Springs, TX ¹

Whitney, TX ²

Whitt, TX ²

Wildwood, TX

Wildwood Acres, TX

Willis, TX

Willow Park, TX ²

Woodcreek, TX

Woodlawn, TX

Woodsboro, TX

Woodway, TX ²

Wylie, TX ²

Zapata, TX

Accord Lakes, UT ¹

Adamsville, UT

Alpine, UT

Alta, UT

Ant Flat, UT

Antimony/Antimony Mining, UT

Apple Valley, UT

Area E. of Fillmore And Holden, UT

Argyle Ridge/Canyon, UT

Arrowhead, UT

Aspen Academy, UT

Aspen Highlands, UT

Aspen Hills, UT

Avon—Smithfield Bench, UT

Baker Canyon, UT

Bandanna Ranch, UT

Bear River Lodge/Christmas Meadow, UT

Bear River Nwr Hq/Facilities, UT

Bear Valley Jct., UT

Beaver, UT ¹

Beaver Dam—Sanpete, UT

Beaver Mt., UT

Beaver Springs/Aspen Meadows, UT ¹

Beryl, UT

Best Friends, UT

Big Cottonwood, UT

Big Pine, UT

Big Water/Church Wells/East Clark Bench, UT

Black Hawk, UT

Black Ridge Interface, UT ¹

Black Ridge Ranches, UT ¹

Blacksmith Fork, UT

Blue Mountain Ranch, UT ¹

Blue Spring, UT

Blue Springs, UT ¹

Bluff, UT

Bonanza, UT

Boulder Point, UT

Boulder/Haws Pasture/King Pasture, UT ¹

Bountiful, UT

Brianhead, UT ¹

Brigham—Collinston Bench, UT ¹

Brigham—Willard Bench, UT

Brighten, UT

Brooks Canyon, UT

Brookside/Central, UT ¹

Brownie Lakes, UT

Bryants Fork, UT

Bryce Park Infrastructure, UT ¹

Bryce Woodlands/Long Valley/Canyon, UT

Buckeye Resort, UT ¹

Buckhorn, UT

Bug Point, UT

Bull Frog, UT

Burrville, UT

Cainesville, UT

Callao, UT

Cannonville, UT

Canyon Meadows, UT

Canyon Terrace/Blanding, UT

Castle Valley, UT

Castle Valley—Grand, UT

Causey Estates, UT

Cedar City, UT

Cedar Fort, UT

Cedar High Lands, UT ¹

Cedar Hill, UT

Cedar Hills, UT

Cedar Mountain, UT

Cedar Point, UT

Center Creek, UT

Center Creek Youth Camp, UT ¹

Centerville, UT

Chekshani, UT

Citation Oil Transfer, UT

Clear Creek—Box Elder, UT

Cloud Rim, UT

Cougar Canyon, UT

Cove Fort, UT ¹

Covered Bridge, UT

Cove-Richmond Bench, UT

Currant Ck. Mt., UT

Current Creek, UT

Daniels Summit, UT

Davis Point/Main Canyon, UT

Deer Lodge, UT

Deer Springs, UT ¹

Deer Valley, UT

Defas, UT

Derffie Creek, UT

Dewey, UT

Diamond Bar X, UT

Diamond Mountain, UT

Diamond Valley/Dammeron, UT

Dimple Dell, UT

Docs Beach, UT

Doug Thorley, UT

Dove Creek, UT

Draper, UT

Dry Fork, UT

Duck Creek Area, UT

Dugway, UT

Dutch John, UT

Eagle Estates, UT

Eagle Mountain, UT

East Carbon/Sunnyside, UT

East Fork Bsa, UT

East Hyrum, UT

East Zion Estates, UT

Eastside of Sevier Valley, UT

Eden, UT ¹

Elk Meadow, UT ¹

Elk Ridge—Sanpete, UT ¹

Elk Ridge—Utah, UT

Emigration Canyon, UT

Ephraim Canyon Experiment Station, UT

Escalante, UT

Eskdale, UT

Eureka/Tintic/Mammoth, UT ¹

Fairview Lakes, UT ¹

Farmington, UT

Ferron Canyon Summer Homes, UT

Fillmore, UT

Fish Springs Nwr Hq/Facilities, UT

Fishlake Summer Homes—Sevier, UT ¹

Flaming Gorge Acres, Pines, UT ¹

Forest Gardens, UT

Fort Duchesne, UT

Garden City/ Bridgerland, UT

Garden City/ Sweetwater, UT ¹

Garden City/Little Switzerland, UT

Garden City/Swan Creek, UT

Garrison, UT

Genola, UT

George Town, UT

Glendale, UT

Gold Hill, UT

Gooseberry—Sanpete, UT

Gooseberry—Sevier, UT

Grafton, UT

Grass Valley, UT

Green Hills, UT

Greenville, UT ¹

Gunlock, UT

Hancock Cove/Cedarview, UT

Hanksville, UT

Happy Valley, UT

Hardware Ranch, UT

Harrisburg, UT

Hatch, UT

Haycock, UT

Henrieville, UT

Hideaway Valley, UT

Highland, UT

High-Low, UT ¹

Highway 56/Cedar To Pinto Jct., UT ¹

Highway 89 Corridor, UT

Hilldale, UT

Hobble Creek, UT

Holiday, UT

Holiday Oaks, UT ¹

Holiday Park/Alpine Acres, UT

Home Ranch, UT

Horsehead, UT

Hurricane, UT

Ibapah, UT

Indian Bench, UT

Indian Canyon, UT

Indian Creek, UT

Indian Ridge, UT

Indianola, UT

Inholdings/Park Boundries, UT ¹

Ireland Meadow, UT

Iron Springs, UT

Iron Town, UT

Island Park, UT

Ivins, UT

Johnson Canyon, UT

Jones Hole, UT

K & J Estates, UT

Kanab, UT

Kanaraville/Checkshani, UT

Kanosh, UT ¹

Kaysville, UT

Kelly Canyon, UT

Kenilworth, UT

Khoosharem Reservoir, UT ¹

Kodachrome, UT

Kolob Terrace, UT ¹

Lake Point/Mills Jctn., UT

Lasal, UT

Laverkin, UT

Layton, UT

Lebaron, UT ¹

Leeds, UT

Lidias Canyon, UT

Lindon, UT

Little Brush Creek, UT

Little Cottonwood, UT

Little Diamond Fk, UT

Little Ponderosa, UT ¹

Little Res., UT

Logan, UT ¹

Logan Canyon, UT

Long Flat, UT

Lund, UT

Mammoth Creek/Tommy Creek/Yellow Pine, UT ¹

Manderfield, UT

Manning Meadows, UT ¹

Manti Canyon, UT

Mantua, UT

Maple Canyon—Huntsville, UT

Maple Hills, UT

Mapleton, UT

Meadow, UT ¹

Meadow Lake, UT

Meadowville, UT

Mia Shalom, UT

Milburn, UT

Milford, UT

Millers Flat, UT

Mills, UT

Mineral Wash Area, UT

Minersville, UT

Modena, UT

Monroe Meadows, UT ¹

Monticello, UT

Morgan, UT

Motoqua, UT

Mountain Green, UT

Mountain Meadow, UT

Mt. Carmel, UT

Mt. Carmel Jct., UT

Mt. Tabby Springs, UT

Myton, UT

Navajo Estates/Summer Homes, UT ¹

Neola/Whiterocks, UT

New Castle, UT

New Harmony/New Harmony Heights, UT ¹

Nordic Valley, UT ¹

North Creek, UT

North Fork, UT

North Fork Drainage/Cougar Canyon, UT

North Ogden Bench, UT

North Reservoir Subdivision, UT

North Salt Lake, UT

Oak City, UT ¹

Oaker Hills, UT

Oaks Park, UT

Ogden Canyon, UT

Old Lasal, UT

Olympus Cove, UT

Ophir, UT

Orderville, UT

Orem, UT

Ouray, UT

Ouray Nwr Hq/Facilities, UT

Pack Creek, UT

Palisade, UT

Panguich, UT ¹

Panguitch Lake/Beaver Dam/Clear Creek, UT ¹

Panorama Woods, UT

Parawon Front I-15 Corridor/To Cedar City, UT

Park Admin/Historic District, UT ¹

Park Admin/Park Boundry, UT ¹

Park City/Deer Valley, UT

Park Valley, UT

Paroganah, UT

Parowan, UT

Partoun, UT

Pine Canyon, UT

Pine Creek, UT ¹

Pine Hollow, UT

Pine Valley, UT

Pine View, UT

Pines Ranches/Pine Mt., UT

Pinto, UT

Pinwillies, UT

Pleasant Grove, UT

Pleasant View, UT

Pole Patch, UT ¹

Ponderosa Estates, UT

Ponderosa Villa, UT

Porterville, UT

Poverty Flat, UT

Provo, UT

Puffer Lake, UT ¹

Quitchapah, UT

Rabbit Gulch, UT

Rainbow Meadow/Ireland Estates/Meadow, UT ¹

Ranch Canyon, UT

Randlette, UT

Red Canyon, UT

Red Canyon—Dagget, UT

Reeders, UT

Reese's Flat Subdivision, UT

Reservation Ridge, UT

Reservoir Road, UT ¹

River Forest, UT

Rock Creek, UT

Rockville, UT

Rockwood, UT ¹

Rocky Ridge, UT ¹

Ruby's Inn/Bryce Canyon/Pines/Fosters,

UT ¹

Rush Valley, UT

Salt Gulch Ranch, UT ¹

Salt Lake City, UT

Samak, UT

San Pitch Canyon, UT

Sandy, UT

Santa Clara, UT

Santaquin, UT

Saratoga, UT

Schofield Reservoir, UT

Sevier River Estates, UT

Sheep Creek, UT

Shivwits, UT

Silver Lake, UT

Silver Reef, UT ¹

Silver Valley, UT

Skull Valley, UT ¹

Skull Valley, UT

Sky Haven, UT

Skyline Mountain Resort, UT ¹

Snow Basin, UT

Soldier Creek, UT

Soldier Hollow, UT ¹

South Canaan, UT

South Canyon, UT

South Canyon—Avon, UT

South Fork—Huntsville, UT

South Fork Chalk Creek, UT

South Ogden Bench, UT

South Weber, UT

Spencer Bench, UT

Spencer Cliff Estates, UT

Spirit Lake Lodge, UT

Spring Canyon/Helper, UT

Spring City Ranchero, UT

Springdale, UT

Springdell, UT

Springville, UT

St. George, UT

Stillwater, UT

Stockton, UT

Storm Haven, UT

Stout Canyon, UT

Strawberry Pinnicles, UT

Strawberry Valley, UT

Sulpherdale, UT

Summit, UT

Summit Park/Pinebrook, UT

Suncrest, UT

Sundance, UT ¹

Swains Creek, UT

Swens Canyon, UT

Sylvin Canyon, UT

Taylor Flat, UT ¹

Teasdale/Torrey, UT

Terra, UT

Thousand Peaks Ranch, UT

Three Creek, UT

Three Peaks, UT

Tibble Fk, UT

Timberlakes, UT ¹

Todd's Junction, UT

Tooele, UT

Toquerville, UT

Trappers Loop, UT

Tridell, UT

Tropic, UT

Trout Creek, UT

Two Bears/Pine Plateau, UT

Uintah Bench, UT

Uintah Canyon, UT

Upper Valley, UT

Veyo, UT

Virgin, UT

Vivian Park, UT

Washington, UT

Wecco, UT

West Hills, UT

West Water, UT

Whispering Pines, UT

White Mesa, UT

Whiterocks, UT ¹

Wide Hollow, UT

Widsoe Jct./Steed Ranch, UT

Willow Basin, UT ¹

Winchester Hills, UT

Wolf Creek Ranch, UT

Woodland Hills, UT

Woodruff/Chournos, UT

Woodruff/Eagle Springs, UT

Yellowstone Canyon, UT

Yost, UT

Zion Lodge, UT ¹

Zion View, UT

(South), VA

(West), VA

Abbot Ac 1, VA

Abbot Ac 2, VA

Abbot Ac 3, VA

Acres Subdivision, VA

Adams Hunt, VA ²

Adams St. Taz, VA

Advance Mills V, VA

Alden, VA ²

Algonquin Hills, VA ²

Allens Mill Rd., VA

Allnut, VA ²

Alpine Acres, VA

Alpine Farms, VA

Alpine Rdg, VA

Alpine Villag, VA

Alps, VA ²

Alsop, VA

Alst Heaven, VA

Aluminum & Steel, VA

Ancient Shores, VA

Anderson Estates, VA

Angel View, VA

Anglor Cove, VA ²

Apomattox, VA

Apple Mt. Lake, VA

Aps Knob, VA

Aquia Harbour, VA ²

Aquia Hollow, VA ²

Aquia Station, VA ²

Arbor Park, VA

Arnolds, VA ²

Arrowhead, VA

Arrowhead 4, VA

Arrowhead 5, VA

Arrowwood, VA

Artillery Ridge, VA

Ashby Run Est., VA

Ashland, VA ²

Ashley Oaks, VA

Aspen Hill Farm, VA

Aspen Hills, VA

Assawoman Dev, VA

Augustine, VA ²

Austins Farm, VA ²

Autumn Hill, VA

Autumn Pk, VA

Autumn Wd, VA

Bailey Creek Estates, VA

Baileys Nexk, VA

Baird Est., VA ²

Ballard Woods, VA

Banbury Cross, VA ²

Banner Plantation, VA

Barcroft, VA

Barester Et, VA

Bark Camp Trl., VA

Barlow Rd., VA ²

Baron Woods, VA

Barrington Oaks, VA ²

Bassett Hit, VA ²

Bath Alum Ridge, VA

Battery Hills, VA

Battle Creek Forest, VA

Battle Creek Subdivision, VA

Battle Park Lakes, VA

Battlefield Estates, VA

Battlefield Park, VA

Battlefield Park Farms, VA

Bay Ridge, VA

Bayberry Estates, VA ²

Baynesville, VA

Beamers Knob, VA

Bean Hollow, VA

Bear Creek, VA

Bear Hollow Ridge, VA

Bear Ridge, VA

Beattie Mill Rd, VA

Beau Ridge Estates, VA ²

Beauclaire Plantation, VA

Beaver Lane, VA

Beaver Lodge, VA ²

Beavor Lodge, VA ²

Beckwood, VA

Bedford Hills, VA

Beech Hill, VA

Belarispring, VA

Bellemeade, VA

Bellevista, VA ²

Bells Hill Road, VA ²

Belmont Subdivision, VA

Belvedere Heights, VA ²

Benchmark, VA ²

Bennett Crossroads, VA ²

Benny's Beach, VA

Berkeley Beach, VA

Berkshire, VA

Berry Hill, VA ²

Berry Hollow, VA

Berry Plains, VA ²

Bertha Farms, VA

Berthsville, VA ²

Bethlehem Fork, VA ²

Beulah Church Rd, VA

Beverly Town, VA

Big Hill Acres, VA

Big Horn, VA

Big Reed, VA

Big River Ranch, VA ²

Birchwood, VA ²

Bishop's Manor, VA

Bl. Ridge Forest, VA

Bl. Ridge View, VA

Black Bear, VA

Black Creek Dev, VA

Black Meadow Road, VA

Blackstone, VA ²

Blackstone Canyon, VA ²

Blackwt Cv, VA

Blair/Warfield, VA ²

Bland Creek Farms, VA ²

Blandemar, VA

Blockhouse Rd. S, VA

Bloomsbury, VA

Blrd Mob Hp, VA

Blue Mountain, VA

Blue Rdg Hts, VA

Blue Ridge 21, VA

Blue Ridge Acr., VA

Blue Ridge Estates, VA

Blue Ridge Lane, VA

Blue Ridge Mountain Est., VA

Blue Ridge Pines, VA

Blue Ridge Subdivision, VA

Blue Wt Bay, VA

Bluestone Fort, VA ²

Bobletts Gap, VA

Bolling, VA

Bonniville Ln, VA

Booth, VA

Boswell's Corner, VA ²

Boundry Run Dev., VA

Bowling Green, VA ²

Bowling Green Pk, VA ²

Boydton, VA ²

Bradley Acres, VA

Bradley Forest, VA ²

Brandermill, VA ²

Brandy Run, VA

Brandywine, VA

Brays, VA

Breaks Int. Park, VA

Breeden's, VA

Breezewood, VA

Bren Forest, VA ²

Brentwood Lane, VA ²

Briar Ridge, VA

Briarwood, VA

Briarwood Blfd, VA

Brick Bat Rd., VA

Brickey, VA

Bridlewood, VA

Brills Rd, VA ²

Brittany, VA ²

Broadhurst Acres, VA ²

Broadwater Bluff, VA

Brock Road N., VA

Broken Back, VA

Brookmill, VA

Brookwood, VA

Brookwood, VA

Brookwood, VA

Brown Rufus, VA

Brunbridge, VA

Brush Mt Es, VA

Bryant Mountain, VA

Bryce Mt., VA

Bry-Lee Hill, VA

Buck Hill, VA

Buck Mountain, VA

Buck Mt. Est., VA

Buckland, VA

Buffalo Est., VA ²

Bull Yearling Run, VA

Bunker Hill Estates, VA

Burke's Shop, VA ²

Burlingame, VA

Burma Rd Ad, VA

Bushy Ridge, VA

Butlers Bluff, VA

Caldwell Ln, VA

Caledon Road, VA ²

Calmes Neck, VA

Calthrop Neck Rd, VA ²

Calvary Ridge, VA

Cambdge Est, VA ²

Camelot, VA ²

Camp, VA

Camp Blue Ridge, VA

Camp New Horizon, VA ²

Campbell Ct, VA ²

Campbell Hl, VA

Camptown Dr, VA

Camptown/Alsoptwn, VA

Candlewood, VA

Candlewyck, VA

Canham Rd., VA

Canterbury, VA ²

Canwick Estates, VA

Capt. John Smith, VA

Captains Cove, VA

Cardinal Crest/Sedgewick Heights, VA ²

Cardinal Forest, VA ²

Cardinal Heights/Belleauwood, VA ²

Carefree Acres, VA

Cargunn, VA ²

Carodon, VA

Caroline Village, VA ²

Carter's Neck, VA ²

Cartersville Hghts., VA

Cascade Mt., VA

Castle Point, VA

Castle Rock Mt., VA

Castleman's, VA

Catharpin, VA

Catharpin Rd. Centr., VA

Catharpin Rd. W, VA

Catlett, VA ²

Cavalier Farms, VA

Cave Springs, VA

Caywoods, VA ²

Cedar Ck., VA

Cedar Cliff Area, VA

Cedar Crk. Est., VA

Cedar Grove, VA

Cedar Grove I, VA

Cedar Grove Iii, VA

Cedar Knolls, VA

Cedar Ridge, VA

Cedar Ridge, VA ²

Cedar Run, VA

Cedar Run Estates, VA ²

Cedarville Hgts., VA

Celebrity Ct, VA

Celestial Ht, VA

Centennial Hgtsapt, VA

Central Point, VA ²

Central Valley, VA

Chalet High, VA

Chamberlayne Rd, VA

Champs Mill Estates, VA ²

Chancellor Area, VA

Chancellor Meadows, VA

Chancellor West, VA

Chancellor Woods, VA

Chancellorsville Est., VA

Chancos Grant, VA

Chapel Hills, VA

Chatham Square, VA

Cheapside Dv, VA

Cherokee Hill, VA

Cherokee Hl, VA

Cherry Blossom Ln, VA

Cherry Hill, VA ²

Cherry Ridg, VA

Chesdin Rd, VA

Chesser Village, VA

Chest Mt Es, VA

Chester Gap, VA

Chesterwood Comm., VA ²

Chestnut Ck, VA

Chestnut Grove, VA

Chestnut Hills, VA ²

Chestnut Knolls, VA ²

Chestnut Mt, VA

Cheswick, VA

Chevalle, VA ²

Chickahominy Bluffs, VA

Chickahominy Branch, VA

Chickahominyshores, VA ²

Chimney Hl, VA

Chimney Lake, VA ²

Chinuapin Es, VA

Chisel Run, VA ²

Christopher Fork, VA ²

Church Hill Road, VA

Clarke-Hawkins, VA

Clarksville, VA ²

Claytor Lke, VA

Claywood, VA ²

Clearview, VA

Cleveland Manor, VA ²

Cleydael, VA ²

Clopton Forest, VA ²

Cloud Land, VA

Cloudcroft, VA

Clover, VA ²

Cloverdale, VA

Cloverdale, VA ²

Coach/Buckboard Rd, VA

Cobblestone, VA

Cobham Park, VA

Coburn, VA

Cold Cheer, VA

Cold Harbor, VA

Cole-Harbour, VA ²

Coleman Island, VA

Collier Hills, VA

Colonial Acres, VA ²

Colonial Beach, VA

Colonial Beach Dragway, VA

Colonies, VA ²

Colony Creek, VA ²

Colts Neck, VA

Concord, VA ²

Concord Estates, VA ²

Confederate Hills, VA

Conifer Cove, VA ²

Conquest Point, VA ²

Cooktown, VA

Corbin, VA ²

Corder Bottom Subdivision, VA

Cornwall F, VA

Cotton Hl Et, VA

Country Club Estates, VA

Country Club Estates, VA

Country Club Over, VA

Country Estates, VA

Country Ridge, VA ²

Country View, VA

Country Woods Est, VA ²

Countrywd, VA

Courthouse Common, VA

Courthouse Est., VA ²

Courthouse Mountain, VA

Courthouse Rd. E., VA

Courthouse Rd. S., VA

Courthouse Rd. W., VA

Courthouse Rd. W., VA ²

Cow Knob, VA

Crawford, VA

Creekside, VA

Creekwood, VA

Crestv Pk, VA ²

Crimora Min, VA

Cromwell, VA ²

Crooked Run Farm, VA

Crookhorn, VA

Cropp, VA ²

Cropp Rd. Comm., VA ²

Cross Creek, VA

Cross Creek, VA

Crown Grant, VA

Crown Hill Rd, VA

Crown Hill Rd, VA

Crystal Sps, VA

Cs Willis, VA

Cty Est Mb H, VA

Cumberld Hl, VA

Currin, VA ²

Currituck Farms, VA

Cuscowilla, VA ²

Dahlgren, VA ²

Daingerfield, VA

Daltons's, VA ²

Dam Shores, VA

Daniel Mountain, VA

Daniel Property, VA

Danner Road, VA

Darbytown Acres, VA

Darbytown Estates, VA

Davis, VA

Deane's, VA

Decatur Store Comm, VA ²

Deep Run, VA ²

Deepwoods Estates, VA ²

Deer Croft, VA

Deer Flo, VA

Deer Lake Estates, VA

Deer Lick Rg, VA

Deer Rapids, VA

Deer Run Farms, VA

Deerfield, VA

Deerfield, VA

Deerfield Est., VA

Deerhead, VA

Deerwood Hills, VA

Delawder, VA

Delbert Drive, VA

Dellinger, VA

Desha, VA

Devonshire, VA ²

Diascund Woods, VA ²

Dickerson'scorner, VA

Dixie, VA

Dodds Corner, VA ²

Doe Ln/Buck Ln, VA

Doe Run, VA

Doe Run Estates, VA

Dogwood Mtn., VA

Dogwood Valley, VA

Dorset Woods, VA

Doswell Chapel Area, VA

Doubletree, VA

Douthat Rd, VA

Dr Vl Camps, VA

Draper Mt E, VA

Drovin Hill, VA

Duck Run, VA

Duff, VA

Duffield-Sunbright, VA

Dunbar Drive, VA ²

Dungadin, VA

Dunlop Estates, VA ²

Dunmore, VA

Dunncroft, VA

Dunnsville, VA

E.Stafford Cthouse, VA ²

Eagle Dr, VA

Eaglebrook, VA

Eaglenest, VA ²

Eaglewood, VA

Earlysville For., VA

Earlysville Hts., VA

East Danieltown Road, VA ²

Ebb Tide Beach, VA

Echo Hills, VA

Eclipse, VA ²

Eden Estates, VA ²

Edge Hill 1, VA

Edge Hill 2, VA

Edgehill, VA

Edgewood, VA ²

Edinburgh, VA

Edmund's Lane, VA ²

Ednam Forest, VA

Edward Tull, VA ²

Edwards, VA ²

Egypt Bend, VA

Elam Church, VA

Elk Horn Ac, VA

Elk Ridge, VA

Elko Station, VA

Elliott, VA ²

Elmwood, VA ²

Ely's Ford Road, VA

Emerald Ridge, VA

Enderly Acres, VA

Eppington Forest, VA ²

Essex Hills, VA ²

Essex Mill, VA

Estates Of Elys Ford, VA

Ests Of Chancellorsvi, VA

Ethel, VA

Eva Snowden, VA ²

Evans Td, VA

Evergreen, VA ²

Fair Estates, VA ²

Fairfield Ct, VA

Fairfield W, VA

Fairfield Woods, VA

Fairgrove 1&2, VA

Fairlane Dr. Blfd, VA

Fairview, VA

Fairview Acres, VA ²

Fairview Acres, VA ²

Fairview Hills (Wttx), VA

Fairway For, VA

Fairwy Acre, VA ²

Fairystone A, VA ²

Falcon Crst, VA

Falmingo Rd, VA ²

Far Hills, VA

Farm Colony, VA

Farm Country Estates, VA

Farmers, VA ²

Farmers Fork, VA

Farmer's Fork, VA ²

Farmington, VA

Farmington, VA ²

Farry Hill, VA ²

Fawn Glenn, VA

Fawn Lake, VA

Fernbrook, VA ²

Ferry Farm, VA

Field Crest, VA

File, VA ²

Finchley, VA ²

Firebaughcm, VA

First Blue Ridge Mt. Est., VA

First Colony, VA

Fishers, VA

Five Mile Fork, VA

Five Mile Road, VA

Flacon Rdg, VA

Flanigans Mill, VA

Flat Iron, VA

Flat Top Mountain, VA

Fleming Park, VA

Flint Hill Station, VA

Flippo Drive, VA ²

Flordon, VA

Flynn, VA ²

Foneswood, VA

For Shores, VA

Fords Colony, VA ²

Forest Ac Tr, VA

Forest Acres, VA

Forest Colony, VA

Forest Hill, VA

Forest Hills, VA ²

Forest Manor, VA

Forest Oaks, VA

Forest Park, VA

Forest Sps, VA

Forest Trace, VA

Forest Walk, VA

Fork Mtn Est, VA

Fort Gilmer, VA

Fort Mason, VA

Fort Pasage, VA

Fort River, VA

Foster Falls Mt., VA

Foundry Run, VA ²

Four Mile Creek, VA

Four Mile Fork, VA

Four Oaks, VA ²

Four Winds, VA ²

Fox Chase, VA

Fox Fire, VA

Fox Forest, VA ²

Fox Point, VA

Fox Ridge, VA ²

Foxcroft, VA

Foxmill, VA ²

Foxridge Drive, VA

Foxwood, VA

Foxwood Village Mhp, VA ²

Fqm, VA

Fredericksburg, VA

French Hills, VA ²

Frey, VA

Fringer Trail, VA

Front Royal, VA ¹

Fruit Hill, VA ²

Ft Valley Forest, VA

Ft. Fisher, VA

Gaila Woods, VA ²

Gains Mill Rd, VA

Garfield Estates, VA ²

Gargatha Estates, VA

Garmon, VA ²

Garrisonville, VA ²

Garrisonville Estates, VA ²

Garrisonville Mid., VA ²

Garth Run Mountain, VA

Gatling Subdivision, VA

George Jones Est., VA ²

George Spady, VA

Gibson Hollow, VA

Gibson Rd, VA

Gid Brown Hollow, VA

Gil Cantrell, VA

Gingerwood, VA ²

Glass I, VA

Glass Ii, VA

Glenaire, VA

Glenbrook Hills, VA

Glendale Acres, VA

Gobblers Knob, VA ²

Golden Hills, VA

Golden Oaks, VA

Golden Pheasant, VA ²

Good, VA

Goodv Gard, VA

Goose Crk., VA

Gordon Rd. West, VA

Governors Lnd., VA

Gr Hill Ter, VA

Graemont, VA

Grafton Woods, VA

Graham Park Shores, VA ²

Grand View Est., VA

Grandrose, VA ²

Grandview, VA

Grandview Estates, VA ²

Grant's Hill, VA

Grant's Hill, VA

Grants Hollow, VA

Granville, VA

Graves Landing, VA ²

Graves Mill, VA

Gray Farm, VA

Green Gables, VA ²

Green Hil Forest, VA

Green Hl Hts, VA

Green Meadows, VA

Green Mtn, VA

Green View, VA ²

Green/Meeks, VA ²

Greencroft, VA

Greene Acres, VA

Greene Land, VA

Greene Lea, VA

Greene Mountain Lake, VA

Greene Valley, VA

Greenfield Village, VA

Greensprings, VA

Greenwood Estates, VA

Greenyard Estates, VA ²

Grigsby, VA ²

Grigsby, C. B., VA ²

Grouse Point, VA ²

Guinea, VA ²

Guinea Station Rd., VA ²

Gunnery Hill Estates, VA

Gunton Park, VA

Guy H. Morgan, VA

Guys Landing, VA

H Harrison Tract, VA

Hales Ford, VA

Hales Pt, VA

Halifax, VA ²

Hamiltons Crossing, VA

Hamptom Manor Com, VA ²

Han Hill, VA

Hancock Rd., VA

Hardwood Cove, VA

Harmony, VA

Harper Valley, VA

Harris Hollow, VA

Harrisburg Estates, VA ²

Harrison Lake, VA

Harrison Rd. Cent., VA

Harrison Rd. E., VA

Harry Hoskins, VA

Hartwood Road, VA ²

Harwilll Acres, VA ²

Haskingville, VA ²

Hawksbill Pines, VA

Headquarters F., VA

Heather Greens, VA

Hebron Rd, VA

Heflin Road, VA ²

Henly Mtn., VA

Henry Cypress, VA

Henry Hill, VA

Herdman Hill, VA

Heritage Woods, VA ²

Hermleigh Ln., VA

Herndon Rd, VA

Hickman, VA ²

Hickory Hill Estates, VA

Hickory Hills, VA

Hickory Ridge, VA

Hickory Ridge Rd., VA

Hicks Hill, VA ²

Hidden Ac, VA

Hidden Lake, VA ²

Hidden Pass, VA

Hidden Valley, VA

Hidden Valley, VA

Hidden Valley Est., VA

Hidden Valley Mhp, VA ²

Hideaway Lane, VA

Hideway Lke, VA

High Chaparrel, VA

High Knob, VA

High Point, VA

High Valley, VA

Highland Manor, VA

Highland Park, VA

Highlands, VA

Highlands, VA ²

Hightop Mountain, VA

Hill, VA ²

Hill & Dl Ac, VA

Hill Ridge, VA

Hill Top, VA

Hite, VA

Holbrook, VA

Holdcroft, VA ²

Holiday Shores, VA ²

Holly Forest, VA ²

Holly Hills, VA

Holly Meade, VA ²

Holly Oak, VA ²

Holly Ridge, VA

Holly Ridge Estates, VA ²

Hollybrooke, VA

Holmes Run, VA

Homewood, VA

Homewood Bowl, VA

Hone Quarry, VA

Hood Mountain, VA

Hooes, VA ²

Hoover, VA

Hope Rd. Comm., VA ²

Hopeland, VA ²

Hords Hill, VA

Horner's, VA

Horner's Beach, VA

Horntown Circle, VA

Howertons, VA

Huckelberry Mt., VA

Hungrymother S.P., VA

Hunt Club, VA

Hunter Den, VA

Hunter Dr, VA

Hunters Grove Estates, VA ²

Hunter's Lodge, VA

Hunters Ridge, VA ²

Hunting Hill, VA

Hunting Woods, VA

Huntington, VA ²

Huntington Hgts, VA

Hurst Ot Lke, VA

Hustle, VA ²

Idlewd Shor, VA

Ilex Dr., VA

Independent Hill, VA ²

Index, VA

Indian Acres, VA

Indian Cove, VA

Indian Point, VA

Indian Run, VA

Industrial Park, VA

Inglecress, VA

Island Farm, VA

Ivy Creek, VA

Ivy Meadows, VA

Ivy Ridge, VA

Ivy Woods, VA

Jackson Ponds Estates, VA ²

Jacksonville Hght., VA

James Fox, VA

Jarman Gap Est, VA

Jeff Davis Hwy, VA

Jeff. Hunting Est., VA

Jeffress, VA ²

Jeffson Wd, VA

Jenkins Hollow, VA

Jennings Pond, VA

Jewell Hollow, VA ¹

John Dickerson, VA ²

John H. Smaw, VA

Johnson, VA ²

Johnson Road, VA

Johnson's Corner, VA

Johnsontown, VA

Johnville, VA

Jones Corner, VA ²

Jonesboro Church, VA ²

Joplin Rd Oakridge, VA

Joplin Town Area, VA

Jourdan Brown, VA

Kawana Valley, VA

Keenland Subdivision, VA

Kentucky Forest, VA

Kenwood Farms, VA ²

Keyser Road West, VA ²

Kimberly Knolls, VA ²

King Acres, VA

King's Park, VA

Kings Wood, VA

Kingsmill, VA

Kingsmill, VA

Kingspoint, VA

Kingswood, VA

Kingswood, VA ²

Kingswood, VA ²

Kino, VA

Kire, VA

Knoll, VA

Knollwood Estates, VA

Koolin Sps, VA

La Bellevue, VA

La France Rd, VA

Lackey, VA ²

Laconia Estates, VA ²

Lafayette Blvd., VA

La-Go-Ha, VA

Lake Acres, VA

Lake Arrowhead, VA ²

Lake Catherine, VA

Lake Fr.Royal, VA

Lake Jackson, VA ²

Lake Kenedy Estates, VA

Lake Powell, VA

Lake Shore, VA ²

Lake View, VA

Lake View I, VA

Lake Vista, VA

Lake Wilderness, VA

Lakeland Forest, VA ²

Lakeridge Et, VA

Lakeside Forest, VA ²

Lakeview Est., VA ²

Lakeview Estates, VA

Lakeview Ii, VA

Lakewd Est, VA

Lakewood, VA

Lakewood, VA

Lamma, VA

Lancaster Gate, VA

Land Grant, VA

Land Of Luray, VA

Land Of Shenandoah, VA

Landview Estates, VA ²

Laney Cemetery, VA

Langford Farms, VA

Latamers Bluff, VA

Latanes, VA

Laural Mtn, VA

Laural Valley Est., VA

Laurel Hills, VA

Laurel Mountain, VA

Laurel Rdg., VA

Laurel Ridge, VA

Laurel Wd, VA

Laurel West, VA

Laurels, The, VA

Lawson Hills, VA

Lazy River, VA

Leavells Area, VA

Leavells Rd. N. Area, VA

Leavells Rd. S., VA

Lee Hill School Dr., VA

Lee Lake, VA ²

Leedstown, VA

Leedstown, VA

Lee's Acres, VA ²

Lee's Estates, VA ²

Lee's Headquarters, VA

Lee's Hill N., VA

Lee's Hill S., VA

Leftwich Road, VA

Lego Mar, VA ²

Leigh Haven, VA

Leonra East, VA

Lerty, VA

Lewis Hill, VA

Lewis/Walkin' Ln., VA

Lexington, VA

Liberty Fork, VA ²

Liles Court, VA

Liming Lane, VA

Limstrong, VA ²

Lindau Woods, VA ²

Lippingham, VA

Little Edge, VA

Little Florida, VA

Little Gun Mt., VA

Little North, VA

Little Stoney, VA

Livingston Farms, VA

Livingston Heights, VA

Livingston Village, VA

Lkot Mt Cmp, VA

Lndg. At J-Town, VA

Loch Linden, VA

Locust Hill, VA

Locust Hill, VA ²

Locust Lane, VA

Lodebar, VA

Loftlands Glen, VA

Log Cabin Es, VA

Logan Village, VA

Longhill Gate, VA 2

Longhill Stn., VA 2

Longist Forks, VA

Longview Dv, VA 2

Longwood, VA

Longwood Drive, VA 2

Loren's Camp, VA

Lost Mtn, VA

Lost Valley, VA

Lots Gap, VA

Lotz Ac. Est., VA 2

Lower Valley, VA

Lowery Point, VA

Lyells, VA

Lynmore Acres, VA

Macadonia Road, VA 2

Macedonia Church, VA

Machodoc, VA 2

Machodoc Estates, VA 2

Machodoc Harbor, VA 2

Mallard Hill, VA 2

Mallard Point Lane, VA

Mallard's Landing, VA 2

Mannboro Farms, VA 2

Manorwood, VA

Mansfield Park, VA

Mansfield South, VA

Manual Subv., VA

Maple Grove, VA 2

Maple Springs, VA

Marble Hills Estates, VA

Market Road, VA

Marlbank, VA

Marleigh Court, VA

Marshfield, VA

Maryfield, VA

Maryton, VA 2

Massanutten, VA

Massanutten Forest, VA

Massanutten Hghts., VA

Massanutten View, VA

Massaponax , VA

Massaponax Ch Rdw, VA

Massaponax Ch.Rd., VA 2

Massaponax Chrde, VA

Mathias Point Neck, VA 2

Matney Flats, VA

Maury Cliffs, VA

Maury Heights, VA 2

Mcclellan Rd, VA

Mccoy Subdivision, VA

Mcdonald, VA

Mcdowell, VA 2

Mcgruder Hill, VA

Mclaws Forest, VA

Md Pl Mb Hms, VA

Meadow Brook, VA

Meadow Brooks, VA

Meadow Ck 2, VA

Meadowbrook, VA

Meadowbrook Woods, VA 2

Meadows, VA

Meadows Hollow, VA

Meadows Oc, VA

Meadows, The, VA 2

Meadowview Est., VA

Mechanicsville Cent., VA

Mechanicsville East, VA

Mechanicsville Far W, VA

Mechanicsville West, VA

Mechum Banks, VA

Merifield, VA 2

Meriwether Hill, VA

Middle River Retreat, VA

Midway Acres, VA

Mile Ridge, VA

Milford, VA 2

Milford Heights, VA

Mill Branch, VA

Mill Creek, VA

Mill Road, VA

Millgarden South, VA

Millhaven Acres, VA

Millpond Road, VA

Mills Drive, VA

Millwood, VA

Millwood, VA

Millworks, VA 2

Mine Road, VA

Mine Road, VA

Mineral Spring Plant, VA

Mineral Springs, VA

Mineral Springs, VA

Mineral Springs For, VA

Minitree Hill, VA 2

Minneville Manor, VA 2

Miran Forest, VA

Mistover, VA

Mitchell, VA

Mobile One, VA

Moccasin Gap, VA

Moccasin Hills, VA

Monacan Park, VA

Monacan Subdivision, VA

Monkey Run, VA

Monroe Chapel, VA

Monroe Hall, VA

Monroe Hall, VA 2

Monroe Inst., VA

Montclair, VA 2

Montross, VA

Moon's, VA

Moor Green Farms, VA 2

Moore, VA

Mooreland, VA

Mooreland Farms, VA

Mooreland West, VA

Mooresville Est., VA 2

Mooresville Park, VA 2

Mooretown Rd, VA 2

Morgan Circle, VA 2

Morgans Ridge, VA

Morning Wd, VA

Morris Creek Est., VA 2

Morris Store, VA

Mosby Hideout, VA

Mosy Spring, VA

Motts Run Estates, VA

Mount Landing, VA

Mountain Farms Subdivision, VA

Mountain Glen, VA

Mountain Run, VA

Mountain To, VA

Mountain Valley, VA

Mountain Valley, VA

Mountain View, VA

Mountain View, VA 2

Mountain View Farm, VA

Mountain View Lake, VA

Mountain View Subdivision, VA

Mountain Walk, VA

Mountainview Acres, VA 2

Mt Acres 1, VA

Mt Acres 2, VA

Mt Acres 3, VA

Mt Breeze, VA

Mt Est, VA

Mt View, VA

Mt View, VA 2

Mt View Park, VA

Mt. Falls Park, VA

Mt. Home, VA

Mt. Olive, VA 2

Mt. Olive Church, VA 2

Mt. Pleasant, VA 2

Mt. View, VA

Mtn Run, VA

Mtn View Est, VA

Mtn. Meadows, VA

Mudlick, VA

Muses Beach, VA

Muskrat, VA

Mussel Swamp, VA

Myers Addit, VA

Mystic Point, VA

N. Blockhouse Rd., VA

N. Fk. Farms, VA

N. Holly Hills, VA

N. White Oak Lake, VA

N. Bowling Green, VA 2

Nash Town, VA

Nature Wake, VA

Naylors Beach, VA

Neabsco Hills, VA 2

Nelsonia Acres, VA

Nelsonia Westgate, VA

Nethers, VA

New Market, VA 2

New Market Hts, VA

New Post, VA 2

New Zion Church, VA

Newland, VA

Newman Subdivision, VA 2

Ni River Landing, VA

Ninde, VA 2

No Man's Corner, VA 2

North Bayshore Camp, VA

North Club, VA

North Cove, VA 2

North Littlemont, VA 2

North Mount Zion, VA 2

North Pines, VA

North Ridge, VA

Nottingham Forest, VA 2

Nottingham Road, VA

Nottoway River Est., VA 2

Nyland, VA 2

O.P. Elliott, VA

Oak Grove, VA

Oak Grove, VA

Oak Hill, VA

Oak Hill, VA 2

Oak Hill Estates, VA 2

Oak Lake, VA 2

Oak Mannor, VA

Oak Ridge Estates, VA 2

Oak Ridge Subdivision, VA

Oak Row, VA

Oakland Heights, VA

Oakwood Est., VA

Oakwood Forest, VA

Old Cannon, VA

Old Church, VA

Old Colony Ests, VA

Old Concord Rd., VA 2

Old Farms, VA

Old Hollow, VA

Old Memorial Dr., VA

Old Mill Estates, VA

Old Mill Ln, VA

Old Neck, VA 2

Old Quaker Est., VA 2

Old Quarter, VA 2

Old Shore Rd, VA 2

Olde Greenwich, VA

Olde Kent Estates, VA

Orange Plank Rdw, VA

Orchard Acres, VA

Orchard Gardens, VA

Orchard Hill, VA

Out Post, VA

Outback, VA

Overlook Hl, VA

Overlook Mt., VA

Overview Drive, VA

Owens, VA 2

Owensville, VA

Owner's Club, VA

Oxford Dr, VA

Oxfordshire, VA 2

Oyster Shell Lndg, VA 2

Page Valley Estates, VA

Paige, VA

Paiges, VA 2

Panorama Ac, VA

Paradice Haven, VA

Paris Heights, VA

Parish Place Lane, VA

Park Hq, VA

Parker, VA

Parkgate, VA 2

Parkview, VA

Parkway Es, VA

Parkwood, VA

Parrish Hill, VA 2

Parsley Mill Rd, VA

Passing, VA 2

Patricia Lane, VA

Patriots Colony, VA

Patterson Rd., VA

Patterson's Store, VA 2

Paul's Creek, VA

Paul's Cross Roads, VA

Payne's Store, VA

Peach Orchard, VA 2

Peacock Hill, VA

Pecht Tract, Rt 607, VA

Peleg's Point, VA

Pella Lane, VA

Peppertown Rd, VA

Perimeter Road, VA 2

Peters Est, VA

Phillips Woods, VA

Pickle Run, VA

Piedmont Square, VA

Pine Knoll, VA

Pine Ridge, VA

Pine Ridge, VA

Pine Slash Rd, VA

Pine Valley, VA

Pinedale Forest, VA

Pineland, VA

Piney Branch Rd., VA

Piney Grove, VA

Piney Woods, VA

Pipe Run, VA

Pk Ridge For, VA

Pk View Acs, VA

Placid Bay Est., VA

Plank Road West, VA

Plantation, VA

Plantation Estates, VA 2

Plantation Forest, VA

Pleasant Ridge, VA 2

Pleasant Val. Rd, VA

Poages Ml E, VA

Pobits Farm Rd, VA

Pocosan, VA

Point O' Woods, VA

Pole Green Rd, VA

Ponderosa, VA 2

Ponderosa, VA 2

Pondersoa, VA 2

Popes Creek Ch., VA

Poplar Hall, VA 2

Poplar Springs, VA

Port Royal, VA 2

Port Tobacco Bay, VA 2

Post Oak, VA

Post Oak Road, VA

Potato Hill, VA

Potomac Beach, VA 2

Potomac Hills, VA 2

Potomac Mills, VA

Potomac Shores, VA

Potts Mtn A, VA

Powell Cox Place, VA

Powell Division, VA

Powell Mountain, VA

Powell's Ridge, VA

Powhatan Plnt., VA

Powhatan Xing, VA

Prest For, VA

Prestige Manor, VA 2

Prestwood, VA 2

Prestwood Ii, VA 2

Prim, VA 2

Princeton Woods, VA 2

Queen's Lake, VA 2

Quinque Forest, VA

Quinque Woods, VA

R. B. Wharton, VA

Rag Mountain Estates, VA

Ragged Run, VA

Rainbow Acres, VA

Rainbow Land Company, VA

Raintree, VA

Raliegh Sq., VA

Ramblewood Drive, VA

Ramey Fork, VA

Ramoth Ch. Road, VA 2

Range Road, VA

Rap. River Estates, VA

Rapidan Retreat, VA

Rappahannock Acad., VA 2

Rawley Springs, VA

Rebel Rdg, VA

Red Brush, VA

Red Hill, VA

Red Hill, VA 2

Relee Dr. Central, VA

Relee Drive W., VA

Reva Heights, VA

Reynard Woods, VA

Richards Hollow, VA

Richmond Beach, VA

Riddle Road, VA 2

Ridge Drive, VA

Ridge Hollow, VA

Ridge Rd, VA 2

Ridgewood Estates, VA 2

Riles Run, VA

Rivanwood, VA

River Bend Ests, VA

River Bend Farms, VA 2

River Bluff, VA

River Bluffs, VA

River Ck Est, VA

River Downs, VA

River Ed Ret, VA

River Junction, VA

River Oaks, VA 2

River Park Subdivision, VA

River Ridge On Shen., VA

River Road East, VA

River Road Forest, VA

River Road W., VA

River Road Woods, VA

River View, VA

River Will, VA

Riverbend, VA 2

Riverdale, VA

Riverdale, VA 2

River's Bend, VA

Riverview Est., VA

Riverview Plnt., VA 2

Rk Mb Hm Pk, VA

Rock Hill Church Rd., VA 2

Rockbill Rd, VA

Rockhill Rd, VA

Rockland Farm, VA

Rolling Acres, VA 2

Rolling Hills, VA

Rolling Hills, VA 2

Rolling Wood, VA

Rollins Fork, VA

Rolly, VA

Rosecliff, VA

Roseville Commun., VA 2

Roseville Plantation, VA 2

Round Hill, VA

Roundhead Mt., VA

Royal View Est., VA

Rt 156, VA

Rt 642 (Country Ests.), VA

Rt. 155, VA 2

Rt. 156, VA

Rt. 610, VA 2

Ruby, VA 2

Ruffins Pond, VA

Runaround, VA

Running Man, VA 2

Rural Pt. Rd, VA

Rural Retreat, VA

Russell Point, VA 2

Ruth/Settlers Rd., VA 2

Ruthville, VA 2

S. Bowling Green, VA 2

S. White Oak Lake, VA

S. Brierwood Fa., VA

Saddlebrk, VA

Sagun's Landing, VA

Salem Ch. Rd Area, VA

Salem Farm Estates, VA

Salem Fields, VA

Salem Heights, VA

Salem Station Blvd, VA

Salishan, VA 2

Sam Buggs, VA 2

Sand Mtn. Est., VA

Sand Place, VA

Sandbridge, VA 2

Sandie Point, VA 2

Sandy Hook, VA

Sandy Valley Rd, VA

Sanville Est, VA 2

Satisfaction Ln, VA

Sawhill, VA

Scandia Lake, VA

Scandinavian V., VA

Scenic Green V, VA

Scenic Hills, VA

Schenck Est., VA 2

Schladt Subdivision, VA

Scott Ld, VA

Scottown, VA

Scottsburg, VA 2

Seaford Rd., VA

Seals Road, VA 2

Seaside Acres, VA

Seasons Trace, VA 2

Seays Road, VA

Sec. Land Co., VA

Sedgewood, VA

Senger Mtn, VA

Serenity Ridge, VA

Settlers Lndg, VA

Settlers Mill, VA

Seven Fountains, VA

Seven Lakes, VA 2

Seven Oaks, VA

Seven Oaks, VA 2

Sexton Hills, VA

Shad Bake Ln, VA

Shadetree, VA

Shadetree, VA

Shady Acres, VA

Shady Forest, VA

Shady Grove, VA

Shady Oaks, VA

Shangri La Subdivision, VA

Shawnee Forest, VA 2

Shelton Shop Rd., VA 2

Shen. Farms, VA

Shen. Forest, VA

Shen. Gap, VA

Shen. Highlands, VA

Shen. Rapids, VA

Shen. Retreat, VA

Shen. Ridge, VA

Shen. River Est., VA

Shen. River Forest, VA

Shen. River Lke., VA

Shen. River Lodge, VA

Shen. Shores, VA

Shenandoah Mtn., VA

Shep Davis, VA

Sherwd For, VA

Sherwd For, VA 2

Shiloh, VA

Shilow Lk Et, VA

Ship Point, VA

Shipwreck Farms, VA

Shooters Run, VA 2

Simmonsville, VA

Sinclair Manor, VA

Singerly, VA

Single Oak Rd., VA

Six Lakes West, VA

Ski & Hunt, VA

Skimino Hills, VA 2

Skimino Lndg., VA 2

Skipwith, VA 2

Skyland Est., VA

Skyland Lakes, VA

Skyline Crest, VA

Skyline Lakes, VA

Skyve & Br M, VA

Slate Mtn, VA

Sleepy Hol, VA

Sleepy Lake, VA 2

Sleepy Lake West, VA 2

Smith Hill, VA

Smith Hill, VA

Smokey Rdg, VA

Smoots, VA 2

Snell, VA

Snow Hill, VA

Somerville, VA

Somerville Est, VA 2

Songertow, VA

South Bluebird, VA 2

South Boston, VA 2

South Creek, VA

South Fork Ranches, VA

South Oaks, VA

South Red Oak, VA 2

South River Estates, VA

South Woods, VA

Southard, VA

Southbridge, VA 2

Sowego Forest, VA 2

Spady's Development, VA

Spainville, VA 2

Sparkling Springs, VA

Sparta, VA 2

Sparta Road Comm, VA 2

Spots. Mall Area, VA

Spotslee, VA

Spotswd Furnace Rd, VA

Spotswood Estates, VA

Spotswood Estates, VA

Spotswood Trail, VA

Spotsylvania Cthse, VA

Spotted Tavern Rd., VA 2

Spotwood North, VA

Spring Brook, VA

Spring Creek, VA

Spring Hill, VA

Spring Hill, VA

Spring Hill Subdivision, VA

Spring Hollow, VA

Spring Run Rd, VA

Spring Valley, VA

Springbrook, VA

Springfield Rd., VA 2

St. Georges Hn., VA

Stafford Cthouse, VA 2

Steeplechas, VA

Stefangia Road, VA 2

Stephanie Trace, VA

Stepping Stone, VA

Steve Lowe, VA 2

Stillfield, VA

Stone Glen, VA

Stonebridge, Widew, VA 2

Stonewall Jack. Rd, VA 2

Stoney Ck, VA

Stoney Fork Ret., VA

Stoney Glen West, VA

Stoneybrooke, VA

Stony Hill Road, VA 2

Strath Road, VA

Strawberry, VA 2

Strawby Mt, VA

Studley Farm Dev., VA

Studley Rd, VA

Sturgeon Point, VA 2

Sugar Hill, VA

Sugar Lf Mt, VA

Sugar Mill, VA

Summer Acres, VA

Summer Pl, VA

Summerfield, VA

Summers Landing, VA

Summit, VA 2

Suncrest Ht, VA

Sundance, VA

Sundance Crest, VA

Sundance Mtn, VA

Sundance West, VA

Sundance (612), VA

Sundance (620), VA

Sundnce Retreat, VA

Sunrise, VA

Sunrise Acres, VA

Sunset Heights, VA

Sunset Ridge, VA

Sunset View, VA

Sunset Village, VA

Sunvalley (Lower), VA

Sunvalley (Upper), VA

Supin Lick, VA

Supply, VA ²

Swan Rig Est, VA

Swift Run Estates, VA

Swift Run Haven, VA

Swiss Knob, VA

Sycamore Lndg., VA ²

Sylvannia Heights, VA

Syria Mountain Estates, VA

T. H. Braxton, VA

T.J. Sullivan, VA

Tacketts Mill Estates, VA ²

Tacketts Mill Road, VA ²

Tall Oak, VA

Tallent Town, VA

Tanglewood, VA

Tannery Hills, VA

Tappahannock, VA

Taylors Gap, VA

Telegraph Rd, VA ²

The Barker Subdivision, VA

The Bench, VA

The Colony, VA

The Forest, VA

The Ledges, VA

The Meadows, VA

The Pines, VA

The Pines, VA

The Ridges, VA

Thommason Crossing, VA ²

Thompson Hollow, VA

Thornton Rolling, VA ²

Three Cedars, VA

Thunderbird For., VA

Thunderbird Ranch, VA

Thunderbird Woods, VA

Tidemill Est., VA ²

Tidewater Plains, VA

Tidewater Trail, VA ²

Tidewater Trail N., VA

Tiffany, VA

Tillman, VA

Timber Ridge, VA

Timberlaine, VA

Timberlake, VA

Timberland, VA

Tobacco Row Es, VA

Todds Tavern, VA

Todds Tavern Est., VA

Toluca Rd, VA ²

Tower Hill, VA ²

Towles Mill Rd., VA

Townfield, VA ²

Trails End, VA

Tree Bank, VA

Trey Brook, VA ²

Triangle Apts., VA ²

Tunstall Hills, VA ²

Turkey Run Est., VA

Turner Run, VA

Turner Woods, VA

Turtle Rock Farms, VA

Tuscarora, VA

Twin Cedars, VA

Twin Cedars, VA ²

Twin Chim, VA

Twin Coves, VA

Twin Creek, VA

Twin Falls Subdivision, VA

Twin Lakes, VA

Twin Run Est., VA

Tysen Meadows, VA

U.S. Ford Rd, VA

Ula Farm Dr, VA

Umphlette, VA

Union Run, VA

US #21 North, VA

Va Hills, VA

Valihi, VA

Vallee Viedeo, VA

Valley Rd E, VA

Valley View, VA

Valley View Estates, VA

Valley View Farms, VA

Valley Vista, VA

Valley Vue/Oak Hill Farm, VA ²

Varina Chase, VA

Varina Gardens, VA

Varina Meadows, VA

Varina Oaks, VA

Varina Place, VA

Varina/Kingsland, VA

Vestavia Woods, VA ²

Villboro, VA ²

Vineyards, VA

Vista Brooke, VA ²

Vista Woods, VA ²

W. Garrisonville Rd, VA ²

Wakefield Corner, VA

Walker Ck, VA

Walkers Landing, VA

Walnut Hill, VA ²

Walnut Hill Est., VA

Walnut Ridge Ests., VA ²

Walthal Creek, VA

Walthall Mill, VA

Walton, VA ²

Ware Creek Mnr., VA ²

Wares Wharf, VA

Warsaw, VA

Waterford, VA

Waterfords Est., VA ²

Watkins Forest, VA ²

Waymacks Road, VA

Wayside, VA

Wds Landing, VA

Weakley Hollow, VA

Weatherwd, VA

Weber City, VA

Wedgwood P, VA ²

Weedonville, VA ²

Welcome, VA

West Brice, VA

West End Area, VA

West Leigh, VA

West Studley Rd, VA

West Woods, VA

Westchester, VA ²

Westfield, VA

Westham Rdge, VA

Westmoreland, VA ²

Westmoreland Shores, VA

Westover Estates, VA

Westover Hills, VA

Westwd Ac, VA ²

Westwood, VA ²

Westwood Rd, VA

Wetsel Village, VA

Wexford, VA

Wexford Hills, VA ²

Wheaton Rd, VA

Whetstone Crk, VA ²

Whip Por Ril, VA

Whippoorwill, VA

Whipporwill Hol, VA

Whispering Pines, VA ²

White Oak Rge, VA

White Oaks, VA

White Pines, VA ²

Whitehouse Farm, VA ²

Whitlock Estate, VA

Widewater Beach, VA ²

Widewater Road, VA ²

Wilcox Neck, VA ²

Wilderness Camping, VA

Wildwater, VA

Wildwood, VA

Wildwood Ne, VA ²

Wildwood Valley, VA

Will, VA ²

Willamson Farm, VA

Williams Lane, VA

Williamsburg Colony, VA ²

Williamsville Rd, VA

Wilson Lake Estates, VA

Wilson Rd, VA ²

Wilton Wood, VA

Wind Hills Est, VA

Wind Sweep, VA

Winding Creek Dr., VA ²

Windrift, VA

Windsor, VA

Windsor Forest, VA ²

Windsor Forest, VA ²

Windy Gap Mtn, VA

Winewood, VA

Winnbrook, VA

Winterberry, VA

Wintergreen, VA

Winterhaven, VA

Wisman Ridge, VA

Wood Creek, VA ²

Wood Hills, VA

Woodard Estates, VA

Woodbine, VA ²

Woodbine Forest/Oaks Of Shenandoah, VA ²

Woodbine Woods, VA ²

Woodfield, VA

Woodford, VA ²

Woodhaven, VA ²

Woodland Farms, VA ²

Woodland H, VA

Woodld, VA ²

Woodridge, VA

Woodridge, VA

Woods Of Shenandoah, VA ²

Woods Of Tabb, VA ²

Woodshire, VA

Woodtown Qtrs., VA

Woodview Hills, VA

Woodward Hollow, VA

Wright's Pond Area, VA

Wykehurst, VA

Wyliesburg, VA ²

Wynne/7 Hollies, VA

Wynnes Grove, VA ²

Wynwood Dr., VA

Yahley Mill, VA

Yahley Mill Rd, VA

Yancey Mills, VA

Yarnell Rd, VA

Zeus Mills Estate, VA

Christiansted, VI

Coral Bay, VI

Cruz Bay, VI

Frederikstead, VI

Moho Bay, VI

Reef Bay, VI

Avery's Gore, VT

Barnard, VT

Bloomfield, VT

Bolton, VT ²

Brighton, VT

Bristol, VT ¹

Brunswick, VT

Chittenden, VT ¹

Dorset, VT ¹

Dover, VT ¹

Ferdinand, VT

Goshen, VT ¹

Granville, VT ¹

Hancock, VT ¹

Hartford, VT ²

Hartland, VT ¹ ²

Jamaica, VT ¹

Jerico, VT ²

Landgrove, VT

Leicester, VT

Lewis, VT

Lincoln, VT ¹

Manchester, VT

Mendon, VT ¹

Middlebury, VT ¹

Mount Tabor, VT ¹

Mt. Holly, VT ¹

Peru, VT ¹

Pittsfield, VT ¹

Quechee, VT ²

Ripton, VT ¹

Rochester, VT ¹

Salisbury, VT

Searsburg, VT

Somerset, VT ¹

Stockbridge, VT ¹

Stratton, VT ¹

Sunderland, VT ¹

Thetford, VT ¹ ²

Underhill, VT ²

Wallingford, VT ¹

Wardsboro, VT ¹

Warren, VT ¹

Wilmington, VT ¹ ²

Winhall, VT ¹

Woodford, VT ¹

Woodstock, VT

9 -Mile Rogers Bar, WA

Addy, WA ¹

Anatone, WA

Anatone (Big Butte Lookout), WA ¹

Anatone (West Mt. Residences), WA ¹

Ariel, WA ¹

Ashford, WA

Asotin, WA

Baring, WA

Benton City, WA

Bickleton, WA

Bingen, WA

Bremerton, WA ²

Brewster, WA

Brinnon, WA

Burbank, WA

Cameron Lake, WA

Carlton, WA ¹

Carson, WA ¹

Cashmere, WA ¹

Cathlamet, WA ¹

Chelan, WA ¹

Chesaw, WA

Chewelah, WA

Cle Elum (And Roslyn, Ronald), WA

College Place, WA

Colville, WA ¹

Connell, WA

Cowiche, WA

Creston, WA

Curlew, WA ¹

Cusick, WA

Danville, WA

Darrington, WA

Davenport, WA ¹

Dayton, WA

Dayton (Camp Wooten Learning Center), WA ¹

Dayton (Last Chance Resourt), WA ¹

Dayton (Maloney Mt. Homes & Recreation Sites), WA ¹

Dayton (Tucannon Camp Ground), WA ¹

Dayton (Tucannon Fish Hatchery), WA ¹

Dayton (Twin Buttes Recreation Area), WA ¹

Dayton (Wa State Campgrounds (Tucannon)), WA ¹

Dayton (Wa State Fish & Wildlife Facilities (Tucannon)), WA ¹

Deming, WA

Diablo, WA ¹

Disautel, WA ¹

East Wenatchee, WA

Elbe, WA

Ellensburg, WA ¹

Eltopia, WA

Entiat, WA ¹

Enumclaw, WA

Etueville, WA ¹

Evans, WA ¹

Fairchild Air Force Base, WA ²

Ford, WA ¹

Ford Cluster, WA ¹

Fruitland, WA

Ft. Simcoe Job Corp. Center, WA ¹

Georgeville, WA ¹

Highway 155 Corridor, WA

Highway 21 Corridor, WA

Highway 97 Corridor, WA

Hoodsport, WA

Hozomeen, WA ¹

Hunters, WA

Ilwaco, WA

Inchelium, WA

Inchelium Rural, WA ¹

Inchelium Urban, WA

Ione, WA

Kahlotus, WA

Keller, WA

Kennewick, WA

Kettle Falls, WA ¹

Kettle Falls (Boyds), WA

Lake Roosevelt Corridor, WA

Laurier, WA

Lilliwaup, WA

Long Beach, WA

Long Island, WA

Loomis, WA

Malo, WA ¹

Malott, WA

Manson, WA ¹

Marcus, WA

Matlock, WA

Mattawa, WA

Mazama, WA

Mesa, WA

Metaline, WA

Metaline Falls, WA

Methow, WA

Moses Meadows, WA

Mossyrock, WA

Naches, WA ¹

Naselle, WA

Nespelem, WA

Newport, WA ¹

North Ahtanum, WA ¹

North Bend, WA

Ocean Park, WA

Odessa, WA

Okanogan, WA

Olympia, WA

Omak, WA

Omak Rural, WA

Omak Urban, WA

Orient, WA

Oroville, WA

Othello, WA

Owhi Lake, WA

Packwood, WA ¹

Pasco, WA

Pateros, WA

Patterson, WA

Plymouth, WA

Pomeroy, WA

Pomeroy (Bakers Pond Recreation Area), WA ¹

Pomeroy (Grouse Flat Residences), WA ¹

Pomeroy (Rose Springs Recreation Area), WA ¹

Pomeroy (Stenze Spring Recreation Area), WA ¹

Port Angeles, WA

Prosser, WA

Quilcene, WA

Randle, WA

Rebbeca Lake, WA

Republic, WA ¹

Reservation Road, WA ¹

Richland, WA

Ridgefield, WA ¹

Riverside, WA

Riverside (Conconully), WA

Royal City, WA

Sequim, WA ¹

Springdale, WA

Stehekin, WA ¹

Stevenson, WA ¹

Tieton, WA ¹

Timentwa Flats, WA

Tonasket, WA ¹

Toppenish, WA

Touchet, WA

Twin Lakes, WA ¹

Twisp, WA

Underwood, WA ¹

Usk, WA

Waitsburg, WA

Waitsburg (Dixie), WA

Walla Walla, WA ¹

Walla Walla (Bluewood), WA

Wallula, WA

Wauconda, WA ¹

Wellpinit, WA ¹

West Richland, WA

White Swan, WA ¹

Wilbur, WA

Winthrop, WA

Yacolt, WA

Alvin, WI

Anvil Lake, WI

Argonne, WI

Armstrong Creek, WI

Ashland, WI

Atkinsing Lake, WI

Babcook, WI

Barber & Perch Lake, WI

Barker & Hunter Lake, WI

Barnes, WI

Bass Lake, WI

Bear Lake, WI

Bear Paw, WI

Bellevue Lake, WI

Big Fork Lake, WI

Big Sand Lake, WI

Birch Hill, WI

Black Lake, WI

Blackwell, WI

Blackwell Junction, WI

Blaisdale Lake, WI

Blockhouse Lake, WI

Blue Wing, WI

Bogbrook Lake, WI

Boulder Lake, WI

Boundary Lake, WI

Bowler, WI

Butternut Lake, WI

Camp 4 Springs, WI

Camp Douglas, WI ²

Carter, WI

Cavour, WI

Cedar Rapids, WI

Chelsea Creek, WI

Chequamegon Waters Flowage, WI

Chute Pond, WI

Clam Lake, WI

Clear Lake, WI

Clearwater Lake, WI

Cochram Lake, WI

Conover, WI

Crooked Lake, WI

Dairyland, WI

Danbury, WI

Deerskin Lake, WI

Dell Lake, WI

Delta, WI

Drummond, WI

Dry Town, WI

Duck Lake, WI

Eagle River, WI

English Lake, WI

Fay Lake, WI

Fence, WI

Fence Lake, WI

Finley, WI

Fish Trap Lake, WI

Fort Mccoy, WI ²

Franklin Lake, WI

Franks Field, WI

Gaging Station/Windsor Dam, WI

Gilkey Lake, WI

Glidden, WI

Gordon, WI

Gordon Lake, WI

Grand View, WI

Great Lakes Pumping Station, WI

Grindle Lake, WI

Halsey Lake, WI

Hayward, WI

Hiles, WI

Horicon, WI

Horse Shoe Lake, WI

Ino, WI

Iron River, WI

Island Lake, WI

Julia Lake, WI

Kekoskee, WI

Kentuck Lake, WI

Keshena, WI ¹

Lac Du Flambeau, WI

Lac Vieux Desert, WI

Lake Of Dreams, WI

Lake Owen, WI

Lake Ruth, WI

Lakewood, WI

Langlade, WI

Laona, WI

Lco Tribal Center, WI

Legend Lake, WI

Levitt Creek, WI

Lone Stone Lake, WI

Long Lake, WI

Long Lake—Vilas, WI

Loretta/Draper, WI

Lost Land Lake, WI

Markton, WI

Mary Lake, WI

Maurer Creek, WI

Meadow Valley, WI

Middle Village, WI ¹

Minocqua, WI

Mission, WI

Mole Lake, WI

Mole Lake, WI

Mondeaux Flowage, WI

Moose Lake, WI

Moquah, WI

Morgan, WI

Morgan Lake, WI

Morse, WI

Mountain, WI

Namekagon Lake, WI

Necedah, WI

Nelma, WI

Neopit, WI ¹

New Odanah, WI

Newald, WI

Newman Lake, WI

Ninteen Lake, WI

North Twin Lake, WI

Oakedale, WI ²

Padus, WI

Park Falls, WI

Perkinstown, WI

Phelps, WI

Pigeon Lake, WI

Pine Lake, WI

Popple River, WI

Reserve, WI

Riverside, WI

Roberts Lake, WI

Rocky Run, WI

S.M. Tribal Center, WI

Sand Pillow, WI

Seven Mile Lake, WI

Silver Creek, WI

Soperton, WI

South Branch, WI ¹

South Twin Lake, WI

Spectacle Lake, WI

Spider Lake, WI

Spider Lake Gd, WI

Sprague, WI

Stevens Lake, WI

Sugarbush Dam, WI

Teal Lake, WI

Three Lakes, WI

Tipler, WI

Topside Lake, WI

Townsend, WI

Trump Lake, WI

Valhalla, WI

Valley Junction, WI

Wabeno, WI

West Branch, WI

Wilderness Lake, WI

Wintergreen Lake, WI

Woodruff, WI

Zoar, WI

Alpena, WV

Alvon, WV

Amboy, WV

Anthony, WV

Arbovale, WV

Arden, WV ²

Aurora, WV

Auto, WV

Baker, WV

Bakerton, WV

Ballard, WV ²

Bartow, WV

Beckwith, WV

Bemis, WV

Bismark, WV

Blue Bend, WV

Bolair, WV

Bolivar, WV

Bowen, WV

Boyer, WV

Branchland, WV ²

Brandywine, WV ¹

Cabins, WV

Camden On Gauley, WV

Canvas, WV ²

Cass, WV

Cedar Grove, WV ²

Cheat Bridge, WV

Cherry Grove, WV

Circleville, WV

Clarksburg, WV ²

Clear Fork, WV ²

Clearco, WV

Cloverlick, WV

Coketon, WV

Craigsville, WV

Cunard, WV

Curtin, WV

Cyrus, WV ²

Dailey, WV

Davis, WV

Deep Water, WV

Denmar, WV

Dorcas, WV

Droop, WV

Dunlow, WV ²

Dunmore, WV

Durbin, WV

East Bank, WV ²

East Lynn, WV ²

Edray, WV

Eglon, WV

Eleanor, WV ²

Elgood, WV ²

Elkins, WV

Elkwater, WV

Elliton, WV

Erwin, WV

Etam, WV

Fayetteville, WV ¹

Fenwick, WV

Flemington, WV ²

Frank, WV

Franklin, WV

Friars, WV

Frost, WV

Ft. Gay, WV ²

Ft. Seybert, WV

Galloway, WV ²

Gassaway, WV ²

Gauley Bridge, WV

Genoa, WV ²

Gilbert, WV ²

Glady, WV

Glasgow, WV ²

Glen Ferris, WV

Gormania, WV

Grafton, WV ²

Green Bank, WV

Hambleton, WV ¹

Handley, WV ²

Harman, WV

Harpers Ferry, WV

Hendricks, WV ¹

Henry Hill, WV

Hillsboro, WV

Huntersville, WV

Huttonsville, WV

Jerryville, WV

Job, WV

Jordan Run, WV

Judy Gap, WV

Justice, WV ²

Keslers Cross Lane, WV ²

Kiahsville, WV ²

Kline, WV

Landes Sutton, WV

Lavalette, WV ²

Leivasy, WV

Lerona, WV ²

Lobelia, WV

London, WV ²

Lost City, WV ¹

Lost River, WV ¹

Mace, WV

Macomber, WV

Mammoth, WV ²

Marlinton, WV ¹

Mathias, WV ¹

Maxwelton, WV

Melissa, WV ²

Mill Creek, WV

Mill Point, WV

Mingo, WV

Minnehaha Springs, WV ¹

Monterville, WV

Montrose, WV

Moyers, WV

Mt. Nebo, WV ²

Neola, WV

Nettie, WV

Nutter Fort, WV

Oak Flat, WV ¹

Onego, WV

Parsons, WV

Perry, WV ¹

Petersburg, WV

Pierce, WV

Pipestem, WV

Pratt, WV

Radnor, WV ²

Ranger, WV ²

Red Creek, WV

Red House, WV

Renick, WV

Richwood, WV

Riverton, WV

Salt Rock, WV ²

Scherr, WV

Seebert, WV

Seneca Rocks, WV

Sheperdstown, WV

Silver Lake, WV

Simpson, WV ²

Slatyfork, WV

Snowshoe, WV

Spring Creek, WV

St. George, WV

Stonewood, WV ²

Sugar Grove, WV ¹

Sully, WV

Summersville, WV ²

Thomas, WV

Thornwood, WV

Thurmond, WV ¹

Upper Tract, WV

Valley Bend, WV

Valley Head, WV

Waiteville, WV ¹

Ward, WV ²

Wardensville, WV ¹

White Sulpher Springs, WV

Whitmer, WV

Wilson, WV

Winfield, WV ²

Wolf Summit, WV ²

Wymer, WV

Aladdin, WY ¹

Albany, WY ¹

Alpine, WY ¹

Alta, WY

Alva, WY ¹

Ames Monument Ranches, WY ¹

Antelope Butte Ski Lodge, WY ¹

Antelope Run, WY ¹

Aspen Country, WY ¹

Aspen Highlands Estates, WY

Atlantic City, WY ¹

Backcountry, WY

Baker Canyon, WY ¹

Battle Lake Subdivision, WY ¹

Bear River Divide, WY ¹

Beaver Creek, WY ¹

Beaver Creek Area, WY

Big Block Cabins, WY ¹

Big Goose Creek, WY

Big Goose Creek Wc, WY

Big Sandy, WY ¹

Bighorn Sum. Homes, WY

Bill-Dry Creek, WY

Billy Creek Homes/Cab, WY

Bitter Creek Area, WY

Black Buttes, WY ¹

Bondurant, WY ¹

Boulder, WY ¹

Boulder Lake, WY ¹

Boulder Ridge Estates, WY

Boxelder, WY

Breakneck, WY ¹

Briar Patch, The, WY

Brunson Subdivision, WY

Bryan Flats, WY

Buckhorn, WY ¹

Buffalo Valley, WY

Burgess Jct. Lodge, WY

Burgess Work Center, WY

Buttes, The, WY

Camp Comfort, WY

Camp Grace, WY ¹

Canyon Club, WY

Canyon Creek Cabins #1, WY

Canyon Creek Cabins #2, WY

Canyon Creek Country, WY

Canyon Junction, WY

Carlisle, WY ¹

Casper, WY

Casper Mountain, WY ¹

Cedar Hills, WY

Cedar Mountain, WY ¹

Centennial, WY ¹

Cindde Bar Flats, WY

Cloudstreet Ranches, WY

Cokeville, WY

Cold Springs, WY

Colter Bay, WY ¹

Corner Mountain Estates, WY

Cottonwood Acres, WY

Cottonwood Canyon, WY

Cottonwood Creek, WY ¹

Cottonwood Park, WY

Cow Creek, WY

Crandall, WY ¹

Crooked Creek, WY ¹

Crystal Lake, WY

Curt Gowdy, WY

Daniel, WY ¹

Deer Haven, WY

Devils Tower, WY ¹

Devils Tower Visitor Center, WY ¹

Dome Lake, WY

Downy Park, WY

Dry Fork, WY

Dull Knife Reservoir, WY

E. Gros Ventre Butte, WY

E. Upton, WY ¹

Elk Ridge Estates, WY

Esterbrook, WY ¹

Evanston North, WY ¹

Ferguson Canyon, WY ¹

Fish Creek, WY

Flagg Ranch, WY

Fletcher Park, WY

Flying X Ranch, WY

Fontenelle, WY

Forty Rod, WY ¹

Fox Park, WY

Foxborough, WY

Fren Park, WY ¹

French Creek, WY

Friend Park, WY ¹

Gilbert Creek, WY ¹

Glendo State Park, WY ¹,²

Granite Creek, WY ¹

Granite Springs, WY

Grave Springs, WY

Green Creek Subdivision, WY ¹

Greybull River, WY ¹

Guernsey State Park, WY ¹,²

Harriman, WY

Harris Park, WY ¹

Hazelton, WY

Hazelton Area (East), WY

Heck Of A Hill, WY ¹

Hess Mtn/Top Of Rockies, WY

Hoback, WY

Hoback Ranches, WY ¹

Hobble Creek, WY

Hog Island, WY

Homestead Park Subdivision, WY ¹

Hulett, WY ¹

Hunter Summer Homes, WY

Hwy 16/Hi Country Estate, WY

Hyatt Ranch Area, WY

Indian Paintbrush, WY

Jackson, WY

Jackson Lake Lodge, WY ¹

Jelm Mountain Ranchetts, WY

Jim Bridger, WY ¹

Jy Ranch, WY ¹

Keyhole, WY ¹

Keystone, WY

Kortes Dam Camp, WY

Lake Creek Resort, WY

Lease Cabins & Camp, WY

Limestone Mountain Area, WY ¹

Little Big Horn Cabins, WY

Little Medicine, WY

Little Piney, WY

Loop Road, WY ¹

Lumen Creek, WY

M. Fork Clear Creek, WY

Mader Subdivision, WY

Mammoth, WY

Meadowlark, WY

Meadowlark Acres, WY

Meadowlark Lake Complex, WY

Meeks Cabin, WY ¹

Middle Fork Powder River, WY

Middle Mountain Estates, WY ¹

Moose Haven Subdivision, WY ¹

Mosiure Gulch, WY

Mountain Home, WY

Mountain Meadow, WY

N Fork Shoshone River, WY ¹

New Fork, WY ¹

New Haven, WY ¹

Newcastle, WY ¹

North Blacktail, WY ¹

North Fork, WY

Nugget, WY

Oberg Pass, WY

Odd Fellows Campground, WY

Oil Creek, WY ¹

Old Faithful, WY

Osage, WY ¹

Overlook Retreats, WY ¹

Owl Creek, WY

Pacific Creek, WY ¹

Painter Estates, WY ¹

Paradise Guest Ranch, WY

Park County, WY ¹

Piedmont, WY ¹

Pine Bluff, WY

Pine Creek Area On S Pass, WY ¹

Pine Creek Ski, WY

Pine Grove Estates, WY

Pine Horizon, WY

Pine Island, WY

Pinedale, WY ¹

Pines/Middle Fork, WY

Pocket Creek, WY ¹

Poison Creek, WY

Pomeroy Subdivision, WY

Porcupine R.S. & Cabins, WY

Porcupine Shell Wc's, WY

Porcupine Subdivision, WY ¹

Rabbit Creek, WY ¹

Rainbow Forest Estates, WY

Rambler, WY

Rattlesnake, WY

Red Top Meadows, WY

Remount, WY

Resorts, WY

Revised Lankford/Rinker, WY

Rice Subdivision, WY ¹

Rinker-Lankford Exchange, WY

Robertson, WY ¹

Rockaway Ranch, WY

Rocky Top Subdivision, WY

Round Hill Ranch, WY ¹

Ryan Park, WY ¹

S Fork Shoshone River, WY ¹

Sage Jct, WY

Sage Valley, WY

Sage Valley Subdivision, WY

Sand Creek, WY ¹

Saw Pine Cow Camp, WY

Seminoe Reservoir, WY

Shadow Mountain, WY ¹

Shell R.S. & Cabins, WY

Shoshone River, WY

Sierra Madre Ranch, WY

Signal Mountain, WY ¹

Silver Hills, WY

Sinks Canyon, WY ¹

Skyline Church Camp, WY

Snake, WY

Soda Butte, WY ¹

Solitude, WY

Somber Hill, WY

Sourdough, WY

South Fork Inn, WY

South Pass City, WY ¹

Spring Creek, WY

Star Valley, WY ¹

Story, WY ¹

Stumpy Ridge/Tepee, WY

Sundance, WY ¹

Sunlight, WY ¹

Sweetwater, WY ¹

Sylvan Bay, WY ¹

Te-Ke-Ki Subdivision #1, WY

Ten Sleep Preserve, WY

Tensleep-Spec. Use Area, WY ¹

Teton Valley Ranch, WY

Teton Village, WY

The Bend, WY ¹

Tongue River/Dayton, WY

Town Of Morgan, WY

Twin Creek, WY

Tyrell Wc & Cabins, WY ¹

Union Pass Area, WY ¹

Upper Green, WY ¹

Upper Wood River, WY ¹

Upton, WY ¹

Urban Thermopolis, WY

Vedauwoo Springs, WY

W. Gros Ventre Butte, WY

Wapiti Subdivision, WY ¹

Warm Springs, WY ¹

Warm Springs Mountain, WY ¹

Water Valley Ranch, WY

Waywest Subdivision, WY ¹

West Slope Sierra Madre, WY ¹

West Thumb, WY

White Rock Estates, WY ¹

Wigwam, WY

Wild River, WY ¹

Wildwood Camp, WY

Willow Creek, WY

Wind River, WY ¹

Windsong Ranch, WY

Wold Subdivision, WY

Wood River, WY ¹

Woodedge, WY

Woods Landing Leases, WY

Wyoming Handicap, WY

[FR Doc. 01-20592 Filed 8-16-01; 8:45 am]

BILLING CODE 3410-11-P; 4310-70-P